POSTAL SERVICE

Changes in Domestic Rates, Fees, and Mail Classifications

AGENCY: Postal Service.

ACTION: Notice of implementation of changes to domestic rates, fees, and the Domestic Mail Classification Schedule.

SUMMARY: This notice sets forth the changes to domestic rates, fees, and the Domestic Mail Classification Schedule to be implemented as a result of the Decision of the Governors of the United States Postal Service on the Recommended Decision of the Postal Rate Commission on Postal Rate and Fee Changes, Docket No. R2001-1 (April 8, 2002).

EFFECTIVE DATE: June 30, 2002, unless otherwise noted.

FOR FURTHER INFORMATION CONTACT: Daniel J. Foucheaux, Jr., (202) 268-2989.

SUPPLEMENTARY INFORMATION: On September 24, 2001, pursuant to its authority under 39 U.S.C. 3621, et seq., the Postal Service filed with the Postal Rate Commission (PRC) a Request for a Recommended Decision on Proposed Changes in Rates of Postage and Fees for Postal Services (Request). The PRC designated the filing as Docket No. R2001-1. On March 22, 2002, pursuant to its authority under 39 U.S.C. 3624, the PRC issued its Recommended Decision on the Postal Service's Request to the Governors of the Postal Service.

Pursuant to 39 U.S.C. 3625, the Governors of the United States Postal Service acted on the PRC's recommendations on April 8, 2002. Decision of the Governors of the United States Postal Service on the Recommended Decision of the Postal Rate Commission on Postal Rate and Fee Changes, Docket No. R2001-1 (April 8, 2002). The Governors approved the classification, fee, and rate changes recommended by the Commission. The attachments to the Governors' Decision, setting forth the classification, fee, and rate changes ordered into effect by the Governors, are set forth below.

In accordance with the Decision of the Governors and Resolution No. 02-7 of the Board of Governors, the Postal Service hereby gives notice that the classification, fee, and rate changes set forth below will become effective at 12:01 a.m. on June 30, 2002, with the exception of the changes to Fee Schedule 945 related to the electronic option for return receipt service. Changes to schedule 945 related to the electronic option for return receipt service will become effective as soon as possible, at a time and date to be determined subsequently by the Board of Governors. Implementing regulations also become effective on June 30, 2002, as noted in a separate notice in the Federal Register. Also, in the future, the Postal Service will undertake to request a change to DMCS section 443.1a to delete the words “of ten cents”, since the appropriate postage (12.4 cents) is specified in Rate Schedules 421 note 6 and 423 note 2.

Attachment A to the Decision of the Governors of the United States Postal Service on the Recommended Decision of the Postal Rate Commission on Postal Rate and Fee Changes

[Docket No. R2001-1]

April 8, 2002.

Express Mail Schedules 121, 122 and 123
Weight (lbs.) | Schedule 121 same day airport service | Schedule 122 custom designed | Schedule 123 next day & second day PO to PO | Schedule 123 next day & second day PO to addressee
0.5 |  | $10.70 | $10.40 | $13.65
1 |  | 14.90 | 14.60 | 17.85
2 |  | 14.90 | 14.60 | 17.85
3 |  | 18.10 | 17.80 | 21.05
4 |  | 21.25 | 20.95 | 24.20
5 |  | 24.35 | 24.05 | 27.30
6 |  | 27.45 | 27.15 | 30.40
7 |  | 30.50 | 30.20 | 33.45
8 |  | 31.80 | 31.50 | 34.75
9 |  | 33.25 | 32.95 | 36.20
10 |  | 34.55 | 34.25 | 37.50
11 |  | 36.25 | 35.95 | 39.20
12 |  | 38.90 | 38.60 | 41.85
13 |  | 40.80 | 40.50 | 43.75
14 |  | 41.85 | 41.55 | 44.80
15 |  | 43.15 | 42.85 | 46.10
16 |  | 44.70 | 44.40 | 47.65
17 |  | 46.20 | 45.90 | 49.15
18 |  | 47.60 | 47.30 | 50.55
19 |  | 49.05 | 48.75 | 52.00
20 |  | 50.50 | 50.20 | 53.45
21 |  | 51.95 | 51.65 | 54.90
22 |  | 53.40 | 53.10 | 56.35
23 |  | 54.90 | 54.60 | 57.85
24 |  | 56.30 | 56.00 | 59.25
25 |  | 57.70 | 57.40 | 60.65
26 |  | 59.20 | 58.90 | 62.15
27 |  | 60.60 | 60.30 | 63.55
28 |  | 62.10 | 61.80 | 65.05
29 |  | 63.55 | 63.25 | 66.50
30 |  | 65.00 | 64.70 | 67.95
31 |  | 66.45 | 66.15 | 69.40
32 |  | 67.95 | 67.65 | 70.90
33 |  | 69.30 | 69.00 | 72.25
34 |  | 70.85 | 70.55 | 73.80
35 |  | 72.20 | 71.90 | 75.15
36 |  | 73.75 | 73.45 | 76.70
37 |  | 75.40 | 75.10 | 78.35
38 |  | 77.20 | 76.90 | 80.15
39 |  | 78.95 | 78.65 | 81.90
40 |  | 80.75 | 80.45 | 83.70
41 |  | 82.55 | 82.25 | 85.50
42 |  | 84.40 | 84.10 | 87.35
43 |  | 86.10 | 85.80 | 89.05
44 |  | 87.85 | 87.55 | 90.80
45 |  | 89.45 | 89.15 | 92.40
46 |  | 90.80 | 90.50 | 93.75
47 |  | 92.45 | 92.15 | 95.40
48 |  | 93.90 | 93.60 | 96.85
49 |  | 95.30 | 95.00 | 98.25
50 |  | 96.80 | 96.50 | 99.75
51 |  | 98.40 | 98.10 | 101.35
52 |  | 99.80 | 99.50 | 102.75
53 |  | 101.35 | 101.05 | 104.30
54 |  | 102.80 | 102.50 | 105.75
55 |  | 104.30 | 104.00 | 107.25
56 |  | 105.85 | 105.55 | 108.80
57 |  | 107.30 | 107.00 | 110.25
58 |  | 108.85 | 108.55 | 111.80
59 |  | 110.45 | 110.15 | 113.40
60 |  | 112.20 | 111.90 | 115.15
61 |  | 114.10 | 113.80 | 117.05
62 |  | 115.85 | 115.55 | 118.80
63 |  | 117.55 | 117.25 | 120.50
64 |  | 119.50 | 119.20 | 122.45
65 |  | 121.20 | 120.90 | 124.15
66 |  | 123.10 | 122.80 | 126.05
67 |  | 124.80 | 124.50 | 127.75
68 |  | 126.70 | 126.40 | 129.65
69 |  | 128.45 | 128.15 | 131.40
70 |  | 130.25 | 129.95 | 133.20
Schedules 121, 122 and 123 Notes
1. The applicable ½-pound rate is charged for matter sent in a flat-rate envelope provided by the Postal Service.
2. Add $12.50 for each pickup stop.
3. Add $12.50 for each Custom Designed delivery stop.

First-Class Mail Rate Schedule 221
[Letters and Sealed Parcels]
| Rate
Single-Piece:
First Ounce | $0.370
Additional ounces | 0.230
Nonmachinable surcharge | 0.120
Qualified Business Reply Mail | 0.340
Presorted:
First ounce | 0.352
Additional ounces | 0.225
Nonmachinable surcharge | 0.055
Heavy piece discount, per-piece | 0.041
Automation Letters:
Mixed AADC | 0.309
AADC | 0.301
3-digit | 0.292
5-digit | 0.278
Carrier route | 0.275
Additional ounces | 0.225
Heavy piece discount, per-piece | 0.041
Automation Flats:
Mixed ADC | 0.341
ADC | 0.333
3-digit | 0.322
5-digit | 0.302
Additional ounces | 0.225
Nonmachinable surcharge | 0.055
Heavy piece discount, per-piece | 0.041
Schedule 221 Notes
1. A mailing fee of $150.00 must be paid once each year at each office of mailing by any person who mails at presorted or automation rates. Payment of the fee allows the mailer to mail at any First-Class Mail rate. For presorted or automation pieces weighing more than 2 ounces, subtract 4.1 cents per-piece.
2. First-Class Mail rates apply through 13 ounces. Heavier pieces are subject to Priority Mail rates.

First-Class Mail Rate Schedule 222
[Cards]
| Rate
Regular:
Single-piece cards | $0.230
Qualified Business Reply Mail | 0.200
Presorted: | 0.212
Automation:
Mixed AADC | 0.194
AADC | 0.187
3-digit | 0.183
5-digit | 0.176
Carrier route | 0.170
Schedule 222 Notes
1. A mailing fee of $150.00 must be paid once each year at each office of mailing by any person who mails at presorted or automation rates. Payment of the fee allows the mailer to mail at any First-Class Mail rate.

First-Class Mail Schedule 223
[Priority Mail]
Weight (lbs.) | Local, Zones 1, 2 & 3 | Zone 4 | Zone 5 | Zone 6 | Zone 7 | Zone 8
1 | $3.85 | $3.85 | $3.85 | $3.85 | $3.85 | $3.85
2 | 3.95 | 4.55 | 4.90 | 5.05 | 5.40 | 5.75
3 | 4.75 | 6.05 | 6.85 | 7.15 | 7.85 | 8.55
4 | 5.30 | 7.05 | 8.05 | 8.50 | 9.45 | 10.35
5 | 5.85 | 8.00 | 9.30 | 9.85 | 11.00 | 12.15
6 | 6.30 | 8.85 | 9.90 | 10.05 | 11.30 | 12.30
7 | 6.80 | 9.80 | 10.65 | 11.00 | 12.55 | 14.05
8 | 7.35 | 10.75 | 11.45 | 11.95 | 13.80 | 15.75
9 | 7.90 | 11.70 | 12.20 | 12.90 | 15.05 | 17.50
10 | 8.40 | 12.60 | 13.00 | 14.00 | 16.30 | 19.20
11 | 8.95 | 13.35 | 13.75 | 15.15 | 17.55 | 20.90
12 | 9.50 | 14.05 | 14.50 | 16.30 | 18.80 | 22.65
13 | 10.00 | 14.75 | 15.30 | 17.50 | 20.05 | 24.35
14 | 10.55 | 15.45 | 16.05 | 18.60 | 21.25 | 26.05
15 | 11.05 | 16.20 | 16.85 | 19.75 | 22.50 | 27.80
16 | 11.60 | 16.90 | 17.60 | 20.85 | 23.75 | 29.50
17 | 12.15 | 17.60 | 18.35 | 22.05 | 25.00 | 31.20
18 | 12.65 | 18.30 | 19.30 | 23.15 | 26.25 | 32.95
19 | 13.20 | 19.00 | 20.20 | 24.30 | 27.50 | 34.65
20 | 13.75 | 19.75 | 21.15 | 25.35 | 28.75 | 36.40
21 | 14.25 | 20.45 | 22.05 | 26.55 | 30.00 | 38.10
22 | 14.80 | 21.15 | 22.95 | 27.65 | 31.20 | 39.80
23 | 15.30 | 21.85 | 23.90 | 28.80 | 32.45 | 41.55
24 | 15.85 | 22.55 | 24.85 | 29.90 | 33.70 | 43.25
25 | 16.40 | 23.30 | 25.75 | 31.10 | 34.95 | 44.95
26 | 16.90 | 24.00 | 26.60 | 32.25 | 36.20 | 46.70
27 | 17.45 | 24.70 | 27.55 | 33.35 | 37.45 | 48.40
28 | 18.00 | 25.40 | 28.50 | 34.50 | 38.70 | 50.15
29 | 18.50 | 26.15 | 29.45 | 35.60 | 39.95 | 51.85
30 | 19.05 | 26.85 | 30.35 | 36.80 | 41.20 | 53.55
31 | 19.55 | 27.55 | 31.20 | 37.85 | 42.40 | 55.30
32 | 20.10 | 28.25 | 32.15 | 39.00 | 43.65 | 57.00
33 | 20.65 | 28.95 | 33.10 | 40.10 | 44.90 | 58.70
34 | 21.15 | 29.70 | 34.00 | 41.25 | 46.15 | 60.45
35 | 21.70 | 30.40 | 34.95 | 42.40 | 47.40 | 62.15
36 | 22.25 | 31.10 | 35.85 | 43.55 | 48.65 | 63.85
37 | 22.75 | 31.95 | 36.80 | 44.65 | 49.90 | 65.60
38 | 23.30 | 32.65 | 37.70 | 45.85 | 51.15 | 67.30
39 | 23.75 | 33.50 | 38.65 | 47.00 | 52.40 | 69.05
40 | 24.25 | 34.30 | 39.60 | 48.10 | 53.60 | 70.75
41 | 24.70 | 35.00 | 40.45 | 49.25 | 54.85 | 72.45
42 | 25.20 | 35.85 | 41.35 | 50.30 | 56.15 | 74.20
43 | 25.65 | 36.60 | 42.30 | 51.50 | 57.40 | 75.90
44 | 26.15 | 37.40 | 43.25 | 52.60 | 58.70 | 77.60
45 | 26.60 | 38.20 | 44.15 | 53.75 | 59.95 | 79.35
46 | 27.10 | 39.00 | 45.05 | 54.85 | 61.20 | 81.05
47 | 27.55 | 39.75 | 46.00 | 56.05 | 62.50 | 82.75
48 | 28.05 | 40.60 | 46.95 | 57.20 | 63.75 | 84.50
49 | 28.50 | 41.35 | 47.80 | 58.30 | 65.05 | 86.20
50 | 28.95 | 42.15 | 48.75 | 59.45 | 66.30 | 87.95
51 | 29.45 | 42.95 | 49.65 | 60.55 | 67.55 | 89.65
52 | 29.90 | 43.75 | 50.60 | 61.75 | 68.80 | 91.35
53 | 30.40 | 44.50 | 51.50 | 62.85 | 70.05 | 93.10
54 | 30.85 | 45.25 | 52.45 | 63.95 | 71.30 | 94.80
55 | 31.35 | 46.10 | 53.40 | 65.05 | 72.50 | 96.50
56 | 31.80 | 46.85 | 54.25 | 66.25 | 73.75 | 98.25
57 | 32.30 | 47.65 | 55.15 | 67.35 | 75.00 | 99.95
58 | 32.75 | 48.45 | 56.10 | 68.50 | 76.25 | 101.65
59 | 33.25 | 49.25 | 57.05 | 69.60 | 77.50 | 103.40
60 | 33.70 | 50.00 | 58.00 | 70.80 | 78.75 | 105.10
61 | 34.20 | 50.85 | 58.85 | 71.95 | 80.00 | 106.85
62 | 34.65 | 51.55 | 59.80 | 73.05 | 81.25 | 108.55
63 | 35.15 | 52.40 | 60.75 | 74.20 | 82.50 | 110.25
64 | 35.60 | 53.20 | 61.70 | 75.35 | 83.70 | 112.00
65 | 36.10 | 53.90 | 62.50 | 76.45 | 84.95 | 113.70
66 | 36.55 | 54.75 | 63.45 | 77.55 | 86.20 | 115.40
67 | 37.05 | 55.60 | 64.40 | 78.70 | 87.45 | 117.15
68 | 37.50 | 56.30 | 65.35 | 79.80 | 88.70 | 118.85
69 | 38.00 | 57.10 | 66.25 | 81.00 | 89.95 | 120.55
70 | 38.45 | 57.95 | 67.15 | 82.10 | 91.20 | 122.30
Schedule 223 Notes
1. The 1-pound rate is charged for matter sent in a flat-rate envelope provided by the Postal Service.
2. Add $12.50 for each pickup stop.
3. EXCEPTION: Parcels weighing less than 15 pounds, measuring over 84 inches in length and girth combined, are chargeable with a minimum rate equal to that for a 15-pound parcel for the zone to which addressed.
4. Pieces presented in mailings of at least 300 pieces or at least 500 pounds and meeting applicable Postal Service regulations for Priority Mail ADC, 3-digit and/or 5-digit presorts receive the applicable discounts of 12, 16, or 25 cents per-piece, respectively (experimental). A $150.00 annual presort fee applies.

Standard Mail Rate Schedule 321A
[Regular Presorted Categories]
| Rate
Letter, minimum piece rate:
Piece Rate
Basic | $0.268
3/5-digit | 0.248
Destination Entry Discounts
BMC | 0.021
SCF | 0.026
Nonletters, minimum piece rate:
Piece Rate
Basic | 0.344
3/5-digit | 0.288
Destination Entry Discounts
BMC | 0.021
SCF | 0.026
Nonletters, piece and pound rate:
Piece Rate
Basic | 0.198
3/5-digit | 0.142
Pound Rate | 0.708
Destination Entry Discounts (off pound rate)
BMC | 0.100
SCF | 0.125
Schedule 321A Notes
1. A fee of $150.00 must be paid each 12-month period for each bulk mailing permit.
2. Residual shape pieces are subject to a surcharge of $0.23 per-piece. For parcel barcode discount, deduct $0.03 per-piece (machinable parcels only).
3. For nonletters, the mailer pays either the minimum piece rate or the pound rate, whichever is higher.
4. Nonmachinable letters are subject to a $0.04 nonmachinable surcharge.

Standard Mail Rate Schedule 321B
[Regular Automation CategorIes]
| Rate
Letters, minimum piece rate:
Piece Rate
Mixed AADC | $0.219
AADC | 0.212
3-digit | 0.203
5-digit | 0.190
Destination Entry Discounts
BMC | 0.021
SCF | 0.026
Flats, minimum piece rate:
Piece Rate
Basic | 0.300
3/5-digit | 0.261
Destination Entry Discounts
BMC | 0.021
SCF | 0.026
Flats, piece and pound rate:
Piece Rate
Basic | 0.154
3/5-digit | 0.115
Pound Rate | 0.708
Destination Entry Discounts (off pound rate)
BMC | 0.100
SCF | 0.125
Schedule 321B Notes
1. A fee of $150.00 must be paid once each 12-month period for each bulk mailing permit.
2. Letters that weigh more than 3.3 ounces but not more than 3.5 ounces pay the nonletter piece and pound rate but receive a discount off the piece rate equal to the applicable nonletter minimum piece rate minus the applicable letter minimum piece rate corresponding to the correct presort tier.
3. For nonletters, the mailer pays either the minimum piece rate or the pound rate, whichever is higher.

Standard Mail Rate Schedule 322
[Enhanced Carrier Route]
| Rate
Letters, minimum piece rate:
Piece Rate
Basic | $0.194
High density | 0.164
Saturation | 0.152
Automation Basic | 0.171
Destination Entry Discounts
BMC | 0.021
SCF | 0.026
DDU | 0.032
Nonletters, minimum piece rate:
Piece Rate
Basic | 0.194
High density | 0.169
Saturation | 0.160
Destination Entry Discounts
BMC | 0.021
SCF | 0.026
DDU | 0.032
Nonletters, piece and pound rate:
Piece Rate
Basic | 0.068
High density | 0.043
Saturation | 0.034
Pound Rate | 0.610
Destination Entry Discounts (off pound rate)
BMC | 0.100
SCF | 0.125
DDU | 0.157
Schedule 322 Notes
1. A fee of $150.00 must be paid each 12-month period for each bulk mailing permit.
2. Residual shape pieces are subject to a surcharge of $0.20 per-piece.
3. For nonletters, the mailer pays either the minimum piece rate or the pound rate, whichever is higher.
4. Pieces that otherwise meet the requirements for basic automation, high density, and saturation letter rates that weigh more than 3.3 ounces but not more than 3.5 ounces pay the nonletter piece and pound rate but receive a discount off the piece rate equal to the applicable nonletter minimum piece rate minus the applicable letter minimum piece rate corresponding to the correct presort tier.
5. For letter-size pieces, not meeting the automation requirements specified by the Postal Service, the mailer pays the nonletter rate for the applicable density tier.

Standard Mail Rate Schedule 323A
[Nonprofit Presorted Categories]
| Rate
Letters, minimum piece rate
Piece Rate
Basic | $0.165
3/5-digit | 0.153
Destination Entry Discounts
BMC | 0.021
SCF | 0.026
Nonletters, minimum piece rate
Piece Rate
Basic | 0.230
3/5-digit | 0.183
Destination Entry Discounts
BMC | 0.021
SCF | 0.026
Nonletters, piece and pound rate
Piece Rate
Basic | 0.110
3/5-digit | 0.063
Pound Rate | 0.584
Destination Entry Discounts (off pound rate)
BMC | 0.100
SCF | 0.125
Schedule 323A Notes
1. A fee of $150.00 must be paid each 12-month period for each bulk mailing permit.
2. Residual shape pieces are subject to a surcharge of $0.23 per-piece. For parcel barcode discount, deduct $0.03 per-piece (nonmachinable parcels only).
3. For nonletters, the mailer pays either the minimum piece rate or the pound rate, whichever is higher.
4. Nonmachinable letters are subject to a $0.02 nonmachinable surcharge.

Standard Mail Rate Schedule 323B
[Nonprofit Automation Categories]
| Rate
Letters, minimum piece rate:
Piece Rate
Mixed AADC | $0.144
AADC | 0.136
3-digit | 0.129
5-digit | 0.114
Destination Entry Discounts
BMC | 0.021
SCF | 0.026
Flats, minimum piece rate:
Piece Rate
Basic | 0.189
3/5-digit | 0.166
Destination Entry Discounts
BMC | 0.021
SCF | 0.026
Flats, piece and pound rate:
Piece Rate
Basic | 0.069
3/5-digit | 0.046
Pound Rate | 0.584
Destination Entry Discounts (off pound rate)
BMC | 0.100
SCF | 0.125
Schedule 323B Notes
1. A fee of $150.00 must be paid each 12-month period for each bulk mailing permit.
2. Letters that weigh more than 3.3 ounces but not more than 3.5 ounces pay the nonletter piece and pound rate but receive a discount off the piece rate equal to the applicable nonletter minimum piece rate minus the applicable letter minimum piece rate corresponding to the correct presort tier.
3. For nonletters, the mailer pays either the minimum piece rate or the pound rate, whichever is higher.

Standard Mail Rate Schedule 324
[Nonprofit Enhanced Carrier Route]
| Rate
Letters, minimum piece rate:
Piece Rate
Basic | $ 0.126
High density | 0.102
Saturation | 0.095
Automation Basic | 0.111
Destination Entry Discounts
BMC | 0.021
SCF | 0.026
DDU | 0.032
Nonletters, minimum piece rate:
Piece Rate
Basic | 0.126
High density | 0.110
Saturation | 0.104
Destination Entry Discounts
BMC | 0.021
SCF | 0.026
DDU | 0.032
Nonletters, piece and pound rate:
Piece Rate
Basic | 0.050
High density | 0.034
Saturation | 0.028
Pound Rate | 0.370
Destination Entry Discounts (off pound rate)
BMC | 0.100
SCF | 0.125
DDU | 0.157
Schedule 324 Notes
1. A fee of $150.00 must be paid each 12-month period for each bulk mailing permit.
2. Residual shape pieces are subject to a surcharge of $0.20 per-piece.
3. For nonletters, the mailer pays either the minimum piece rate or the pound rate, whichever is higher.
4. Pieces that otherwise meet the requirements for basic automation, high density, and saturation letter rates that weigh more than 3.3 ounces but not more than 3.5 ounces pay the nonletter piece and pound rate but receive a discount off the piece rate equal to the applicable nonletter minimum piece rate minus the applicable letter minimum piece rate corresponding to the correct density tier.
5. For letter-size pieces, not meeting the automation requirements specified by the Postal Service, the mailer pays the nonletter rate for the applicable density tier.

Periodicals Rate Schedule 421
[Outside County (Including Science of Agriculture)]
| Postage rate unit | Rate
Outside County Advertising:
Destinating delivery unit | Pound | $0.158
Destinating SCF | Pound | 0.203
Destinating ADC | Pound | 0.223
Zones 1 & 2 | Pound | 0.248
Zone 3 | Pound | 0.267
Zone 4 | Pound | 0.315
Zone 5 | Pound | 0.389
Zone 6 | Pound | 0.466
Zone 7 | Pound | 0.559
Zone 8 | Pound | 0.638
Nonadvertising |  | 0.193
Science of Agriculture Advertising:
Delivery unit | Pound | 0.119
SCF | Pound | 0.152
DADC | Pound | 0.167
Zones 1 & 2 | Pound | 0.186
Zone 3 | Pound | 0.267
Zone 4 | Pound | 0.315
Zone 5 | Pound | 0.389
Zone 6 | Pound | 0.466
Zone 7 | Pound | 0.559
Zone 8 | Pound | 0.638
Nonadvertising |  | 0.193
Outside County and Science of Agriculture Basic:
Nonautomation | Piece | 0.373
Automation letter | Piece | 0.281
Automation flat | Piece | 0.325
3-Digit:
Nonautomation | Piece | 0.324
Automation letter | Piece | 0.249
Automation flat | Piece | 0.283
5-Digit:
Nonautomation | Piece | 0.256
Automation letter | Piece | 0.195
Automation flat | Piece | 0.226
Carrier Route:
Basic | Piece | 0.163
High density | Piece | 0.131
Saturation | Piece | 0.112
Discounts:
Percentage editorial discount | Piece | 0.00074
Worksharing discount DDU | Piece | 0.018
Worksharing discount DSCF | Piece | 0.008
Worksharing discount DADC | Piece | 0.002
Worksharing discount pallets | Piece | 0.005
Worksharing dropship pallet discount |  | 0.010
Schedule 421 Notes
1. The rates in this schedule also apply to Nonprofit (DMCS Section 422.2) and Classroom rate categories. These categories receive a 5 percent discount on all components of postage except advertising pounds. Moreover, the 5 percent discount does not apply to commingled nonsubscriber, nonrequestor, complimentary, and sample copies in excess of the 10 percent allowance under DMCS sections 412.34 and 413.42, or to Science of Agriculture mail.
2. Rates do not apply to otherwise Outside County mail that qualifies for the Within County rates in Schedule 423.
3. Charges are computed by adding the appropriate per-piece charge to the sum of the nonadvertising pound portion and the advertising pound portion, as applicable.
4. For postage calculations, multiply the proportion of nonadvertising content by this factor and subtract from the applicable piece rate.
5. Advertising pound rate is not applicable to qualifying Nonprofit and Classroom publications containing 10 percent or less advertising content.
6. For a Ride-Along item enclosed with or attached to a periodical, add $0.124 per copy.

Periodicals Rate Schedule 423
[Within County]
| Postage rate unit | Rate
Delivery Unit | Pound | $0.112
All Other Zones | Pound | 0.146
Basic:
Nonautomation | Piece | 0.106
Automation letter | Piece | 0.050
Automation flat | Piece | 0.077
3-Digit:
Nonautomation | Piece | 0.097
Automation letter | Piece | 0.048
Automation flat | Piece | 0.073
5-Digit:
Nonautomation | Piece | 0.087
Automation letter | Piece | 0.046
Automation flat | Piece | 0.067
Carrier Route:
Basic | Piece | 0.050
High density | Piece | 0.034
Saturation | Piece | 0.028
Discounts:
Worksharing discount DDU | Piece | 0.006
Schedule 423 Notes
1. Charges are computed by adding the appropriate per-piece charge to the appropriate pound charge.
2. For a Ride-Along item enclosed with or attached to a periodical, add $0.124 per copy.

Package Services Rate Schedule 521.2A
[Parcel Post Inter-BMC Rates]
Weight (lbs.) | Zones 1&2 | Zone 3 | Zone 4 | Zone 5 | Zone 6 | Zone 7 | Zone 8
1 | $3.69 | $3.75 | $3.75 | $3.75 | $3.75 | $3.75 | $3.75
2 | 3.85 | 3.85 | 4.14 | 4.14 | 4.49 | 4.49 | 4.49
3 | 4.65 | 4.65 | 5.55 | 5.65 | 5.71 | 5.77 | 6.32
4 | 4.86 | 5.20 | 6.29 | 6.93 | 7.14 | 7.20 | 7.87
5 | 5.03 | 5.71 | 6.94 | 7.75 | 8.58 | 8.64 | 9.43
6 | 5.63 | 6.01 | 7.44 | 8.50 | 9.52 | 9.90 | 11.49
7 | 5.80 | 6.28 | 7.91 | 9.20 | 10.35 | 11.39 | 12.83
8 | 5.98 | 6.53 | 8.30 | 9.84 | 11.11 | 12.54 | 15.04
9 | 6.11 | 6.76 | 8.74 | 10.45 | 11.83 | 13.38 | 17.04
10 | 6.28 | 7.57 | 9.10 | 11.01 | 12.50 | 14.17 | 18.14
11 | 6.41 | 7.80 | 9.47 | 11.54 | 13.13 | 14.92 | 19.15
12 | 6.54 | 8.01 | 9.80 | 12.04 | 13.72 | 15.62 | 20.10
13 | 6.67 | 8.19 | 10.12 | 12.51 | 14.28 | 16.27 | 20.99
14 | 6.80 | 8.42 | 10.43 | 12.95 | 14.81 | 16.90 | 21.84
15 | 6.92 | 8.61 | 10.73 | 13.38 | 15.31 | 17.49 | 22.64
16 | 7.02 | 8.79 | 11.00 | 13.78 | 15.79 | 18.05 | 23.41
17 | 7.15 | 8.94 | 11.28 | 14.16 | 16.24 | 18.59 | 24.13
18 | 7.25 | 9.11 | 11.52 | 14.52 | 16.68 | 19.09 | 24.82
19 | 7.37 | 9.28 | 11.77 | 14.87 | 17.09 | 19.58 | 25.48
20 | 7.46 | 9.43 | 11.98 | 15.20 | 17.48 | 20.05 | 26.12
21 | 7.57 | 9.59 | 12.20 | 15.52 | 17.86 | 20.49 | 26.72
22 | 7.66 | 9.72 | 12.42 | 15.82 | 18.22 | 20.92 | 27.30
23 | 7.76 | 9.89 | 12.65 | 16.11 | 18.57 | 21.32 | 27.85
24 | 7.83 | 10.01 | 12.83 | 16.39 | 18.90 | 21.72 | 28.39
25 | 7.93 | 10.14 | 13.03 | 16.66 | 19.22 | 22.09 | 28.90
26 | 8.01 | 10.27 | 13.21 | 16.92 | 19.53 | 22.46 | 29.39
27 | 8.11 | 10.40 | 13.38 | 17.17 | 19.83 | 22.81 | 29.87
28 | 8.18 | 10.52 | 13.58 | 17.41 | 20.11 | 23.14 | 30.32
29 | 8.27 | 10.65 | 13.75 | 17.64 | 20.39 | 23.47 | 30.76
30 | 8.35 | 10.76 | 13.90 | 17.87 | 20.65 | 23.78 | 31.19
31 | 8.44 | 10.86 | 14.06 | 18.08 | 20.91 | 24.08 | 31.60
32 | 8.50 | 10.99 | 14.22 | 18.29 | 21.16 | 24.37 | 32.00
33 | 8.58 | 11.10 | 14.38 | 18.49 | 21.40 | 24.65 | 32.38
34 | 8.66 | 11.18 | 14.51 | 18.69 | 21.63 | 24.93 | 32.75
35 | 8.74 | 11.30 | 14.66 | 18.88 | 21.85 | 25.19 | 33.11
36 | 8.80 | 11.39 | 14.82 | 19.06 | 22.07 | 25.45 | 33.45
37 | 8.87 | 11.48 | 14.93 | 19.23 | 22.28 | 25.69 | 33.79
38 | 8.94 | 11.60 | 15.07 | 19.41 | 22.48 | 25.93 | 34.12
39 | 9.02 | 11.67 | 15.19 | 19.57 | 22.68 | 26.17 | 34.43
40 | 9.09 | 11.78 | 15.32 | 19.73 | 22.87 | 26.39 | 34.74
41 | 9.17 | 11.88 | 15.44 | 19.89 | 23.06 | 26.61 | 35.04
42 | 9.23 | 11.96 | 15.56 | 20.04 | 23.24 | 26.82 | 35.33
43 | 9.28 | 12.05 | 15.68 | 20.19 | 23.41 | 27.03 | 35.61
44 | 9.35 | 12.12 | 15.79 | 20.33 | 23.58 | 27.23 | 35.88
45 | 9.41 | 12.22 | 15.91 | 20.47 | 23.75 | 27.43 | 36.14
46 | 9.48 | 12.30 | 16.02 | 20.61 | 23.91 | 27.62 | 36.40
47 | 9.56 | 12.39 | 16.12 | 20.74 | 24.06 | 27.80 | 36.65
48 | 9.61 | 12.47 | 16.24 | 20.86 | 24.22 | 27.98 | 36.89
49 | 9.66 | 12.55 | 16.34 | 20.99 | 24.36 | 28.15 | 37.13
50 | 9.72 | 12.61 | 16.42 | 21.11 | 24.51 | 28.32 | 37.36
51 | 9.79 | 12.70 | 16.54 | 21.23 | 24.65 | 28.49 | 37.59
52 | 9.84 | 12.78 | 16.63 | 21.34 | 24.79 | 28.65 | 37.80
53 | 9.91 | 12.84 | 16.70 | 21.45 | 24.92 | 28.81 | 38.02
54 | 9.96 | 12.94 | 16.81 | 21.56 | 25.05 | 28.96 | 38.22
55 | 10.01 | 12.97 | 16.91 | 21.67 | 25.17 | 29.11 | 38.43
56 | 10.09 | 13.08 | 16.99 | 21.77 | 25.30 | 29.25 | 38.62
57 | 10.14 | 13.14 | 17.09 | 21.87 | 25.42 | 29.39 | 38.82
58 | 10.19 | 13.21 | 17.16 | 21.97 | 25.53 | 29.53 | 39.00
59 | 10.26 | 13.27 | 17.26 | 22.07 | 25.65 | 29.67 | 39.19
60 | 10.31 | 13.34 | 17.35 | 22.16 | 25.76 | 29.80 | 39.36
61 | 10.39 | 13.43 | 17.42 | 22.25 | 25.87 | 29.92 | 39.54
62 | 10.44 | 13.48 | 17.50 | 22.34 | 25.97 | 30.05 | 39.71
63 | 10.47 | 13.56 | 17.59 | 22.43 | 26.08 | 30.17 | 39.87
64 | 10.52 | 13.61 | 17.66 | 22.51 | 26.18 | 30.29 | 40.03
65 | 10.58 | 13.68 | 17.74 | 22.60 | 26.28 | 30.41 | 40.19
66 | 10.65 | 13.75 | 17.81 | 22.68 | 26.37 | 30.52 | 40.35
67 | 10.71 | 13.81 | 17.89 | 22.76 | 26.47 | 30.63 | 40.50
68 | 10.75 | 13.87 | 17.98 | 22.84 | 26.56 | 30.74 | 40.64
69 | 10.80 | 13.92 | 18.05 | 22.91 | 26.65 | 30.84 | 40.79
70 | 10.86 | 14.00 | 18.12 | 22.98 | 26.74 | 30.95 | 40.93
Oversized | 41.70 | 46.73 | 54.12 | 65.84 | 79.69 | 92.81 | 120.72
Schedule 521.2A Notes
1. For Origin Bulk Mail Center (OBMC) Presort Discount, deduct $1.17 per-piece.
2. For BMC Presort discount, deduct $0.28 per-piece.
3. For barcode discount, deduct $0.03 per-piece (machinable parcels only).
4. For nonmachinable parcels, add $2.75 per-piece.
5. Regardless of weight, any piece that measures more than 108 inches (but not more than 130 inches) in combined length and girth must pay the oversized rate.
6. Pieces exceeding 84 inches in length and girth combined and weighing less than 15 pounds are subject to a rate equal to that for a 15-pound parcel for the zone to which the parcel is addressed.
7. For each pickup stop, add $12.50.

Package Services Rate Schedule 521.2B
[Parcel Post Intra-BMC Rates]
Weight (lbs.) | Local Zone | Zones 1&2 | Zone 3 | Zone 4 | Zone 5
1 | $2.81 | $2.96 | $2.99 | $3.05 | $3.14
2 | 3.13 | 3.53 | 3.56 | 3.63 | 3.74
3 | 3.44 | 4.08 | 4.11 | 4.20 | 4.32
4 | 3.73 | 4.28 | 4.62 | 4.72 | 4.86
5 | 3.99 | 4.45 | 5.02 | 5.15 | 5.35
6 | 4.23 | 4.61 | 5.38 | 5.51 | 5.80
7 | 4.36 | 4.76 | 5.69 | 5.84 | 6.21
8 | 4.46 | 5.33 | 5.98 | 6.14 | 6.60
9 | 4.56 | 5.46 | 6.22 | 6.45 | 6.95
10 | 4.66 | 5.63 | 6.53 | 6.74 | 7.28
11 | 4.74 | 5.76 | 6.74 | 7.00 | 7.58
12 | 4.84 | 5.91 | 6.94 | 7.26 | 7.87
13 | 4.92 | 6.04 | 7.10 | 7.50 | 8.13
14 | 5.00 | 6.16 | 7.22 | 7.75 | 8.38
15 | 5.08 | 6.27 | 7.39 | 7.96 | 8.62
16 | 5.17 | 6.38 | 7.56 | 8.16 | 8.84
17 | 5.23 | 6.51 | 7.72 | 8.38 | 9.05
18 | 5.30 | 6.60 | 7.87 | 8.57 | 9.24
19 | 5.36 | 6.72 | 8.02 | 8.75 | 9.43
20 | 5.46 | 6.82 | 8.16 | 8.91 | 9.60
21 | 5.51 | 6.91 | 8.30 | 9.06 | 9.77
22 | 5.57 | 7.02 | 8.42 | 9.20 | 9.92
23 | 5.64 | 7.10 | 8.58 | 9.34 | 10.07
24 | 5.70 | 7.19 | 8.70 | 9.46 | 10.22
25 | 5.77 | 7.27 | 8.82 | 9.58 | 10.35
26 | 5.82 | 7.37 | 8.93 | 9.71 | 10.48
27 | 5.88 | 7.45 | 9.06 | 9.82 | 10.60
28 | 5.94 | 7.52 | 9.18 | 9.91 | 10.72
29 | 6.01 | 7.61 | 9.30 | 10.02 | 10.83
30 | 6.08 | 7.69 | 9.40 | 10.12 | 10.93
31 | 6.13 | 7.77 | 9.48 | 10.21 | 11.04
32 | 6.18 | 7.86 | 9.60 | 10.31 | 11.13
33 | 6.25 | 7.92 | 9.70 | 10.39 | 11.23
34 | 6.30 | 8.00 | 9.78 | 10.47 | 11.31
35 | 6.35 | 8.06 | 9.89 | 10.55 | 11.40
36 | 6.40 | 8.13 | 9.97 | 10.62 | 11.48
37 | 6.44 | 8.22 | 10.06 | 10.70 | 11.56
38 | 6.49 | 8.28 | 10.15 | 10.77 | 11.63
39 | 6.56 | 8.36 | 10.25 | 10.83 | 11.70
40 | 6.61 | 8.41 | 10.32 | 10.89 | 11.77
41 | 6.67 | 8.50 | 10.43 | 10.95 | 11.84
42 | 6.72 | 8.55 | 10.50 | 11.02 | 11.90
43 | 6.77 | 8.61 | 10.58 | 11.08 | 11.95
44 | 6.84 | 8.68 | 10.66 | 11.14 | 12.00
45 | 6.88 | 8.73 | 10.73 | 11.30 | 12.05
46 | 6.92 | 8.82 | 10.82 | 11.35 | 12.10
47 | 6.98 | 8.89 | 10.88 | 11.40 | 12.15
48 | 7.03 | 8.94 | 10.97 | 11.44 | 12.20
49 | 7.07 | 9.01 | 11.04 | 11.49 | 12.25
50 | 7.12 | 9.04 | 11.11 | 11.53 | 12.30
51 | 7.18 | 9.13 | 11.17 | 11.58 | 12.35
52 | 7.21 | 9.19 | 11.27 | 11.62 | 12.40
53 | 7.26 | 9.22 | 11.32 | 11.65 | 12.45
54 | 7.32 | 9.28 | 11.36 | 11.70 | 12.50
55 | 7.37 | 9.34 | 11.40 | 11.75 | 12.55
56 | 7.40 | 9.40 | 11.44 | 11.79 | 12.60
57 | 7.45 | 9.47 | 11.46 | 11.81 | 12.65
58 | 7.50 | 9.52 | 11.50 | 11.85 | 12.70
59 | 7.55 | 9.57 | 11.53 | 11.89 | 12.75
60 | 7.57 | 9.64 | 11.56 | 11.91 | 12.80
61 | 7.66 | 9.70 | 11.59 | 11.95 | 12.85
62 | 7.68 | 9.75 | 11.62 | 12.01 | 12.90
63 | 7.73 | 9.80 | 11.64 | 12.08 | 12.95
64 | 7.78 | 9.86 | 11.66 | 12.13 | 13.00
65 | 7.82 | 9.91 | 11.70 | 12.19 | 13.05
66 | 7.85 | 9.98 | 11.72 | 12.26 | 13.10
67 | 7.92 | 10.04 | 11.75 | 12.33 | 13.15
68 | 7.96 | 10.06 | 11.76 | 12.37 | 13.20
69 | 7.97 | 10.13 | 11.78 | 12.44 | 13.25
70 | 7.98 | 10.18 | 11.81 | 12.50 | 13.30
Oversized | 23.78 | 34.47 | 34.79 | 35.48 | 36.53
Schedule 521.2B Notes
1. For barcode discount, deduct $0.03 per-piece (machinable parcels only).
2. For nonmachinable parcels, add $1.35 per-piece.
3. Regardless of weight, any piece that measures more than 108 inches (but not more than 130 inches) in combined length and girth must pay the oversized rate.
4. Pieces exceeding 84 inches in length and girth combined and weighing less than 15 pounds are subject to a rate equal to that for a 15-pound parcel for the zone to which the parcel is addressed.
5. For each pickup stop, add $12.50.

Package Services Rate Schedule 521.2C
[Parcel Post Parcel Select Destination Bulk Mail Center Rates]
Weight (lbs.) | Zone: 1&2 | Zone: 3 | Zone: 4 | Zone: 5
1 | $2.01 | $2.26 | $2.49 | $3.09
2 | 2.24 | 2.76 | 3.19 | 3.69
3 | 2.49 | 3.27 | 3.84 | 4.28
4 | 2.72 | 3.75 | 4.41 | 4.81
5 | 2.94 | 4.20 | 4.82 | 5.30
6 | 3.15 | 4.60 | 5.16 | 5.75
7 | 3.34 | 4.96 | 5.47 | 6.18
8 | 3.53 | 5.32 | 5.76 | 6.56
9 | 3.71 | 5.64 | 6.05 | 6.91
10 | 3.88 | 5.97 | 6.71 | 7.24
11 | 4.04 | 6.27 | 6.96 | 7.54
12 | 4.20 | 6.56 | 7.22 | 7.84
13 | 4.35 | 6.80 | 7.46 | 8.10
14 | 4.50 | 6.92 | 7.71 | 8.35
15 | 4.64 | 7.08 | 7.92 | 8.58
16 | 4.77 | 7.24 | 8.13 | 8.81
17 | 4.91 | 7.39 | 8.35 | 9.01
18 | 5.03 | 7.54 | 8.53 | 9.21
19 | 5.16 | 7.68 | 8.72 | 9.40
20 | 5.28 | 7.82 | 8.88 | 9.56
21 | 5.40 | 7.96 | 9.02 | 9.73
22 | 5.51 | 8.08 | 9.17 | 9.89
23 | 5.62 | 8.23 | 9.31 | 10.05
24 | 5.73 | 8.34 | 9.43 | 10.18
25 | 5.84 | 8.46 | 9.55 | 10.32
26 | 5.94 | 8.56 | 9.67 | 10.45
27 | 6.05 | 8.69 | 9.78 | 10.57
28 | 6.14 | 8.81 | 9.88 | 10.68
29 | 6.24 | 8.92 | 10.00 | 10.79
30 | 6.34 | 9.02 | 10.09 | 10.90
31 | 6.43 | 9.10 | 10.17 | 11.01
32 | 6.52 | 9.21 | 10.27 | 11.11
33 | 6.61 | 9.30 | 10.36 | 11.19
34 | 6.70 | 9.39 | 10.43 | 11.28
35 | 6.78 | 9.49 | 10.52 | 11.37
36 | 6.87 | 9.94 | 10.60 | 11.45
37 | 6.95 | 10.03 | 10.66 | 11.53
38 | 7.03 | 10.12 | 10.74 | 11.60
39 | 7.11 | 10.21 | 10.80 | 11.68
40 | 7.19 | 10.29 | 10.86 | 11.74
41 | 7.27 | 10.40 | 10.92 | 11.80
42 | 7.34 | 10.47 | 10.99 | 11.87
43 | 7.42 | 10.56 | 11.05 | 12.16
44 | 7.49 | 10.63 | 11.11 | 12.45
45 | 7.56 | 10.69 | 11.26 | 12.76
46 | 7.63 | 10.79 | 11.31 | 13.06
47 | 7.70 | 10.85 | 11.36 | 13.37
48 | 7.77 | 10.94 | 11.41 | 13.69
49 | 7.84 | 11.01 | 11.46 | 14.01
50 | 7.91 | 11.08 | 11.50 | 14.35
51 | 7.97 | 11.15 | 11.55 | 14.68
52 | 8.04 | 11.23 | 11.59 | 15.02
53 | 8.10 | 11.28 | 11.63 | 15.38
54 | 8.16 | 11.33 | 11.68 | 15.74
55 | 8.23 | 11.37 | 11.73 | 15.89
56 | 8.29 | 11.40 | 11.75 | 15.96
57 | 8.35 | 11.43 | 11.78 | 16.06
58 | 8.41 | 11.47 | 11.82 | 16.14
59 | 8.47 | 11.50 | 11.85 | 16.21
60 | 8.52 | 11.53 | 11.88 | 16.30
61 | 8.58 | 11.56 | 11.92 | 16.38
62 | 8.64 | 11.59 | 11.98 | 16.44
63 | 8.69 | 11.61 | 12.05 | 16.52
64 | 8.75 | 11.64 | 12.10 | 16.59
65 | 8.80 | 11.67 | 12.16 | 16.65
66 | 8.86 | 11.70 | 12.24 | 16.74
67 | 8.91 | 11.72 | 12.29 | 16.79
68 | 8.96 | 11.73 | 12.34 | 16.86
69 | 9.01 | 11.75 | 12.40 | 16.93
70 | 9.06 | 11.77 | 12.47 | 16.99
Oversized | 18.14 | 24.33 | 32.81 | 34.10
Schedule 521.2C Notes
1. For barcode discount, deduct $0.03 per-piece (machinable parcels only). Barcode discount is not available for DBMC mail entered at an ASF, except at the Phoenix, AZ, ASF.
2. For nonmachinable parcels, add $1.45 per-piece.
3. Regardless of weight, any piece that measures more than 108 inches (but not more than 130 inches) in combined length and girth must pay the oversized rate.
4. Pieces exceeding 84 inches in length and girth combined and weighing less than 15 pounds are subject to a rate equal to that for a 15-pound parcel for the zone to which the parcel is addressed.
5. A mailing fee of $150.00 must be paid once each 12-month period for Parcel Select.

Package Services Rate Schedule 521.2D
[Parcel Post Parcel Select Destination Sectional Center Facility Rates]
Weight (lbs.) | Rate
1 | $1.53
2 | 1.71
3 | 1.85
4 | 1.99
5 | 2.12
6 | 2.24
7 | 2.35
8 | 2.45
9 | 2.56
10 | 2.65
11 | 2.74
12 | 2.83
13 | 2.92
14 | 3.00
15 | 3.10
16 | 3.19
17 | 3.28
18 | 3.36
19 | 3.45
20 | 3.53
21 | 3.61
22 | 3.68
23 | 3.76
24 | 3.83
25 | 3.90
26 | 3.97
27 | 4.04
28 | 4.11
29 | 4.17
30 | 4.24
31 | 4.30
32 | 4.36
33 | 4.42
34 | 4.48
35 | 4.54
36 | 4.59
37 | 4.65
38 | 4.70
39 | 4.76
40 | 4.81
41 | 4.86
42 | 4.91
43 | 4.96
44 | 5.01
45 | 5.06
46 | 5.11
47 | 5.16
48 | 5.20
49 | 5.25
50 | 5.29
51 | 5.34
52 | 5.38
53 | 5.42
54 | 5.46
55 | 5.51
56 | 5.55
57 | 5.59
58 | 5.63
59 | 5.67
60 | 5.71
61 | 5.74
62 | 5.78
63 | 5.82
64 | 5.86
65 | 5.89
66 | 5.93
67 | 5.97
68 | 6.00
69 | 6.04
70 | 6.07
Oversized | 11.95
Schedule 521.2D Notes
1. Regardless of weight, any piece that measures more than 108 inches (but not more than 130 inches) in combined length and girth must pay the oversized rate.
2. Pieces exceeding 84 inches in length and girth combined and weighing less than 15 pounds are subject to a rate equal to that for a 15-pound parcel for the zone to which the parcel is addressed.
3. A mailing fee of $150.00 must be paid once each 12-month period for Parcel Select.
4. For nonmachinable parcels sorted to 3-digit ZIP code areas, add $1.09 per-piece.

Package Services Rate Schedule 521.2E
[Parcel Post Parcel Select Destination Delivery Unit Rates]
Weight (lbs.) | Rate
1 | $1.23
2 | 1.28
3 | 1.33
4 | 1.38
5 | 1.43
6 | 1.47
7 | 1.51
8 | 1.55
9 | 1.58
10 | 1.62
11 | 1.65
12 | 1.68
13 | 1.71
14 | 1.74
15 | 1.77
16 | 1.79
17 | 1.82
18 | 1.85
19 | 1.87
20 | 1.89
21 | 1.92
22 | 1.94
23 | 1.96
24 | 1.98
25 | 2.00
26 | 2.02
27 | 2.04
28 | 2.06
29 | 2.07
30 | 2.09
31 | 2.10
32 | 2.11
33 | 2.12
34 | 2.13
35 | 2.14
36 | 2.15
37 | 2.16
38 | 2.17
39 | 2.18
40 | 2.19
41 | 2.20
42 | 2.21
43 | 2.22
44 | 2.23
45 | 2.24
46 | 2.25
47 | 2.26
48 | 2.27
49 | 2.28
50 | 2.29
51 | 2.30
52 | 2.31
53 | 2.32
54 | 2.33
55 | 2.34
56 | 2.35
57 | 2.36
58 | 2.37
59 | 2.38
60 | 2.39
61 | 2.40
62 | 2.41
63 | 2.42
64 | 2.43
65 | 2.44
66 | 2.45
67 | 2.46
68 | 2.47
69 | 2.48
70 | 2.49
Oversized | 6.98
Schedule 521.2E Notes
1. Regardless of weight, any piece that measures more than 108 inches (but not more than 130 inches) in combined length and girth must pay the oversized rate.
2. Pieces exceeding 84 inches in length and girth combined and weighing less than 15 pounds are subject to a rate equal to that for a 15-pound parcel for the zone to which the parcel is addressed.
3. A mailing fee of $150.00 must be paid once each 12-month period for Parcel Select.

Package Services Rate Schedule 522A
[Bound Printed Matter Single-Piece Rates]
Weight (pounds) | Zones: 1&2 | Zones: 3 | Zones: 4 | Zones: 5 | Zones: 6 | Zones: 7 | Zones: 8
1.0 | $1.87 | $1.92 | $1.96 | $2.04 | $2.11 | $2.20 | $2.37
1.5 | 1.87 | 1.92 | 1.96 | 2.04 | 2.11 | 2.20 | 2.37
2.0 | 1.94 | 2.00 | 2.06 | 2.16 | 2.26 | 2.38 | 2.60
2.5 | 2.01 | 2.09 | 2.16 | 2.29 | 2.41 | 2.56 | 2.84
3.0 | 2.08 | 2.17 | 2.26 | 2.41 | 2.56 | 2.74 | 3.07
3.5 | 2.15 | 2.26 | 2.36 | 2.54 | 2.71 | 2.92 | 3.31
4.0 | 2.22 | 2.34 | 2.46 | 2.66 | 2.86 | 3.10 | 3.54
4.5 | 2.29 | 2.43 | 2.56 | 2.79 | 3.01 | 3.28 | 3.78
5.0 | 2.36 | 2.51 | 2.66 | 2.91 | 3.16 | 3.46 | 4.01
6.0 | 2.50 | 2.68 | 2.86 | 3.16 | 3.46 | 3.82 | 4.48
7.0 | 2.64 | 2.85 | 3.06 | 3.41 | 3.76 | 4.18 | 4.95
8.0 | 2.78 | 3.02 | 3.26 | 3.66 | 4.06 | 4.54 | 5.42
9.0 | 2.92 | 3.19 | 3.46 | 3.91 | 4.36 | 4.90 | 5.89
10.0 | 3.06 | 3.36 | 3.66 | 4.16 | 4.66 | 5.26 | 6.36
11.0 | 3.20 | 3.53 | 3.86 | 4.41 | 4.96 | 5.62 | 6.83
12.0 | 3.34 | 3.70 | 4.06 | 4.66 | 5.26 | 5.98 | 7.30
13.0 | 3.48 | 3.87 | 4.26 | 4.91 | 5.56 | 6.34 | 7.77
14.0 | 3.62 | 4.04 | 4.46 | 5.16 | 5.86 | 6.70 | 8.24
15.0 | 3.76 | 4.21 | 4.66 | 5.41 | 6.16 | 7.06 | 8.71
Schedule 522A Notes
1. For barcode discount, deduct $0.03 per-piece (machinable parcels and automatable flats only).
2. For flats, deduct $0.08 per-piece.

Package Services Rate Schedule 522B
[Bound Printed Matter Presorted and Carrier Route Rates Flats, Parcels, and Irregular Parcels]
| Zones: 1&2 | Zones: 3 | Zones: 4 | Zones: 5 | Zones: 6 | Zones: 7 | Zones: 8
Flats:
Per-Piece:
Presorted | $1.078 | $1.078 | $1.078 | $1.078 | $1.078 | $1.078 | $1.078
Carrier Route | .978 | .978 | .978 | .978 | .978 | .978 | .978
Per-Pound | .090 | .112 | .149 | .198 | .248 | .308 | .419
Parcels and Irregular Parcels:
Per-Piece:
Presorted | 1.155 | 1.155 | 1.155 | 1.155 | 1.155 | 1.155 | 1.155
Carrier Route | 1.055 | 1.055 | 1.055 | 1.055 | 1.055 | 1.055 | 1.055
Per-Pound | .090 | .112 | .149 | .198 | .248 | .308 | .419
Schedule 522B Notes
1. For barcode discount, deduct $0.03 per-piece (machinable parcels and automatable flats only). Barcode discount is not available for Carrier Route rates.

Package Services Rate Schedule 522C
[Bound Printed Matter Presorted Rates, Destination Entry Flats, Parcels, and Irregular Parcels]
| DDU | DSCF | DBMC: Zone 1&2 | DBMC: Zone 3 | DBMC: Zone 4 | DBMC: Zone 5
Flats:
Per-Piece | $0.532 | $0.603 | $0.818 | $0.818 | $0.818 | $0.818
Per-Pound | 0.030 | 0.060 | 0.073 | 0.102 | 0.139 | 0.187
Parcels and Irregular Parcels:
Per-Piece | 0.609 | 0.680 | 0.895 | 0.895 | 0.895 | 0.895
Per-Pound | 0.030 | 0.060 | 0.073 | 0.102 | 0.139 | 0.187
Schedule 522C Notes
1. For barcode discount, deduct $0.03 per-piece (machinable parcels and automatable flats only). Barcode discount is not available for DDU or DSCF rates or DBMC mail entered at an ASF (except Phoenix, AZ, ASF).
2. A mailing fee of $150.00 must be paid once each 12-month period to mail at any destination entry Bound Printed Matter rate.
3.The DDU rate is not available for flats that weigh 1 pound or less.

Package Services Rate Schedule 522D
[Bound Printed Matter Carrier Route Rates, Destination Entry Flats, Parcels, and Irregular Parcels]
| DDU | DSCF | DBMC: Zone 1&2 | DBMC: Zone 3 | DBMC: Zone 4 | DBMC: Zone 5
Flats:
Per-Piece | $0.432 | $0.503 | $0.718 | $0.718 | $0.718 | $0.718
Per-Pound | 0.030 | 0.060 | 0.073 | 0.102 | 0.139 | 0.187
Parcels and Irregular Parcels:
Per-Piece | 0.509 | 0.580 | 0.795 | 0.795 | 0.795 | 0.795
Per-Pound | 0.030 | 0.060 | 0.073 | 0.102 | 0.139 | 0.187
Schedule 522D Notes
1. A mailing fee of $150.00 must be paid once each 12-month period to mail at any destination entry Bound Printed Matter rate.

Package Services Rate Schedule 523
[Media Mail]
| Rate
First Pound:
Single-Piece | $1.42
5-Digit Presort | 0.80
Basic Presort | 1.12
Each additional pound, through 7 pounds | 0.42
Each additional pound, over 7 pounds | 0.30
Schedule 523 Notes
1. A mailing fee of $150.00 must be paid once each 12-month period to mail at any Media Mail presorted rate.
2. For barcode discount, deduct $0.03 per-piece (machinable parcels only). Barcode discount is not available for pieces mailed at the 5-digit rate.

Package Services Rate Schedule 524.
[Library Mail]
| Rate
First Pound:
Single-Piece | $1.35
5-Digit Presort | 0.76
Basic Presort | 1.06
Each additional pound, through 7 pounds | 0.40
Each additional pound, over 7 pounds | 0.29
Schedule 524.
1. A mailing fee of $150.00 must be paid once each 12-month period to mail at any Library Mail presorted rate.
2. For barcode discount, deduct $0.03 per-piece (machinable parcels only). Barcode discount is not available for pieces mailed at the 5-digit rate.

Fee Schedule 911
[Address Corrections]
Description | Fee
Manual correction, each | $0.70
Electronic correction, each | 0.20

Fee Schedule 912
Description | Fee
Zip Coding of Mailing Lists
Per 1,000 addresses, or fraction | $100.00
Correction of Mailing Lists
Per submitted address | $0.30
Minimum charge per list (30 items) | 9.00
Address Changes for Election Boards and Registration Commissions
Per change of address | $0.27
Sequencing of Address Cards
Per correction | $0.30
Insertion of blanks | 0.00
Schedule 912 Notes.
1. When rural routes have been consolidated or changed to another post office, no charge will be made for correction if the list contains only names of persons residing on the routes involved.

Fee Schedule 921
[Post Office Boxes and Caller Service]
Box Size | Fee group: 1 | Fee group: 2 | Fee group: 3 | Fee group: 4 | Fee group: 5 | Fee group: 6 | Fee group: 7 | Fee group: E
I. Post Office Boxes:
Semi-annual Box Fees:
1 | $35.00 | $29.00 | $24.00 | $19.00 | $13.00 | $12.00 | $9.00 | $0.00
2 | 50.00 | 45.00 | 38.00 | 34.00 | 22.00 | 18.00 | 13.00 | 0.00
3 | 100.00 | 80.00 | 68.00 | 63.00 | 34.00 | 33.00 | 23.00 | 0.00
4 | 205.00 | 170.00 | 118.00 | 110.00 | 65.00 | 60.00 | 40.00 | 0.00
5 | 330.00 | 315.00 | 209.00 | 175.00 | 125.00 | 97.00 | 70.00 | 0.00
1. A customer ineligible for carrier delivery may obtain a post office box at Group E fees, subject to administrative decisions regarding customer's proximity to post office.
2. Box Size 1=under 296 cubic inches; 2=296-499 cubic inches; 3=500-999 cubic inches; 4=1000-1999 cubic inches; 5=2000 cubic inches and larger.

Key Duplication and Lock Charges
Description | Fee
Key duplication or replacement | $4.40
Post office box lock replacement | 11.00
II. Caller Service:
Semi-annual Caller Service Fee | 412.00
Annual Call Number Reservation Fee | 32.00

Fee Schedule 931
[Business Reply Mail]
Description | Fee
Regular (no accounting fee):
Permit fee (per year) | $150.00
Per-piece charge | 0.60
Regular (with accounting fee):
Permit fee (per year) | 150.00
Accounting fee (per year) | 475.00
Per-piece charge | 0.10
Qualified Business Reply Mail, low-volume
Permit fee (per year) | 150.00
Accounting fee (per year) | 475.00
Per-piece charge, basic | 0.06
Qualified Business Reply Mail, high-volume
Permit fee (per year) | 150.00
Accounting fee (per year) | 475.00
Quarterly fee | 1,800.00
Per-piece charge, high-volume | 0.008
Bulk Weight Averaged
Permit fee (per year) | 150.00
Accounting fee (per year) | 475.00
Per-piece charge, bulk weight averaged | 0.01
Monthly maintenance fee | 750.00

Fee Schedule 932
[Merchandise Return Service]
Description | Fee
Permit fee (per year) | $150.00
Accounting fee (per year) | 475.00
Per-piece charge | 0.00

Fee Schedule 933
[On-Site Meter Service]
Description fee | Fee
Per employee, per visit | $35.00
Per meter reset or examined | 5.00
Per meter checked into or out of service | 4.00

Schedule 933 Notes

1. Fee for checking meters into or out of service does not apply if a Postal Service-approved automated process is used to check a secured meter into and out of service.

Fee Schedule 934

[Reserved]

Fee Schedule 935
[Bulk Parcel Return Service]
Description | Fee
Permit fee (per year) | $150.00
Accounting fee (per year) | 475.00
Per-piece charge | 1.80

Fee Schedule 936
[Shipper Paid Forwarding]
Description | Fee
Accounting fee (per year) | $475.00

Fee Schedule 941
[Certified Mail]
Description | Fee
Fee per-piece, in addition to postage | $2.30

Fee Schedule 942
[Registered Mail]
Declared value | Fee (in addition to postage) | Handling charge
$0.00 | $7.50
0.01 to 100 | 8.00
100.01 to 500 | 8.85
500.01 to 1,000 | 9.70
1,000.01 to 2,000 | 10.55
2,000.01 to 3,000 | 11.40
3,000.01 to 4,000 | 12.25
4,000.01 to 5,000 | 13.10
5,000.01 to 6,000 | 13.95
6,000.01 to 7,000 | 14.80
7,000.01 to 8,000 | 15.65
8,000.01 to 9,000 | 16.50
9,000.01 to 10,000 | 17.35
10,000.01 to 11,000 | 18.20
11,000.01 to 12,000 | 19.05
12,000.01 to 13,000 | 19.90
13,000.01 to 14,000 | 20.75
14,000.01 to 15,000 | 21.60
15,000.01 to 16,000 | 22.45
16,000.01 to 17,000 | 23.30
17,000.01 to 18,000 | 24.15
18,000.01 to 19,000 | 25.00
19,000.01 to 20,000 | 25.85
20,000.01 to 21,000 | 26.70
21,000.01 to 22,000 | 27.55
22,000.01 to 23,000 | 28.40
23,000.01 to 24,000 | 29.25
24,000.01 to 25,000 | 30.10
25,000.01 to $1 million | 30.10 | plus $0.85 handling charge for each $1,000 or fraction thereof over $25,000.00.
Over $1 million to $15 million | 858.85 | plus $0.85 handling charge for each $1,000 or fraction thereof over $1,000,000.00.
Over $15 million | 12,758.85 | plus amount determined by the Postal Service based on weight, space, and value.
Schedule 942 Notes
1. Articles with a declared value of more than $25,000 can be registered, but compensation for loss or damage is limited to $25,000.

Fee Schedule 943
[Insurance]
Description | Fee
Express Mail Insurance
Merchandise coverage:
$0.01 to 100.00 | $0.00
Fee per $100 or fraction over $100, up to $5,000 | 1.00
Document reconstruction coverage:
$0.00 to 100.00 | 0.00
Regular Insurance
Amount of coverage:
$0.01 to 50.00 | 1.30
$50.00 to 100.00 | 2.20
100.01 to 5,000.00 | $2.20 plus $1.00 for each $100 or fraction thereof over $100.
Bulk Insurance
Amount of coverage:
$0.01 to 50.00 | 0.70
50.01 to 100.00 | 1.40
100.01 to 5,000.00 | $1.40 plus $1.00 for each $100 or fraction thereof over $100.
Schedule 943 Notes
1. Fees for bulk insurance represent a discount of $0.60 per-piece for coverage between $0.01 and $50.00 and a discount of $0.80 for coverage between $50.01 and $5,000.00.

Fee Schedule 944
[Collect on Delivery]
Description | Fee
Amount to be collected:
$ 0.01 to $ 50 | $4.50
50.01 to 100 | 5.50
100.01 to 200 | 6.50
200.01 to 300 | 7.50
300.01 to 400 | 8.50
400.01 to 500 | 9.50
500.01 to 600 | 10.50
600.01 to 700 | 11.50
700.01 to 800 | 12.50
800.01 to 900 | 13.50
900.01 to 1000 | 14.50
Notice of nondelivery | 3.00
Alteration of COD changes | 3.00
Designation of new addressee | 3.00
Registered COD | 4.00

Fee Schedule 945
[Return Receipts]
Description | Fee
I. Return Receipt:
Requested at time of mailing:
Original signature | $1.75
Copy of signature (electronic) | 1.30
Requested after mailing | 3.25
II.Return Receipt for Merchandise:
Requested at time of mailing | $3.00
Delivery record | 3.25

Fee Schedule 946
[Restricted Delivery]
Description | Fee
Per-piece | $3.50

Fee Schedule 947
[Certificate of Mailing]
Description | Fee
Individual Pieces:
Original certificate of mailing for listed pieces of all classes of ordinary mail | $0.90
Three or more pieces individually listed in a firm mailing book or an approved customer provided manifest | 0.30
Each additional copy of original certificate of mailing or original mailing receipt for registered, insured, certified, and COD mail (each copy) | 0.90
Bulk:
Identical pieces of First-Class and Standard Mail paid with ordinary stamps, precanceled stamps, or meter stamps are subject to the following fees:
Up to 1,000 pieces (one certificate for total number) | 4.50
Each additional 1,000 pieces or fraction | 0.50
Duplicate copy | 0.90

Fee Schedule 948
[Delivery Confirmation]
Description | Fee
First-Class Mail Letters and Sealed Parcels:
Electronic | $0.13
Retail | 0.55
Priority Mail:
Electronic | 0.00
Retail | 0.45
Standard Mail:
Electronic | 0.13
Package Services Parcel Select:
Electronic | 0.00
Other Package Services:
Electronic | 0.13
Retail | 0.55

Fee Schedule 949
[Signature Confirmation]
Description | Fee
First-Class Mail Letters and Sealed Parcels:
Electronic | $1.30
Retail | 1.80
Priority Mail:
Electronic | 1.30
Retail | 1.80
Package Services:
Electronic | 1.30
Retail | 1.80

Fee Schedule 951
[Parcel Air Lift]
Description | Fee
For pieces weighing:
Not more than 2 pounds | $0.45
Over 2 but not more than 3 pounds | 0.85
Over 3 but not more than 4 pounds | 1.25
Over 4 but not more than 30 pounds | 1.70

Fee Schedule 952
[Special Handling]
Description | Fee
For pieces weighing:
Not more than 10 pounds | $5.95
More than 10 pounds | 8.25

Fee Schedule 961
[Stamped Envelopes]
Description | Fee
Plain Stamped Envelopes:
Basic, size 6¾, each | $0.08
Basic, size 6¾, 500 | 12.00
Basic, over size 6¾, each | 0.08
Basic, over size 6¾, 500 | 14.00
Personalized Stamped Envelopes:
Basic, size 6¾, 50 | 3.50
Basic, size 6¾, 500 | 17.00
Basic, over size 6¾, 50 | 3.50
Basic, over size 6¾, 500 | 20.00

Fee Schedule 962
[Stamped Cards]
Description | Fee
Single card | $0.02
Double reply-paid card | 0.04
Sheet of 40 cards (uncut) | 0.80

Fee Schedule 971
[Money Orders]
Description | Fee
Domestic ($0.01 to $500.00) | $0.90
Domestic ($500.01 to $1,000.00) | 1.25
APO/FPO ($0.01 to $1,000.00) | 0.25
Inquiry, including a copy of paid money order | 3.00

Fee Schedule 981
[Netpost Mailing Online]
Description | Fee
Fees are calculated by multiplying 1.52 times the sum of printer contractual costs for the particular mailing and 0.5 cents per impression for other Postal Service costs | 1.52 x (P + 0.5 x I)
P = Printer Contractual Costs
I = Number of Impressions
Certification of a system as functionally equivalent to Net Post Mailing Online | $150.00

This provision expires the later of:

a. three years after the implementation date specified by the Postal Service Board of Governors, or

b. if, by the expiration date specified in (a), a proposal to make Net Post Mailing Online permanent is pending before the Postal Rate Commission, the later of:

1. three months after the Commission takes action on such proposal under section 3624 of Title 39, or

2. —if applicable—on the implementation date for a permanent Net Post Mailing Online.

Fee Schedule 1000
[Miscellaneous Fees]
Description | Fee
First-Class Presorted Mailing Fee (per year) | $150.00
Standard Mail Mailing Fee (per year) | 150.00
Periodicals
A. Original Entry | 375.00
B. Additional Entry | 60.00
C. Re-entry | 40.00
D. Registration for News Agents | 40.00
Parcel Select Mailing Fee (per year) | 150.00
Bound Printed Matter: Destination Entry Mailing Fee (per year) | 150.00
Media Mail Presorted Mailing Fee (per year) | 150.00
Library Mail Presorted Mailing Fee (per year) | 150.00
Authorization to Use Permit Imprint (one-time only) | 150.00
Accounting Fee (per year) | 475.00
Permit Fee (per year) | 150.00

Attachment B to the Decision of the Governors of the United States Postal Service on the Recommended Decision of the Postal Rate Commission on Postal Rate and Fee Changes

[Docket No. R2001-1]

April 8, 2002.

Changes to the Domestic Mail Classification Schedule Amend the Domestic Mail Classification Schedule By Inserting Underlined Text and Deleting Bracketed Text as Follows:

Expedited Mail

Classification Schedule

110 Definition

Expedited Mail is mail matter entered as Express Mail under the provisions of this Schedule. Any matter eligible for mailing may, at the option of the mailer, be mailed as Express Mail. Insurance is either included in Express Mail postage or is available for an additional charge, depending on the value and nature of the item sent by Express Mail.

120 Description of Services

121 Same Day Airport Service

Same Day Airport service is available between designated airport mail facilities.

122 Custom Designed Service

122.1 General

Custom Designed service is available between designated postal facilities or other designated locations for mailable matter tendered under a service agreement between the Postal Service and the mailer. Service under a service agreement shall be offered in a manner consistent with 39 U.S.C. 403(c).

122.2 Service Agreement

A service agreement shall set forth the following:

a. The scheduled place for each shipment tendered for service to each specific destination;

b. Scheduled place for claim, or delivery, at destination for each scheduled shipment;

c. Scheduled time of day for tender at origin and for claim or delivery at destination.

122.3 Pickup and Delivery

Pickup at the mailer's premises, and/or delivery at an address other than the destination postal facility is provided under terms and conditions as specified by the Postal Service.

122.4 Commencement of Service Agreement

Service provided pursuant to a service agreement shall commence not more than 10 days after the signed service agreement is tendered to the Postal Service.

122.5 Termination of Service Agreement

122.51 Termination by Postal Service

Express Mail service provided pursuant to a service agreement may be terminated by the Postal Service upon 10 days prior written notice to the mailer if:

a. Service cannot be provided for reasons beyond the control of the Postal Service or because of changes in Postal Service facilities or operations, or

b. The mailer fails to adhere to the terms of the service agreement or this schedule.

122.52 Termination by Mailers

The mailer may terminate a service agreement, for any reason, by notice to the Postal Service.

123 Next Day Service and Second Day Service

123.1 Availability of Services

Next Day and Second Day Services are available at designated retail postal facilities to designated destination facilities or locations for items tendered by the time or times specified by the Postal Service. Next Day Service is available for overnight delivery. Second Day Service is available for second day delivery.

123.2 Pickup Service

Pickup service is available for Next Day and Second Day Services under terms and conditions as specified by the Postal Service. Service shall be offered in a manner consistent with 39 U.S.C. 403(c).

130 Physical Limitations

Express Mail may not exceed 70 pounds or 108 inches in length and girth combined.

140 Postage and Preparation

Except as provided in Rate Schedules 121, 122 and 123, postage on Express Mail is charged on each piece. For shipments tendered in Express Mail pouches under a service agreement, each pouch is a piece.

150 Deposit and Delivery

151 Deposit

Express Mail must be deposited at places designated by the Postal Service.

152 Receipt

A receipt showing the time and date of mailing will be provided to the mailer upon acceptance of Express Mail by the Postal Service. This receipt serves as evidence of mailing.

153 Service

Express Mail service provides a high speed, high reliability service. Same Day Airport Express Mail will be dispatched on the next available transportation to the destination airport mail facility. Custom Designed Express Mail will be available for claim or delivery as specified in the service agreement.

154 Forwarding and Return

When Express Mail is returned, or forwarded, as specified by the Postal Service, there will be no additional charge.

160 Ancillary Services

The following services may be obtained in conjunction with mail sent under this classification schedule upon payment of applicable fees:

Service | Schedule
a. Address correction | 911
b. Return receipts | 945
c. COD | 944
d. Express Mail Insurance | 943
e. Netpost Mailing Online | 981

170 Rates and Fees

The rates for Express Mail are set forth in the following rate schedules:

| Schedule
a. Same Day Airport | 121
b. Custom Designed | 122
c. Next Day Post Office-to-Post Office | 123
d. Second Day Post Office-to-Post Office | 123
e. Next Day Post Office-to-Addressee | 123
f. Second Day Post Office-to-Addressee | 123

180 Refunds

181 Procedure

Claims for refunds of postage must be filed within the period of time and under terms and conditions specified by the Postal Service.

182 Availability

182.1 Same Day Airport

Except as provided in 182.5,[T]the Postal Service will refund the postage for Same Day Airport Express Mail not available for claim by the time specified.[, unless the delay is caused by:

a. Strikes or work stoppage;

b. Delay or cancellation of flights; or

c. Governmental action beyond the control of Postal Service or air carriers.]

182.2 Custom Designed

Except where a service agreement provides for claim, or delivery, of Custom Designed Express Mail more than 24 hours after scheduled tender at point of origin, the Postal Service will refund postage for such mail not available for claim, or not delivered, within 24 hours of mailing, except as provided in 182.5.[unless the item was delayed by strike or work stoppage.]

182.3 Next Day

[Unless the item was delayed by strike or work stoppage,]Except as provided in 182.5, the Postal Service will refund postage for Next Day Express Mail not available for claim or not delivered:

a. By 10:00 a.m., or earlier time(s) specified by the Postal Service, of the next delivery day in the case of Post Office-to-Post Office service;

b. By 3:00 p.m., or earlier time(s) specified by the Postal Service, of the next delivery day in the case of Post Office-to-Addressee service.

182.4 Second Day

[Unless the item was delayed by strike or work stoppage,] Except as provided in 182.5, the Postal Service will refund postage for Second Day Express Mail not available for claim or not delivered:

a. By 10:00 a.m., or earlier time(s) specified by the Postal Service, of the second delivery day in the case of Post Office-to-Post Office service;

b. By 3:00 p.m., or earlier time(s) specified by the Postal Service, of the second delivery day in the case of Post Office-to-Addressee service.

182.5 Limitations

182.51

Refunds may not be available if delivery was attempted within the times required for the specific service, or if the delay was caused by:

a. Proper detention for law enforcement purposes;

b. Strike or work stoppage;

c. Late deposit of shipment, forwarding, return, incorrect address, or incorrect ZIP code;

d. Delay or cancellation of flights;

e. Governmental action beyond the control of the Postal Service or air carriers;

f. War, insurrection, or civil disturbance;

g. Breakdowns of a substantial portion of the USPS transportation network resulting from events or factors outside the control of the Postal Service; or

h. Acts of God.

First-Class Mail

Classification Schedule

210 Definition

Any matter eligible for mailing may, at the option of the mailer, be mailed as First-Class Mail. The following must be mailed as First-Class Mail, unless mailed as Express Mail or exempt under title 39, United States Code, or except as authorized under sections 344.12, 344.23 and 443:

a. Mail sealed against postal inspection as set forth in section 5000;

b. Matter wholly or partially in handwriting or typewriting except as specifically permitted by sections 312, 313, 520, 544.2, and 446;

c. Matter having the character of actual and personal correspondence except as specifically permitted by sections 312, 313, 520, 544.2, and 446; and

d. Bills and statements of account.

220 Description of Subclasses

221 Letters and Sealed Parcels Subclass

221.1 General

The Letters and Sealed Parcels subclass consists of First-Class Mail weighing 13 ounces or less that is not mailed under section 222 or 223.

221.2 Regular Rate Categories

The regular rate categories consist of Letters and Sealed Parcels subclass mail not mailed under section 221.3.

221.21 Single-Piece Rate Category

The single-piece rate category applies to regular rate Letters and Sealed Parcels subclass mail not mailed under section 221.22 or 221.24.

221.22 Presort Rate Category

The presort rate category applies to Letters and Sealed Parcels subclass mail that:

a. Is prepared in a mailing of at least 500 pieces;

b. Is presorted, marked, and presented as specified by the Postal Service; and

c. Meets the addressing and other preparation requirements specified by the Postal Service.

221.23 Reserved

221.24 Qualified Business Reply Mail Rate Category

The qualified business reply mail rate category applies to Letters and Sealed Parcels subclass mail that:

a. Is provided to senders by the recipient, an advance deposit account business reply mail permit holder, for return by mail to the recipient;

b. Bears the recipient's preprinted machine-readable return address, a barcode representing not more than 11 digits (not including “correction” digits), a Facing Identification Mark, and other markings specified and approved by the Postal Service; and

c. Meets the letter machinability and other preparation requirements specified by the Postal Service.

221.25 Reserved

221.26 [Nonstandard Size] Nonmachinable Surcharge

Regular rate category Letters and Sealed Parcels subclass mail is subject to a surcharge if it is [nonstandard size]nonmachinable mail, as defined in section 232.

221.27 Presort Discount for Pieces Weighing More Than Two Ounces

Presort rate category Letters and Sealed Parcels subclass mail is eligible for an additional presort discount on each piece weighing more than two ounces.

221.3 Automation Rate Categories—Letters and Flats

221.31 General

The automation rate categories consist of Letters and Sealed Parcels subclass mail weighing 13 ounces or less that:

a. Is prepared in a mailing of at least 500 pieces, or is provided for entry as mail using Netpost Mailing Online or a functionally equivalent service, pursuant to section 981;

b. Is presorted, marked, and presented as specified by the Postal Service;

c. Bears a barcode representing not more than 11 digits (not including “correction” digits) as specified by the Postal Service; and

d. Meets the machinability, addressing, barcoding, and other preparation requirements specified by the Postal Service.

221.32 Letter Categories

221.321 [Basic]Mixed AADC Rate Category

The [basic]Mixed AADC rate category applies to letter-size automation rate category mail not mailed under section 221.322, 221.323,[ or] 221.324, or 221.325.

221.322 AADC Rate Category

The AADC rate category applies to letter-size automation rate category mail presorted to automated area distribution center destinations as specified by the Postal Service.

221.32[2]3 Three-Digit Rate Category

The three-digit rate category applies to letter-size automation rate category mail presorted to single or multiple three-digit ZIP Code destinations as specified by the Postal Service.

221.32[3]4 Five-Digit Rate Category

The five-digit rate category applies to letter-size automation rate category mail presorted to single or multiple five-digit ZIP Code destinations as specified by the Postal Service.

221.32[4]5 Carrier Route Rate Category

The carrier route rate category applies to letter-size automation rate category mail presorted to carrier routes. It is available only for those carrier routes specified by the Postal Service.

221.33 Flats Categories

221.331 [Basic]Mixed ADC Flats Rate Category

The [basic]Mixed ADC flats rate category applies to flat-size automation rate category mail not mailed under section 221.332[ or], 221.333, or 221.334.

221.332 ADC Flats Rate Category

The ADC flats rate category applies to flat-size automation rate category mail presorted to area distribution center destinations as specified by the Postal Service.

221.33[2]3 Three-Digit Flats Rate Category

The three-digit flats rate category applies to flat-size automation rate category mail presorted to single or multiple three-digit ZIP Code destinations as specified by the Postal Service.

221.33[3]4 Five-Digit Flats Rate Category

The five-digit flats rate category applies to flat-size automation rate category mail presorted to single or multiple five-digit ZIP Code destinations as specified by the Postal Service.

221.33[4]5 [Nonstandard Size]Nonmachinable Surcharge

Flat-size automation rate category pieces are subject to a surcharge if they are [nonstandard size]nonmachinable mail, as defined in section 232.

221.34 Presort Discount for Pieces Weighing More Than Two Ounces

Presorted automation rate category mail is eligible for an additional presort discount on each piece weighing more than two ounces.

222 Cards Subclass

222.1 Definition

222.11 Cards

The Cards subclass consists of Stamped Cards, defined in section 962.1, and postcards. A postcard is a privately printed mailing card for the transmission of messages. To be eligible to be mailed as a First-Class Mail postcard, a card must be of uniform thickness, prepared as specified by the Postal Service, and must not exceed any of the following dimensions:

a. 6 inches in length;

b. 4¼ inches in width;

c. 0.016 inch in thickness.

222.12 Double Cards

Double Stamped Cards or double postcards may be mailed as Stamped Cards or postcards. Double Stamped Cards are defined in section 962.1. A double postcard consists of two attached cards, one of which may be detached by the receiver and returned by mail as a single postcard.

222.2 Reserved[Restriction

A mailpiece with any of the following characteristics is not mailable as a Stamped Card or postcard unless it is prepared as specified by the Postal Service:

a. Numbers or letters unrelated to postal purposes appearing in the address portion of the card;

b. Punched holes;

c. Vertical tearing guide;

d. An address portion which is smaller than the remainder of the card.]

222.3 Regular Rate Categories

222.31 Single-Piece Rate Category

The single-piece rate category applies to regular rate Cards subclass mail not mailed under section 222.32 or 222.34.

222.32 Presort Rate Category

The presort rate category applies to Cards subclass mail that:

a. Is prepared in a mailing of at least 500 pieces;

b. Is presorted, marked, and presented as specified by the Postal Service; and

c. Meets the addressing and other preparation requirements specified by the Postal Service.

222.33 Reserved

222.34 Qualified Business Reply Mail Rate Category

The qualified business reply mail rate category applies to Cards subclass mail that:

a. Is provided to senders by the recipient, an advance deposit account business reply mail permit holder, for return by mail to the recipient;

b. Bears the recipient's preprinted machine-readable return address, a barcode representing not more than 11 digits (not including “correction” digits), a Facing Identification Mark, and other markings specified and approved by the Postal Service; and

c. Meets the card machinability and other preparation requirements specified by the Postal Service.

222.4 Automation Rate Categories

222.41 General

The automation rate categories consist of Cards subclass mail that:

a. Is prepared in a mailing of at least 500 pieces, or is provided for entry as mail using Netpost Mailing Online or a functionally equivalent service, pursuant to section 981;

b. Is presorted, marked, and presented as specified by the Postal Service;

c. Bears a barcode representing not more than 11 digits (not including “correction” digits) as specified by the Postal Service; and

d. Meets the machinability, addressing, barcoding, and other preparation requirements specified by the Postal Service.

222.42 [Basic]Mixed AADC Rate Category

The [basic]Mixed AADC rate category applies to automation rate category cards not mailed under section 222.43, 222.44,[ or] 222.45, or 222.46.

222.43 AADC Rate Category

The AADC rate category applies to automation rate category cards presorted to automated area distribution center destinations as specified by the Postal Service.

222.4[3]4 Three-Digit Rate Category

The three-digit rate category applies to automation rate category cards presorted to single or multiple three-digit ZIP Code destinations as specified by the Postal Service.

222.4[4]5 Five-Digit Rate Category

The five-digit rate category applies to automation rate category cards presorted to single or multiple five-digit ZIP Code destinations as specified by the Postal Service.

222.4[5]6 Carrier Route Rate Category

The carrier route rate category applies to automation rate category cards presorted to carrier routes. It is available only for those carrier routes specified by the Postal Service.

223 Priority Mail Subclass

223.1 General

The Priority Mail subclass consists of:

a. First-Class Mail weighing more than 13 ounces; and

b. Any mailable matter which, at the option of the mailer, is mailed for expeditious mailing and transportation.

223.2 Single-Piece Priority Mail Rate Category

The single-piece Priority Mail rate category applies to Priority Mail subclass mail not mailed under section 223.3.

223.3 Presorted Priority Mail Rate Categories

223.31 General

The presorted Priority Mail rate categories apply to Priority Mail subclass mail that:

a. Is prepared in a mailing of at least 300 pieces or at least 500 pounds;

b. Is presorted, marked, and presented as specified by the Postal Service; and

c. Meets the machinability, addressing, and other preparation requirements specified by the Postal Service.

223.32 ADC Rate Category

The ADC rate category applies to Priority Mail presorted to single or multiple Area Distribution Center destinations as specified by the Postal Service.

223.33 Three-Digit Rate Category

The three-digit rate category applies to Priority Mail presorted to single or multiple three-digit ZIP Code destinations as specified by the Postal Service.

223.34 Five-Digit Rate Category

The five-digit rate category applies to Priority Mail presorted to single or multiple five-digit ZIP Code destinations as specified by the Postal Service.

223.35 Duration of Experimental Service Period

The provisions of section 223 expire the later of:

a. Two years after the implementation date specificed [sic] by the Board of Governors, or

b. If, by the expiration date specified above, a request for the establishment of permanent presorted Priority Mail classifications or rates is pending before the Postal Rate Commission, the later of:

(1) three months after the Commission takes action on such request under 39 U.S.C. § 3624 or, if applicable[.],

(2) on the implementation date for permanent presorted Priority Mail classifications or fees.

223.4 Reserved

223.5 Flat Rate Envelope

Priority Mail subclass mail sent in a “flat rate” envelope provided by the Postal Service is charged the [two] one-pound rate.

223.6 Pickup Service

Pickup service is available for Priority Mail subclass mail under terms and conditions specified by the Postal Service.

223.7 Bulk[y] Parcels

Priority Mail subclass mail weighing less than 15 pounds, and measuring over 84 inches in length and girth combined, is charged a minimum rate equal to that for a 15-pound parcel for the zone to which the piece is addressed.

230 Physical Limitations

231 Size and Weight

First-Class Mail may not exceed 70 pounds or 108 inches in length and girth combined. Additional size and weight limitations apply to individual First-Class Mail subclasses.

232 [Nonstandard Size] Nonmachinable Mail

Letters and Sealed Parcels subclass mail weighing one ounce or less is [nonstandard size] nonmachinable if:

a. Its aspect ratio does not fall between 1 to 1.3 and 1 to 2.5 inclusive; [or]

b. It exceeds any of the following dimensions:

i. 11.5 inches in length;

ii. 6.125 inches in width; or

iii. 0.25 inch in thickness[.]; or

c. For letter-sized pieces:

i. it does not meet the machinability requirements of the Postal Service; or

ii. manual processing is requested.

240 Postage and Preparation

Postage on First-Class Mail must be paid as set forth in section 3000. Postage is computed separately on each piece of mail. Pieces not within the same postage rate increment may be mailed at other than a single-piece rate as part of the same mailing only when specific methods approved by the Postal Service for determining and verifying postage are followed. All mail mailed at other than a single-piece rate must have postage paid in a manner not requiring cancellation.

250 Deposit and Delivery

251 Deposit

First-Class Mail must be deposited at places and times designated by the Postal Service.

252 Service

First-Class Mail receives expeditious handling and transportation, except that when First-Class Mail is attached to or enclosed with mail of another class, the service of that class applies.

253 Forwarding and Return

First-Class Mail that is undeliverable-as-addressed is forwarded or returned to the sender without additional charge.

260 Ancillary Services

The following services may be obtained in conjunction with mail sent under this classification schedule upon payment of applicable fees:

Service | Schedule
a. Address Correction | 911
b. Business Reply Mail | 931
c. Certificates of Mailing | 947
d. Certified Mail | 941
e. COD | 944
f. Insurance | 943
g. Registered Mail | 942
h. Return Receipt (limited to merchandise sent by Priority Mail | 945
i. Merchandise Return | 932
j. Delivery Confirmation (limited to parcel-shaped Letters and Sealed Parcels and Priority Mail) | 948
k. [Reserved]Signature Confirmation (limited to parcel-shaped Letters and Sealed Parcels and Priority Mail) | 949
l. Netpost Mailing Online | 981

270 Rates and Fees

271 First-Class Mail

The rates and fees for First-Class Mail are set forth in the following rate schedules:

| Schedule
a. Letters and Sealed Parcels | 221
b. Cards | 222
c. Priority Mail | 223

272 Keys and Identification Devices

Keys, identification cards, identification tags, or similar identification devices that:

a. weigh no more than 2 pounds;

b. are mailed without cover; and

c. bear, contain, or have securely attached the name and address information, as specified by the Postal Service, of a person, organization, or concern, with instructions to return to the address and a statement guaranteeing the payment of postage due on delivery; are subject to the following rates and fees:

i. the applicable single-piece rates in schedules 221 or 223;

ii. the fee set forth in fee schedule 931 for payment of postage due charges if an active business reply mail advance deposit account is not used, and

iii. if applicable, the surcharge for [nonstandard size]nonmachinable mail, as defined in section 232.

280 Authorizations and Licenses

The mailing fee set forth in schedule 1000 must be paid once each year at each office of mailing or office of verification, as specified by the Postal Service, by or for mailers of other than single-piece First-Class Mail. Payment of the fee allows the mailer to mail at any First-Class rate.

Standard Mail

Classification Schedule

310 Definition

311 General

Any mailable matter weighing less than 16 ounces may be mailed as Standard Mail except:

a. Matter required to be mailed as First-Class Mail;

b. Copies of a publication that is entered as Periodicals class mail, except copies sent by a printer to a publisher, and except copies that would have traveled at the former second-class transient rate. (The transient rate applied to individual copies of second-class mail (currently Periodicals class mail) forwarded and mailed by the public, as well as to certain sample copies mailed by publishers.)

312 Printed Matter

Printed matter, including printed letters which according to internal evidence are being sent in identical terms to several persons, but which do not have the character of actual [or] and personal correspondence, may be mailed as Standard Mail. Printed matter does not lose its character as Standard Mail when the date and name of the addressee and of the sender are written thereon. For the purposes of the Standard Mail Classification Schedule, “printed” does not include reproduction by handwriting or typewriting.

313 Written Additions

Standard Mail may have the following written additions placed on the wrapper, on a tag or label attached to the outside of the parcel, or inside the parcel, either loose or attached to the article:

a. Marks, numbers, name, or letters descriptive of contents;

b. “Please Do Not Open Until Christmas,” or words of similar import;

c. Instructions and directions for the use of an article in the package;

d. Manuscript dedication or inscription not in the nature of personal correspondence;

e. Marks to call attention to any word or passage in text;

f. Corrections of typographical errors in printed matter;

g. Manuscripts accompanying related proof sheets, and corrections in proof sheets to include: corrections of typographical and other errors, alterations of text, insertion of new text, marginal instructions to the printer, and rewrites of parts if necessary for correction;

h. Handstamped imprints, except when the added matter is itself personal or converts the original matter to a personal communication;

i. An invoice.

320 Description of Subclasses

321 Regular Subclass

321.1 General

The Regular subclass consists of Standard Mail that is not mailed under sections 322, 323, or 324.

321.2 Presort Rate Categories

321.21 General

The presort rate categories apply to Regular subclass mail that:

a. Is prepared in a mailing of at least 200 addressed pieces or 50 pounds of addressed pieces;

b. Is presorted, marked, and presented as specified by the Postal Service; and

c. Meets the machinability, addressing, and other preparation requirements specified by the Postal Service.

321.22 Basic Rate Categories

The basic rate categories apply to presort rate category mail not mailed under section 321.23.

321.23 Three- and Five-Digit Rate Categories

The three- and five-digit rate categories apply to presort rate category mail presorted to single or multiple three- and five-digit ZIP Code destinations as specified by the Postal Service.

321.3 Automation Rate Categories

321.31 General

The automation rate categories apply to Regular subclass mail that:

a. Is prepared in a mailing of at least 200 addressed pieces or 50 pounds of addressed pieces, or is provided for entry as mail using Netpost Mailing Online or a functionally lnnequivalent service, pursuant to section 981;

b. Is presorted, marked, and presented as specified by the Postal Service;

c. Bears a barcode representing not more than 11 digits (not including “correction” digits) as specified by the Postal Service;

d. Meets the machinability, addressing, barcoding, and other preparation requirements specified by the Postal Service.

321.32 [Basic Barcoded]Mixed AADC Rate Category

The [basic barcoded]Mixed AADC rate category applies to letter-size automation rate category mail not mailed under section 321.33, [or] 321.34, or 321.35.

321.33 AADC Rate Category

The AADC rate category applies to letter-size automation rate category mail presorted to automated area distribution center destinations as specified by the Postal Service.

321.34[3] Three-Digit Barcoded Rate Category

The three-digit barcoded rate category applies to letter-size automation rate category mail presorted to single or multiple three-digit ZIP Code destinations as specified by the Postal Service.

321.35[4] Five-Digit Barcoded Rate Category

The five-digit barcoded rate category applies to letter-size automation rate category mail presorted to single or multiple five-digit ZIP Code destinations as specified by the Postal Service.

321.36[5] Basic Barcoded Flats Rate Category

The basic barcoded flats rate category applies to flat-size automation rate category mail not mailed under section 321.37[6].

321.37[6] Three- and Five-Digit Barcoded Flats Rate Category

The three- and five-digit barcoded flats rate category applies to flat-size automation rate category mail presorted to single or multiple three- and five-digit ZIP Code destinations as specified by the Postal Service.

321.4 Destination Entry Discounts

The destination entry discounts apply to Regular subclass mail prepared as specified by the Postal Service and addressed for delivery within the service area of the BMC (or auxiliary service facility), or sectional center facility (SCF), at which it is entered, as defined by the Postal Service.

321.5 Residual Shape Surcharge

Regular subclass mail is subject to a surcharge if it is prepared as a parcel or if it is not letter or flat shaped.

321.6 Barcode Discount

The barcode discount applies to Regular Subclass mail that is subject to the residual shape surcharge in 321.5, is entered at designated facilities, bears a barcode specified by the Postal Service, is prepared as specified by the Postal Service, and meets all other preparation and machinability requirements of the Postal Service.

321.7 Nonmachinable Surcharge

The nonmachinable surcharge applies to Regular presort category letter-sized pieces (i) that do not meet the machinability requirements specified by the Postal Service; or (ii) for which manual processing is requested.

322 Enhanced Carrier Route Subclass

322.1 Definition

The Enhanced Carrier Route subclass consists of Standard Mail weighing less than 16 ounces that is not mailed under section 321, 323, or 324, and that:

a. Is prepared in a mailing of at least 200 addressed pieces or 50 pounds of addressed pieces;

b. Is prepared, marked, and presented as specified by the Postal Service;

c. Is presorted to carrier routes as specified by the Postal Service;

d. Is sequenced as specified by the Postal Service;[ and]

e. Meets the machinability, addressing, and other preparation requirements specified by the Postal Service; and[.]

f. For high-density and saturation category letters, bears a barcode representing not more than 11 digits (not including “correction” digits) as specified by the Postal Service.

322.2 Basic Rate Category

The basic rate category applies to Enhanced Carrier Route subclass mail not mailed under section 322.3, 322.4 or 322.5.

322.3 Basic Pre-Barcoded Rate Category

The basic pre-barcoded rate category applies to letter-size Enhanced Carrier Route subclass mail which bears a barcode representing not more than 11 digits (not including “correction” digits), as specified by the Postal Service, and which meets the machinability, addressing, and barcoding specifications and other preparation requirements specified by the Postal Service.

322.4 High Density Rate Category

The high density rate category applies to Enhanced Carrier Route subclass mail presented in walk-sequence order and meeting the high density requirements specified by the Postal Service. High density rate category letters must meet the applicable automation requirements specified by the Postal Service, and must bear a barcode representing not more than 11 digits (not including “correction” digits), as specified by the Postal Service.

322.5 Saturation Rate Category

The saturation rate category applies to Enhanced Carrier Route subclass mail presented in walk-sequence order and meeting the saturation requirements specified by the Postal Service. Saturation rate category letters must meet the applicable automation requirements specified by the Postal Service, and must bear a barcode representing not more than 11 digits (not including “correction” digits), as specified by the Postal Service.

322.6 Destination Entry Discounts

Destination entry discounts apply to Enhanced Carrier Route subclass mail prepared as specified by the Postal Service and addressed for delivery within the service area of the BMC (or auxiliary service facility), sectional center facility (SCF), or destination delivery unit (DDU) at which it is entered, as defined by the Postal Service.

322.7 Residual Shape Surcharge

Enhanced Carrier Route subclass mail is subject to a surcharge if it is prepared as a parcel or if it is not letter or flat shaped.

323 Nonprofit Subclass

323.1 General

The Nonprofit subclass consists of Standard Mail weighing less than 16 ounces that is not mailed under section 321, 322, or 324, and that is mailed by authorized nonprofit organizations or associations of the following types:

a. Religious, as defined in section 1009,

b. Educational, as defined in section 1009,

c. Scientific, as defined in section 1009,

d. Philanthropic, as defined in section 1009,

e. Agricultural, as defined in section 1009,

f. Labor, as defined in section 1009,

g. Veterans', as defined in section 1009,

h. Fraternal, as defined in section 1009,

i. Qualified political committees,

j. State or local voting registration officials when making a mailing required or authorized by the National Voter Registration Act of 1993.

323.11 Qualified Political Committees

The term “qualified political committee” means a national or State committee of a political party, the Republican and Democratic Senatorial Campaign Committees, the Democratic National Congressional Committee, and the National Republican Congressional Committee:

a. The term “national committee” means the organization which, by virtue of the bylaws of a political party, is responsible for the day-to-day operation of such political party at the national level; and

b. The term “State committee” means the organization which, by virtue of the bylaws of a political party, is responsible for the day-to-day operation of such political party at the State level.

323.12 Limitation on Authorization

An organization authorized to mail at the nonprofit Standard rates for qualified nonprofit organizations may mail only its own matter at these rates. An organization may not delegate or lend the use of its permit to mail at nonprofit Standard rates to any other person, organization or association.

323.2 Presort Rate Categories

323.21 General

The presort rate categories apply to Nonprofit subclass mail that:

a. Is prepared in a mailing of at least 200 addressed pieces or 50 pounds of addressed pieces;

b. Is presorted, marked, and presented as specified by the Postal Service; and

c. Meets the machinability, addressing, and other preparation requirements specified by the Postal Service.

323.22 Basic Rate Categories

The basic rate categories apply to presort rate category mail not mailed under section 322.23.

323.23 Three- and Five-Digit Rate Categories

The three- and five-digit rate categories apply to presort rate category mail presorted to single or multiple three- and five-digit ZIP Code destinations as specified by the Postal Service.

323.3 Automation Rate Categories

323.31 General

The automation rate categories apply to Nonprofit subclass mail that:

a. Is prepared in a mailing of at least 200 addressed pieces or 50 pounds of addressed pieces, or is provided for entry as mail using Netpost Mailing Online or a functionally equivalent service, pursuant to section 981;

b. Is presorted, marked, and presented as specified by the Postal Service;

c. Bears a barcode representing not more than 11 digits (not including “correction” digits) as specified by the Postal Service;

d. Meets the machinability, addressing, barcoding, and other preparation requirements specified by the Postal Service.

323.32 [Basic Barcoded] Mixed AADC Rate Category

The [basic barcoded]Mixed AADC rate category applies to letter-size automation rate category mail not mailed under section 323.33,[or] 323.34, or 323.35.

323.33 AADC Rate Category

The AADC rate category applies to letter-size automation rate category mail presorted to automated area distribution center destinations as specified by the Postal Service.

323.34[3] Three-Digit Barcoded Rate Category

The three-digit barcoded rate category applies to letter-size automation rate category mail presorted to single or multiple three-digit ZIP Code destinations as specified by the Postal Service.

323.35[4] Five-Digit Barcoded Rate Category

The five-digit barcoded rate category applies to letter-size automation rate category mail presorted to single or multiple five-digit ZIP Code destinations as specified by the Postal Service.

323.36[5] Basic Barcoded Flats Rate Category

The basic barcoded flats rate category applies to flat-size automation rate category mail not mailed under section 323.37[6].

323.36 Three- and Five-Digit Barcoded Flats Rate Category

The three- and five-digit barcoded flats rate category applies to flat-size automation rate category mail presorted to single or multiple three- and five-digit ZIP Code destinations as specified by the Postal Service.

323.4 Destination Entry Discounts

Destination entry discounts apply to Nonprofit subclass mail prepared as specified by the Postal Service and addressed for delivery within the service area of the BMC (or auxiliary service facility) or sectional center facility (SCF) at which it is entered, as defined by the Postal Service.

323.5 Residual Shape Surcharge

Nonprofit subclass mail is subject to a surcharge if it is prepared as a parcel or if it is not letter or flat shaped.

323.6 Barcode Discount

The barcode discount applies to Nonprofit subclass mail that is subject to the residual shape surcharge in 323.5, is entered at designated facilities, bears a barcode specified by the Postal Service, is prepared as specified by the Postal Service and meets all other preparation and machinability requirements of the Postal Service.

323.7 Nonmachinable Surcharge

The nonmachinable surcharge applies to Nonprofit presort category letter-sized pieces (i) that do not meet the machinability requirements specified by the Postal Service; or (ii) for which manual processing is requested.

324 Nonprofit Enhanced Carrier Route Subclass

324.1 Definition

The Nonprofit Enhanced Carrier Route subclass consists of Standard Mail [weighing less than 16 ounces] that is not mailed under section 321, 322, or 323, that is mailed by authorized nonprofit organizations or associations (as defined in section 323) under the terms and limitations stated in section 323.12, and that:

a. Is prepared in a mailing of at least 200 addressed pieces or 50 pounds of addressed pieces;

b. Is prepared, marked, and presented as specified by the Postal Service;

c. Is presorted to carrier routes as specified by the Postal Service;

d. Is sequenced as specified by the Postal Service;[ and]

e. Meets the machinability, addressing, and other preparation requirements specified by the Postal Service; and[.]

f. For high-density and saturation letters, bears a barcode representing not more than 11 digits (not including “correction: digits) as specified by the Postal Service.

324.2 Basic Rate Category

The basic rate category applies to Nonprofit Enhanced Carrier Route subclass mail not mailed under section 324.3, 324.4, or 324.5.

324.3 Basic Pre-Barcoded Rate Category

The basic pre-barcoded rate category applies to letter-size Nonprofit Enhanced Carrier Route subclass mail which bears a barcode representing not more than 11 digits (not including “correction” digits), as specified by the Postal Service, and which meets the machinability, addressing, and barcoding specifications and other preparation requirements specified by the Postal Service.

324.4 High Density Rate Category

The high density rate category applies to Nonprofit Enhanced Carrier Route subclass mail presented in walk-sequence order and meeting the high density requirements specified by the Postal Service. High density rate category letters must meet the applicable automation requirements specified by the Postal Service, and must bear a barcode representing not more than 11 digits (not including “correction” digits), as specified by the Postal Service.

324.5 Saturation Rate Category

The saturation rate category applies to Nonprofit Enhanced Carrier Route subclass mail presented in walk-sequence order and meeting the saturation requirements specified by the Postal Service. Saturation rate category letters must meet the applicable automation requirements specified by the Postal Service, and must bear a barcode representing not more than 11 digits (not including “correction” digits), as specified by the Postal Service.

324.6 Destination Entry Discounts

Destination entry discounts apply to Nonprofit Enhanced Carrier Route subclass mail prepared as specified by the Postal Service and addressed for delivery within the service area of the BMC (or auxiliary service facility), sectional center facility (SCF), or destination delivery unit (DDU) at which it is entered, as defined by the Postal Service.

324.7 Residual Shape Surcharge

Nonprofit Enhanced Carrier Route subclass mail is subject to a surcharge if it is prepared as a parcel or if it is not letter or flat shaped.

330 Physical Limitations

331 Size

Standard Mail may not exceed 108 inches in length and girth combined. Additional size limitations apply to individual rate categories. The maximum size for mail in the Enhanced Carrier Route and Nonprofit Enhanced Carrier Route subclasses is 14 inches in length, 11.75 inches in width, and 0.75 inch in thickness, except that merchandise samples mailed with detached address cards, prepared as specified by the Postal Service, may exceed those dimensions.

332 Weight

Standard Mail may not weigh more than 16 ounces.

340 Postage and Preparation

341 Postage

Postage must be paid as set forth in section 3000. When the postage is higher than the rate prescribed in any of the Package Services subclasses for which the piece also qualifies, the piece is eligible for the applicable lower rate. All mail mailed at a bulk or presort rate must have postage paid in a manner not requiring cancellation.

342 Preparation

All pieces in a Standard mailing must be separately addressed. All pieces in a Standard mailing must be identified as specified by the Postal Service, and must contain the ZIP Code of the addressee when specified by the Postal Service. All Standard mailings must be prepared and presented as specified by the Postal Service. Two or more Standard mailings may be commingled and mailed only when specific methods approved by the Postal Service for determining and verifying postage are followed.

343 Non-Identical Pieces

Pieces not identical in size and weight may be mailed at a bulk or presort rate as part of the same mailing only when specific methods approved by the Postal Service for determining and verifying postage are followed.

344 Attachments and Enclosures

344.1 General

First-Class Mail may be attached to or enclosed in Standard Mail [containing books, catalogs, and merchandise]. The piece must be marked as specified by the Postal Service. Except as provided in section 344.2, additional postage must be paid for the attachment or enclosure as if it had been mailed separately. Otherwise, the entire combined piece is subject to the First-Class rate for which it qualifies.

344.2 Incidental First-Class Attachments and Enclosures

First-Class Mail, as defined in subsections b through d of section 210, may be attached to or enclosed with Standard Mail containing merchandise, including books, but excluding merchandise samples, with postage paid on the combined piece at the applicable Standard rate, if the attachment or enclosure is incidental to the piece to which it is attached or with which it is enclosed.

350 Deposit and Delivery

351 Deposit

Standard Mail must be deposited at places and times designated by the Postal Service.

352 Service

Standard Mail may receive deferred service.

353 Forwarding and Return

Undeliverable-as-addressed Standard Mail will be returned on request of the mailer, or forwarded and returned on request of the mailer. Undeliverable-as-addressed combined First-Class and Standard Mail pieces will be returned as specified by the Postal Service. Except as provided in section 935, the applicable First-Class Mail rate is charged for each piece receiving return only service. Except as provided in section 936, charges for forwarding-and-return service are assessed only on those pieces which cannot be forwarded and are returned. Except as provided in sections 935 and 936, the charge for those returned pieces is the appropriate First-Class Mail rate for the piece plus that rate multiplied by a factor equal to the number of Standard Mail pieces nationwide that are successfully forwarded for every one piece that cannot be forwarded and must be returned.

360 Ancillary Services

361 All Subclasses

All Standard Mail will receive the following services upon payment of the appropriate fees:

Service | Schedule
a. Address correction | 911
b. Certificates of mailing indicating that a specified number of pieces have been mailed | 947

Certificates of mailing are not available for Standard Mail when postage is paid with permit imprint.

362 Regular and Nonprofit

362.1

Regular and Nonprofit subclass mail will receive the following additional services upon payment of the appropriate fees.

Service | Schedule
a. Bulk Parcel Return Service | 935
b. Shipper-Paid Forwarding | 936

362.2

Regular and Nonprofit subclass mail subject to the residual shape surcharge in 321.5 and 323.6, respectively, will receive the following additional services upon payment of the [approrpriate]appropriate fees.

Service | Schedule
a. Bulk Insurance | 943
b. Return Receipt (merchandise only) | 945
c. Delivery Confirmation | 948

Bulk insurance may not be used selectively for individual pieces in a multi-piece Standard Mail mailing unless specific methods approved by the Postal Service for determining and verifying postage are followed.

363 Regular

Regular subclass mail will receive the following additional services upon payment of the appropriate fees:

Service | Schedule
a. Netpost Mailing Online | 981

365 Nonprofit

Nonprofit subclass mail will receive the following additional services upon payment of the appropriate fees:

Service | Schedule
a. Netpost Mailing Online (starting on a date to be specified by the Postal Service) | 981

370 Rates and Fees

The rates and fees for Standard Mail are set forth as follows:

| Schedule
a. Regular subclass
Presort category | 321A
Automation category | 321B
b. Enhanced Carrier Route subclass | 322
c. Nonprofit subclass
Presort category | 323A
Automation category | 323B
d. Nonprofit Enhanced Carrier Route subclass | 324
e. Fees | 1000

380 Authorizations and Licenses

The mailing fee set forth in Schedule 1000 must be paid once each year at each office of mailing or office of verification, as specified by the Postal Service, by or for mailers of Standard Mail. Payment of the fee allows the mailer to mail at any Standard Mail rate.

Periodicals

Classification Schedule

410 Definition

411 General Requirements

411.1 Definition

A publication may qualify for mailing under the Periodicals Classification Schedule if it meets all the requirements in sections 411.2 through 411.5 and the requirements for one of the qualification categories in sections 412 through 415. Eligibility for specific Periodicals rates is prescribed in section 420.

411.2 Periodicals

Periodicals class mail is mailable matter consisting of newspapers and other periodical publications. The term “periodical publications” includes, but is not limited to:

a. Any catalog or other course listing including mail announcements of legal texts which are part of post-bar admission education issued by any institution of higher education or by a nonprofit organization engaged in continuing legal education.

b. Any looseleaf page or report (including any index, instruction for filing, table, or sectional identifier which is an integral part of such report) which is designed as part of a looseleaf reporting service concerning developments in the law or public policy.

411.3 Issuance

411.31 Regular Issuance

Periodicals class mail must be regularly issued at stated intervals at least four times a year, bear a date of issue, and be numbered consecutively.

411.32 Separate Publication

For purposes of determining Periodicals rate eligibility, an “issue” of a newspaper or other periodical shall be deemed to be a separate publication when the following conditions exist:

a. The issue is published at a regular frequency more often than once a month either on (1) the same day as another regular issue of the same publication; or (2) on a day different from regular issues of the same publication, and

b. More than 10 percent of the total number of copies of the issue is distributed on a regular basis to recipients who do not subscribe to it or request it, and

c. The number of copies of the issue distributed to nonsubscribers or nonrequesters is more than twice the number of copies of any other issue distributed to nonsubscribers or nonrequesters on that same day, or, if no other issue that day, any other issue distributed during the same period. “During the same period” shall be defined as the periods of time ensuing between the distribution of each of the issues whose eligibility is being examined. Such separate publications must independently meet the qualifications for Periodicals eligibility.

411.4 Office of Publication

Periodicals class mail must have a known office of publication. A known office of publication is a public office where business of the publication is transacted during the usual business hours. The office must be maintained where the publication is authorized original entry.

411.5 Printed Sheets

Periodicals class mail must be formed of printed sheets. It may not be reproduced by stencil, mimeograph, or hectograph processes, or reproduced in imitation of typewriting. Reproduction by any other printing process is permissible. Any style of type may be used.

412 General Publications

412.1 Definition

To qualify as a General Publication, Periodicals class mail must meet the requirements in section 411 and in sections 412.2 through 412.4.

412.2 Dissemination of Information

A General Publication must be originated and published for the purpose of disseminating information of a public character, or devoted to literature, the sciences, art, or some special industry.

412.3 Paid Circulation

412.31 Total Distribution

A General Publication must be designed primarily for paid circulation. At least 50 percent or more of the copies of the publication must be distributed to persons who have paid above a nominal rate.

412.32 List of Subscribers

A General Publication must be distributed to a legitimate list of persons who have subscribed by paying or promising to pay at a rate above nominal for copies to be received during a stated time. Copies mailed to persons who are not on a legitimate list of subscribers are nonsubscriber copies.

412.33 Nominal Rates

As used in section 412.31, nominal rate means:

a. A token subscription price that is so low that it cannot be considered a material consideration;

b. A reduction to the subscriber, under a premium offer or any other arrangements, of more than 50 percent of the amount charged at the basic annual rate for a subscriber to receive one copy of each issue published during the subscription period. The value of a premium is considered to be its actual cost to the publishers, the recognized retail value, or the represented value, whichever is highest.

412.34 Nonsubscriber Copies

412.341 Up to Ten Percent

Nonsubscriber copies, including sample and complimentary copies, mailed at any time during the calendar year up to and including 10 percent of the total number of copies mailed to subscribers during the calendar year are mailable at the rates that apply to subscriber copies provided that the nonsubscriber copies would have been eligible for those rates if mailed to subscribers.

412.342 Over Ten Percent

Nonsubscriber copies, including sample and complimentary copies, mailed at any time during the calendar year, in excess of 10 percent of the total number of copies mailed to subscribers during the calendar year which are presorted and commingled with subscriber copies are charged the applicable rates for Outside County Periodicals, but are not eligible for preferred rate discounts. The 10 percent limitation for a publication is based on the total number of all copies of that publication mailed to subscribers during the calendar year.

412.35 Advertiser's Proof Copies

One complete copy of each issue of a General Publication may be mailed to each advertiser in that issue as an advertiser's proof copy at the rates that apply to subscriber copies, whether the advertiser's proof copy is mailed to the advertiser directly or, instead, to an advertising representative or agent of the publication. These copies count as subscriber copies.

412.36 Expired Subscriptions

For six months after a subscription has expired, copies of a General Publication may be mailed to a former subscriber at the rates that apply to copies mailed to subscribers, if the publisher has attempted during that six months to obtain payment, or a promise to pay, for renewal. These copies do not count as subscriber copies.

412.4 Advertising Purposes

A General Publication may not be designed primarily for advertising purposes. A publication is “designed primarily for advertising purposes” if it:

a. Has advertising in excess of 75 percent in more than one-half of its issues during any 12-month period;

b. Is owned or controlled by individuals or business concerns and conducted as an auxiliary to and essentially for the advancement of the main business or calling of those who own or control it;

c. Consists principally of advertising and editorial write-ups of the advertisers;

d. Consists principally of advertising and has only a token list of subscribers, the circulation being mainly free;

e. Has only a token list of subscribers and prints advertisements free for advertisers who pay for copies to be sent to a list of persons furnished by the advertisers; or

f. Is published under a license from individuals or institutions and features other businesses of the licensor.

413 Requester Publications

413.1 Definition

A publication which is circulated free or mainly free may qualify for Periodicals class as a Requester Publication if it meets the requirements in sections 411, and 413.2 through 413.4.

413.2 Minimum Pages

It must contain at least 24 pages.

413.3 Advertising Purposes

413.31 Advertising Percentage

It must devote at least 25 percent of its pages to nonadvertising and not more than 75 percent to advertisements.

413.32 Ownership and Control

It must not be owned or controlled by one or more individuals or business concerns and conducted as an auxiliary to and essentially for the advancement of the main business or calling of those who own or control it.

413.4 Circulated to Requesters

413.41 List of Requesters

It must have a legitimate list of persons who request the publication, and 50 percent or more of the copies of the publication must be distributed to persons making such requests. Subscription copies paid for or promised to be paid for, including those at or below a nominal rate may be included in the determination of whether the 50 percent request requirement is met. Persons will not be deemed to have requested the publication if their request is induced by a premium offer or by receipt of material consideration, provided that mere receipt of the publication is not material consideration.

413.42 Nonrequester Copies

413.421 Up to Ten Percent

Nonrequester copies, including sample and complimentary copies, mailed at any time during the calendar year up to and including 10 percent of the total number of copies mailed to requesters during the calendar year are mailable at the rates that apply to requester copies provided that the nonrequester copies would have been eligible for those rates if mailed to requesters.

413.422 Over Ten Percent

Nonrequester copies, including sample and complimentary copies, mailed at any time during the calendar year, in excess of 10 percent of the total number of copies mailed to requesters during the calendar year which are presorted and commingled with requester copies are charged the applicable rates for Outside County Periodicals, but are not eligible for preferred rate discounts. The 10 percent limitation for a publication is based on the total number of all copies of that publication mailed to requesters during the calendar year.

413.43 Advertiser's Proof Copies

One complete copy of each issue of a Requester Publication may be mailed to each advertiser in that issue as an advertiser's proof copy at the rates that apply to requester copies, whether the advertiser's proof copy is mailed to the advertiser directly or, instead, to an advertising representative or agent of the publication. These copies count as requester copies.

414 Publications of Institutions and Societies

414.1 Publisher's Own Advertising

Except as provided in section 414.2, a publication which meets the requirements of sections 411 and 412.4, and which contains no advertising other than that of the publisher, qualifies for Periodicals class as a publication of an institution or society if it is:

a. Published by a regularly incorporated institution of learning;

b. Published by a regularly established state institution of learning supported in whole or in part by public taxation;

c. A bulletin issued by a state board of health or a state industrial development agency;

d. A bulletin issued by a state conservation or fish and game agency or department;

e. A bulletin issued by a state board or department of public charities and corrections;

f. Published by a public or nonprofit private elementary or secondary institution of learning or its administrative or governing body;

g. Program announcements or guides published by an educational radio or television agency of a state or political subdivision thereof, or by a nonprofit educational radio or television station;

h. Published by or under the auspices of a benevolent or fraternal society or order organized under the lodge system and having a bona fide membership of not less than 1,000 persons;

i. Published by or under the auspices of a trade(s) union;

j. Published by a strictly professional, literary, historical, or scientific society; or,

k. Published by a church or church organization.

414.2 General Advertising

A publication published by an institution or society identified in sections 414.1 h through k, may contain advertising of other persons, institutions, or concerns, if the following additional conditions are met:

a. The publication is originated and published to further the objectives and purposes of the society;

b. Circulation is limited to:

i. Copies mailed to members who pay either as a part of their dues or assessment or otherwise, not less than 50 percent of the regular subscription price;

ii. Other actual subscribers; and

iii. Exchange copies.

c. The circulation of nonsubscriber copies, including sample and complimentary copies, does not exceed 10 percent of the total number of copies referred to in 414.2b.

415 Publications of State Departments of Agriculture

A publication which is issued by a state department of agriculture and which meets the requirements of sections 411 qualifies for Periodicals class as a publication of a state department of agriculture if it contains no advertising and is published for the purpose of furthering the objects of the department.

416 Foreign Publications

Foreign newspapers and other periodicals of the same general character as domestic publications entered as Periodicals class mail may be accepted on application of the publishers thereof or their agents, for transmission through the mail at the same rates as if published in the United States. This section does not authorize the transmission through the mail of a publication which violates a copyright granted by the United States.

420 Description of Subclasses

421.1 Outside County Subclass

421.1 Definition

The Outside County subclass consists of Periodicals class mail that is not mailed under section 423 and that:

a. Is presorted, marked, and presented as specified by the Postal Service; and

b. Meets machinability, addressing, and other preparation requirements specified by the Postal Service.

421.2 Outside County Pound Rates

An unzoned pound rate applies to the nonadvertising portion of Outside County subclass mail. A zoned pound rate applies to the advertising portion and may be reduced by applicable destination entry discounts. The pound rate postage is the sum of the nonadvertising portion charge and the advertising portion charge.

421.3 Outside County Piece Rates

421.31 Basic Rate Category

The basic rate category applies to all Outside County subclass mail not mailed under section 421.32, 421.33, or 421.34.

421.32 Three-Digit [City and Five-Digit]Rate Category

The three-digit rate category applies to Outside County subclass mail presorted to single or multiple three-digit ZIP Code destinations as specified by the Postal Service.

421.33 Five-Digit Rate Category

The five-digit rate category applies to Outside County subclass mail presorted to single or multiple five-digit ZIP Code destinations as specified by the Postal Service.

421.34 Carrier Route Rate Category

The carrier route rate category applies to Outside County subclass mail presorted to carrier routes as specified by the Postal Service.

421.4 Outside County Subclass Discounts

421.41 Barcoded Letter Discounts

Barcoded letter discounts apply to letter size Outside County subclass mail mailed under sections 421.31, 421.32, and 421.33 which bears a barcode representing not more than 11 digits (not including “correction” digits) as specified by the Postal Service, and which meets the machinability, addressing, and barcoding specifications and other preparation requirements specified by the Postal Service.

421.42 Barcoded Flats Discounts

Barcoded flats discounts apply to flat size Outside County subclass mail mailed under sections 421.31, 421.32, and 421.33 which bear a barcode representing not more than 11 digits (not including “correction” digits) as specified by the Postal Service, and meet the flats machinability, addressing, and barcoding specifications and other preparation requirements specified by the Postal Service.

421.43 High Density Discount

The high density discount applies to Outside County subclass mail mailed under section 421.34, presented in walk sequence order, and meeting the high density and preparation requirements specified by the Postal Service.

421.44 Saturation Discount

The saturation discount applies to Outside County subclass mail mailed under section 421.34, presented in walk-sequence order, and meeting the saturation and preparation requirements specified by the Postal Service.

421.45 Destination Entry Discounts

Destination entry discounts apply to Outside County subclass mail which is prepared as specified by the Postal Service and addressed [destined] for delivery within the service area of the destination area distribution center (ADC), destination sectional center facility (SCF) or the destination delivery unit (DDU) at[in] which it is entered, as defined by the Postal Service. The DDU discount only applies to Carrier Route rate category mail.

421.46 Nonadvertising Discount

The nonadvertising discount applies to all Outside County subclass mail and is determined by multiplying the proportion of nonadvertising content by the discount factor set forth in Rate Schedule 421 and subtracting that amount from the applicable piece rate.

421.47 Preferred Rate Discount

Periodicals Mail qualifying as Nonprofit or Classroom mail under sections 422.2 and 422.3 is eligible for the Preferred rate discount set forth in Rate Schedule 421.

421.48 Pallet Discount

The pallet discount applies to Outside County subclass nonletter mail that is presented on pallets and meets the preparation requirements specified by the Postal Service.

421.49 Dropship Pallet Discount

The dropship pallet discount applies to Outside County subclass nonletter mail under section 421.45, that is presented on pallets and meets the preparation requirements specified by the Postal Service.

422 Preferred Qualification Categories

422.1 Definition

Preferred Qualification Outside County Subclass Periodicals consist of Periodicals Mail, other than publications qualifying as Requester Publications, that meets applicable requirements in sections 422.2, 422.3, or 422.4.

422.2 Nonprofit

The Periodicals Outside County Subclass Nonprofit category consists of publications entered by authorized nonprofit organizations or associations of the following types:

a. Religious, as defined in section 1009,

b. Educational, as defined in section 1009,

c. Scientific, as defined in section 1009,

d. Philanthropic, as defined in section 1009,

e. Agricultural, as defined in section 1009,

f. Labor, as defined in section 1009,

g. Veterans', as defined in section 1009,

h. Fraternal, as defined in section 1009, and

i. Associations of rural electric cooperatives, and the publications of the following types:

j. one publication, which contains no advertising (except advertising of the publisher) published by the official highway or development agency of a state,

k. program announcements or guides published by an educational radio or television agency of a state or political subdivision thereof or by a nonprofit educational radio or television station, or

l. one conservation publication published by an agency of a state which is responsible for management and conservation of the fish or wildlife resources of such state.

422.3 Classroom

The Periodicals Outside County Subclass Classroom rate category consists of religious, educational, or scientific publications designed specifically for use in school classrooms or religious instruction classes.

422.4 Science of Agriculture

422.41 Definition

Science of Agriculture mail consists of Periodicals class mail devoted to the science of agriculture if the total number of copies of the publication furnished during any 12-month period to subscribers residing in rural areas amounts to at least 70 percent of the total number of copies distributed by any means for any purpose.

422.42 Rates

Science of Agriculture mail is subject to pound rates, piece rates, and piece rate discounts (except for the discount set forth in section 421.47) for Outside County Subclass Periodicals Mail, except for DDU, DSCF and Zone 1 & 2 pound rates. Rates for Science of Agriculture are set forth in Rate Schedule 421.

422.43 Nonadvertising Discount

The nonadvertising discount for Outside County Subclass Periodicals Mail applies to Science of Agriculture Periodicals, and is determined by multiplying the proportion of nonadvertising content by the discount factor set forth in Rate Schedule 421 and subtracting that amount from the applicable piece rate.

422.44 Destination Entry Discounts

Destination entry discounts apply to Science of Agriculture Periodicals mail which is prepared as specified by the Postal Service, and addressed [which are destined] for delivery within the service area of the destination area distribution center (ADC), destination sectional center facility (SCF) or the destination delivery unit (DDU) [in]at which it is entered, as defined by the Postal Service. The DDU discount only applies to Carrier Route rate category mail.

423 Within County Subclass

423.1 Reserved

423.2 General

423.21 Definition

Within County mail consists of Periodicals class mail, other than publications qualifying as Requester Publications, mailed in, and addressed for delivery within, the county where published and originally entered, from either the office of original entry or additional entry. In addition, a Within County publication must meet one of the following conditions:

a. The total paid circulation of the issue is less than 10,000 copies; or

b. The number of paid copies of the issue distributed within the county of publication is at least one more than one-half the total paid circulation of such issue.

423.22 Entry in an Incorporated City

For the purpose of determining eligibility for Within County mail, when a publication has original entry at an independent incorporated city which is situated entirely within a county or which is contiguous to one or more counties in the same state, such incorporated city shall be considered to be within the county with which it is principally contiguous. Where more than one county is involved, the publisher will select the principal county.

423.23 Pound Rate

One pound rate applies to Within County pieces presorted to carrier routes to be delivered within the delivery area of the originating post office, and another pound rate applies to all other pieces.

423.3 Within County Piece Rates

423.31 Basic Rate Category

The basic rate category applies to Within County Periodicals not mailed under section 423.32, 423.33, or 423.34.

423.32 Three-[d]Digit Rate Category

The three-digit rate category applies to Within County Periodicals that are presorted to single or multiple three-digit ZIP Code destinations as specified by the Postal Service.

423.33 Five-Digit Rate Category

The five-digit rate category applies to Within County Periodicals presorted to single or multiple five-digit ZIP Code destinations as specified by the Postal Service.

423.34 Carrier Route Rate Category

The carrier route rate category applies to Within County Periodicals presorted to carrier routes as specified by the Postal Service.

423.4 Within County Discounts

423.41 Barcoded Letter Discounts

Barcoded letter discounts apply to letter size Within County Periodicals mailed under sections 423.31, 423.32, and 423.33 which bear a barcode representing not more than 11 digits (not including “correction” digits) as specified by the Postal Service, and which meet the machinability, addressing, and barcoding specifications and other preparation requirements specified by the Postal Service.

423.42 Barcoded Flats Discounts

Barcoded flats discounts apply to flat size Within County Periodicals mailed under sections 423.31, 423.32, and 423.33 which bear a barcode representing not more than 11 digits (not including “correction” digits) as specified by the Postal Service, and meet the flats machinability, addressing, and barcoding specifications and other preparation requirements specified by the Postal Service.

423.43 High Density Discount

The high density discount applies to Within County Periodicals mailed under section 423.34, presented in walk sequence order, and meeting the high density and preparation requirements specified by the Postal Service. Alternatively, Within County mail may qualify for such discount also by presenting otherwise eligible mailings containing pieces addressed to a minimum of 25 percent of the addresses per carrier route.

423.44 Saturation Discount

The saturation discount applies to Within County Periodicals mailed under section 423.34, presented in walk sequence order, and meeting the saturation and preparation requirements specified by the Postal Service.

423.45 Destination Entry Discount

A destination delivery unit discount applies to Within County carrier route category mail which is destined for delivery within the destination delivery unit (DDU) in which it is entered, as defined by the Postal Service.

430 Physical Limitations

Periodicals Mail may not weigh more than 70 pounds or exceed 108 inches in length and girth combined. Additional size limitations apply to individual Periodicals rate categories.

440 Postage and Preparation

441 Postage

Postage must be paid on Periodicals class mail as set forth in section 3000.

442 Presortation

Periodicals class mail must be presorted as specified by the Postal Service.

443 Attachments and Enclosures

443.1 General

First-Class Mail or Standard Mail may be attached to or enclosed with Periodicals class mail. The piece must be marked as specified by the Postal Service. Except as provided in section 443.2, additional postage must be paid for the attachment or enclosure as if it had been mailed separately. Otherwise, the entire combined piece is subject to the appropriate First-Class Mail,[or] Standard Mail, or Package Services rate for which it qualifies (unless the rate applicable to the host piece is higher), or, if a combined piece with a Standard Mail attachment or enclosure weighs 16 ounces or more, the piece is subject to the Parcel Post rate for which it qualifies.

443.1a “Ride-Along” Attachments and Enclosures

A limit of one Standard Mail piece, not exceeding the weight of the host copy and weighing a maximum of 3.3 ounces, from any of the subclasses listed in section 321 (Regular, Enhanced Carrier Route, Nonprofit or Nonprofit Enhanced Carrier Route) may be attached to or enclosed with an individual copy of Periodicals Mail for an additional postage payment of ten cents. Periodicals containing “Ride-Along” attachments or enclosures must maintain uniform thickness as specified by the Postal Service. The Periodicals piece with the “Ride-Along” must maintain the same shape and automation compatibility as it had before addition of the “Ride-Along” attachment or enclosure and meet other preparation requirements as specified by the Postal Service.

[This provision expires on the effective date to be set by the Board of Governors for Rate Schedules 421 and 423 resulting from Docket No. R2001-1.]

443.2 Incidental First-Class Mail Attachments and Enclosures

First-Class Mail that meets one or more of the definitions in section 210 b through d may be attached to or enclosed with Periodicals class mail, with postage paid on the combined piece at the applicable Periodicals rate, if the attachment or enclosure is incidental to the piece to which it is attached or with which it is enclosed.

444 Identification

Periodicals class mail must be identified as required by the Postal Service. Nonsubscriber and nonrequester copies, including sample and complimentary copies, must be identified as required by the Postal Service.

445 Filing of Information

Information relating to Periodicals class mail must be filed with the Postal Service under 39 U.S.C. 3685.

446 Enclosures and Supplements

Periodicals class mail may contain enclosures and supplements as specified by the Postal Service. An enclosure or supplement may not contain writing, printing or sign thereof or therein, in addition to the original print, except as authorized by the Postal Service, or as authorized under section 443.2.

450 Deposit and Delivery

451 Deposit

Periodicals class mail must be deposited at places and times designated by the Postal Service.

452 Service

Periodicals class mail is given expeditious handling insofar as is practicable.

453 Forwarding and Return

Undeliverable-as-addressed Periodicals class mail will be forwarded or returned to the mailer, as specified by the Postal Service. Undeliverable-as-addressed combined First-Class and Periodicals class mail pieces will be forwarded or returned, as specified by the Postal Service. Additional charges when Periodicals class mail is returned will be based on the applicable First-Class Mail rate.

470 Rates and Fees

The rates and fees for Periodicals class mail are set forth as follows:

| Schedule
a. Outside County | 421
b. Within County | 423
c. Science of Agriculture | 421
d. Fees | 1000

480 Authorizations and Licenses

481 Entry Authorizations

Prior to mailing at Periodicals rates, a publication must be authorized for entry as Periodicals class mail by the Postal Service. Each authorized publication will be granted one original entry authorization at the post office where the office of publication is maintained. An authorization for the establishment of an account to enter a publication at an additional entry office may be granted by the Postal Service upon application by the publisher. An application for re-entry must be made whenever the publisher proposes to change the publication's title, frequency of issue or office of original entry.

482 Nonprofit, Classroom and Science of Agriculture Authorization

Prior to entering Nonprofit, Classroom, and Science of Agriculture Periodicals Mail, a publication must obtain an additional Postal Service entry authorization to mail at those rates.

483 Mailing by Publishers and News Agents

Periodicals class mail may be mailed only by publishers or registered news agents. A news agent is a person or concern engaged in selling two or more Periodicals publications published by more than one publisher. News agents must register at all post offices at which they mail Periodicals class mail.

484 Fees

Fees for original entry, additional entry, re-entry, and registration of a news agent are set forth in Schedule 1000.

Package Services

Classification Schedule

510 Definition

511 General

Any mailable matter may be mailed as Package Services mail except:

a. Matter required to be mailed as First-Class Mail;

b. Copies of a publication that is entered as Periodicals class mail, except copies sent by a printer to a publisher, and except copies that would have traveled at the former second-class transient rate. (The transient rate applied to individual copies of second-class mail (currently Periodicals class mail) forwarded and mailed by the public, as well as to certain sample copies mailed by publishers.)

512 Written Additions

Package Services mail may have the following written additions placed on the wrapper, on a tag or label attached to the outside of the parcel, or inside the parcel, either loose or attached to the article:

a. Marks, numbers, name, or letters descriptive of contents;

b. “Please Do Not Open Until Christmas,” or words of similar import;

c. Instructions and directions for the use of an article in the package;

d. Manuscript dedication or inscription not in the nature of personal correspondence;

e. Marks to call attention to any word or passage in text;

f. Corrections of typographical errors in printed matter;

g. Manuscripts accompanying related proof sheets, and corrections in proof sheets to include: corrections of typographical and other errors, alterations of text, insertion of new text, marginal instructions to the printer, and rewrites of parts if necessary for correction;

h. Handstamped imprints, except when the added matter is itself personal or converts the original matter to a personal communication;

i. An invoice.

520 Description of Subsclasses

521 Parcel Post Subclass

521.1 Definition

The Parcel Post subclass consists of Package Services mail that is not mailed under sections 522, 523, or 524.

521.2 Description of Rate Categories

521.21 Inter-BMC Rate Category

The inter-BMC rate category applies to all Parcel Post subclass mail not mailed under sections 521.22, 521.23, 521.24, [or ]521.25, or 521.26.

521.22 Intra-BMC Rate Category

The intra-BMC rate category applies to Parcel Post subclass mail originating and destinating within a designated BMC or auxiliary service facility service area, Alaska, Hawaii or Puerto Rico.

521.23 Parcel Select—Destination Bulk Mail Center (DBMC) Rate Category

The Parcel Select—DBMC rate category applies to Parcel Post subclass mail prepared as specified by the Postal Service in a mailing of at least 50 pieces entered at a designated destination BMC, auxiliary service facility, or other equivalent facility, as specified by the Postal Service.

521.24 Parcel Select—Destination Sectional Center Facility (DSCF) Rate Category

The Parcel Select—DSCF rate category applies to Parcel Post subclass mail prepared as specified by the Postal Service in a mailing of at least 50 pieces sorted to five-digit destination ZIP Codes as specified by the Postal Service (except as described in Section 521.25) and entered at a designated destination processing and distribution center or facility, or other equivalent facility, as specified by the Postal Service.

521.25 Surcharge for Parcel Select—Destination Sectional Center Facility (DSCF) Rate Nonmachinable Parcels Sorted to 3-digit Zip Codes

The Parcel Select—DSCF Surcharge applies, in addition to the appropriate DSCF Parcel Select Rate, to mail that does not meet the machinability criteria specified by the Postal Service and is prepared in a mailing of at least 50 pieces sorted to three-digit destination ZIP Codes as specified by the Postal Service and entered at a designated destination processing and distribution center or facility, or other equivalent facility, as specified by the Postal Service.

521.2[5]6 Parcel Select—Destination Delivery Unit (DDU) Rate Category

The Parcel Select—DDU rate category applies to Parcel Post subclass mail prepared as specified by the Postal Service in a mailing of at least 50 pieces, and entered at a designated destination delivery unit, or other equivalent facility, as specified by the Postal Service.

521.3 Bulk Parcel Post

Bulk Parcel Post mail is Parcel Post mail consisting of properly prepared and separated single mailings of at least 300 pieces or 2000 pounds. Pieces weighing less than 15 pounds and measuring over 84 inches in length and girth combined or pieces measuring over 108 inches in length and girth combined are not mailable as Bulk Parcel Post mail.

521.31 Barcode Discount

The barcode discount applies to Bulk Parcel Post mail that is entered at designated facilities, bears a barcode specified by the Postal Service, is prepared as specified by the Postal Service, and meets all other preparation and machinability requirements of the Postal Service.

521.4 Bulk Mail Center (BMC) Presort Discounts

521.41 BMC Presort Discount

The BMC presort discount applies to Inter-BMC Parcel Post subclass mail that is prepared as specified by the Postal Service in a mailing of 50 or more pieces, entered at a facility authorized by the Postal Service, and sorted to destination BMCs, as specified by the Postal Service.

521.42 Origin Bulk Mail Center (OBMC) Discount

The origin bulk mail center discount applies to Inter-BMC Parcel Post subclass mail that is prepared as specified by the Postal Service in a mailing of at least 50 pieces, entered at the origin BMC, and sorted to destination BMCs, as specified by the Postal Service.

521.5 Barcode Discount

The barcode discount applies to Inter-BMC, Intra-BMC, and Parcel Select—DBMC Parcel Post subclass mail that is entered at designated facilities, bears a barcode specified by the Postal Service, is prepared as specified by the Postal Service in a mailing of at least 50 pieces, and meets all other preparation and machinability requirements of the Postal Service.

521.6 Oversize Parcel Post

521.61 Excessive Length and Girth

Parcel Post subclass mail pieces exceeding 108 inches in length and girth combined, but not greater than 130 inches in length and girth combined, are mailable.

521.62 Balloon Rate

Parcel Post subclass mail pieces exceeding 84 inches in length and girth combined and weighing less than 15 pounds are subject to a rate equal to that for a 15 pound parcel for the zone to which the parcel is addressed.

521.7 Nonmachinable Surcharges

a. Inter-BMC, Intra-BMC, and Parcel Select—DBMC Parcel Post mail that does not meet machinability criteria specified by the Postal Service is subject to a nonmachinable surcharge.

b. Parcel Select—DSCF Parcel Post mail that does not meet machinability criteria specified by the Postal Service, and which is sorted to three-digit destination ZIP Codes as specified by the Postal Service, is subject to a nonmachinability surcharge for 3-digit nonmachinable DSCF Parcel Post.

521.8 Pickup Service

Pickup service is available for Parcel Post subclass mail under terms and conditions specified by the Postal Service.

522 Bound Printed Matter Subclass

522.1 Definition

The Bound Printed Matter subclass consists of Package Services mail weighing not more than 15 pounds, which:

a. Consists of advertising, promotional, directory, or editorial material, or any combination thereof;

b. Is securely bound by permanent fastenings including, but not limited to, staples, spiral bindings, glue, and stitching; loose leaf binders and similar fastenings are not considered permanent;

c. Consists of sheets of which at least 90 percent are imprinted with letters, characters, figures or images or any combination of these, by any process other than handwriting or typewriting;

d. Does not have the nature of personal correspondence;

e. Is not stationery, such as pads of blank printed forms.

522.2 Description of Rate Categories

522.21 Single-Piece Rate Category

The single-piece rate category applies to Bound Printed Matter subclass mail which is not mailed under section 522.3 or 522.4.

522.22 Basic Presort Rate Category

The basic presort rate category applies to Bound Printed Matter subclass mail prepared in a mailing of at least 300 pieces, prepared and presorted as specified by the Postal Service.

522.23 Carrier Route Presort Rate Category

The carrier route presort rate category applies to Bound Printed Matter subclass mail prepared in a mailing of at least 300 pieces of carrier route presorted mail, prepared and presorted as specified by the Postal Service.

522.24 Destination Bulk Mail Center (DBMC) Rate Category

The destination bulk mail center rate category applies to Basic Presort Rate or Carrier Route Presort Rate Bound Printed Matter subclass mail prepared as specified by the Postal Service in a mailing entered at a designated destination BMC, auxiliary service facility, or other equivalent facility, as specified by the Postal Service.

522.25 Destination Sectional Center Facility (DSCF) Rate Category

The destination sectional center facility rate category applies to Basic Presort Rate or Carrier Route Presort Rate Bound Printed Matter subclass mail prepared as specified by the Postal Service in a mailing sorted to five-digit destination ZIP Codes as specified by the Postal Service and entered at a designated destination processing and distribution center or facility, or other equivalent facility, as specified by the Postal Service.

522.26 Destination Delivery Unit (DDU) Rate Category

The destination delivery unit rate category applies to Basic Presort Rate or Carrier Route Presort Rate Bound Printed Matter subclass mail prepared as specified by the Postal Service in a mailing entered at a designated destination delivery unit, or other equivalent facility, as specified by the Postal Service.

522.3 Barcode Discount

The parcel barcoded discount or flats barcoded discount apply[applies] to single-piece rate and Basic Presort Rate Bound Printed Matter subclass parcel or flat mail, respectively, that is entered at designated facilities, bears a barcode specified by the Postal Service, is prepared as specified by the Postal Service in a mailing of at least 50 pieces, and meets all other preparation and machinability requirements of the Postal Service.

522.4 Flats Differential

Flats-shaped single-piece rate, Basic Presort Rate, and Carrier Route Presort Rate Bound Printed Matter subclass mail that meets the preparation criteria specified by the Postal Service is eligible for a rate reduction in the form of a flats differential.

523 Media Mail Subclass

523.11 Definition

The Media Mail subclass consists of Package Services mail of the following types:

a. Books, including books issued to supplement other books, of at least eight printed pages, consisting wholly of reading matter or scholarly bibliography or reading matter with incidental blank spaces for notations, and containing no advertising matter other than incidental announcements of books. Not more than three of the announcements may contain as part of their format a single order form, which may also serve as a postcard. These order forms are in addition to and not in lieu of order forms which may be enclosed by virtue of any other provision;

b. 16 millimeter or narrower width films which must be positive prints in final form for viewing, and catalogs of such films, of 24 pages or more, at least 22 of which are printed, except when sent to or from commercial theaters;

c. Printed music, whether in bound form or in sheet form;

d. Printed objective test materials and accessories thereto used by or in behalf of educational institutions in the testing of ability, aptitude, achievement, interests and other mental and personal qualities with or without answers, test scores or identifying information recorded thereon in writing or by mark;

e. Sound recordings, including incidental announcements of recordings and guides or scripts prepared solely for use with such recordings. Not more than three of the announcements may contain as part of their format a single order form, which may also serve as a postcard. These order forms are in addition to and not in lieu of order forms which may be enclosed by virtue of any other provision;

f. Playscripts and manuscripts for books, periodicals and music;

g. Printed educational reference charts, permanently processed for preservation;

h. Printed educational reference charts, including but not limited to

i. Mathematical tables,

ii. Botanical tables,

iii. Zoological tables, and

iv. Maps produced primarily for educational reference purposes;

i. Looseleaf pages and binders therefor, consisting of medical information for distribution to doctors, hospitals, medical schools, and medical students; and

j. Computer-readable media containing prerecorded information and guides or scripts prepared solely for use with such media.

523.2 Description of Rate [Catagories]Categories

523.21 Single-Piece Rate Category

The single-piece rate category applies to Media Mail not mailed under section 523.22 or 523.23 prepared as specified by the Postal Service.

523.22 [Level A]Five-Digit Presort Rate Category

The [Level A]Five-Digit presort rate category applies to mailings of at least [500]300 pieces [of]in any Media Mail subclass presorted category, prepared and presorted to five-digit destination ZIP Codes as specified by the Postal Service.

523.23 [Level B]Basic Presort Rate Category

The [Level B]Basic Presort[presort] rate category applies to mailings of at least [500]300 pieces [of]in any Media Mail subclass presorted category, prepared and presorted [to destination Bulk Mail Centers], as specified by the Postal Service, other than to five-digit destination ZIP Codes.

523.3 Barcode Discount

The barcode discount applies to single-piece rate and [Level B]Basic Presort [presort] rate Media Mail that is entered at designated facilities, bears a barcode specified by the Postal Service, is prepared as specified by the Postal Service in a mailing of at least 50 pieces, and meets all other preparation and machinability requirements of the Postal Service.

524 Library Mail Subclass

524.1 Definition

524.11 General

The Library Mail subclass consists of Package Services mail of the following types:

a. Matter designated in section 524.13, loaned or exchanged (including cooperative processing by libraries) between:

i. Schools or colleges, or universities;

ii. Public libraries, museums and herbaria, nonprofit religious, educational, scientific, philanthropic, agricultural, labor, veterans' or fraternal organizations or associations, or between such organizations and their members, readers or borrowers.

b. Matter designated in section 524.14, mailed to or from schools, colleges, universities, public libraries, museums and herbaria and to or from nonprofit religious, educational, scientific, philanthropic, agricultural, labor, veterans' or fraternal organizations or associations; or

c. Matter designated in section 524.15, mailed from a publisher or a distributor to a school, college, university or public library.

524.12 Definition of Nonprofit Organizations and Associations

Nonprofit organizations or associations are defined in section 1009.

524.13 Library subclass mail under section 524.11.a

Matter eligible for mailing as Library Mail under subsection a of section 524.11 consists of:

a. Books consisting wholly of reading matter or scholarly bibliography or reading matter with incidental blank spaces for notations and containing no advertising other than incidental announcements of books;

b. Printed music, whether in bound form or in sheet form;

c. Bound volumes of academic theses in typewritten or other duplicated form;

d. Periodicals, whether bound or unbound;

e. Sound recordings;

f. Other library materials in printed, duplicated or photographic form or in the form of unpublished manuscripts; and

g. Museum materials, specimens, collections, teaching aids, printed matter and interpretative materials intended to inform and to further the educational work and interest of museums and herbaria.

524.14 Library Mail under section 524.11.b

Matter eligible for mailing as Library Mail under subsection b of section 524.11 consists of:

a. 16-millimeter or narrower width films; filmstrips; transparencies; slides; microfilms; all of which must be positive prints in final form for viewing;

b. Sound recordings;

c. Museum materials, specimens, collections, teaching aids, printed matter, and interpretative materials intended to inform and to further the educational work and interests of museums and herbaria;

d. Scientific or mathematical kits, instruments or other devices;

e. Catalogs of the materials in subsections a through d of section 524.14 and guides or scripts prepared solely for use with such materials.

524.15 Library Mail under section 524.11.c

Matter eligible for mailing as Library subclass mail under subsection c of section 524.11 consists of books, including books to supplement other books, consisting wholly of reading matter or scholarly bibliography or reading matter with incidental blank spaces for notations, and containing no advertising matter other than incidental announcements of books.

524.2 Description of Rate Categories

524.21 Single-Piece Rate Category

The single-piece rate category applies to Library Mail not mailed under section 524.22 or 524.23 prepared as specified by the Postal Service.

524.22 [Level A]Five-Digit Presort Rate Category

The [Level A]Five-Digit Presort[presort] rate category applies to mailings of at least [500]300 pieces [of]in any Library Mail subclass presorted category, prepared and presorted to five-digit destination ZIP Codes as specified by the Postal Service.

524.23 [Level B]Basic Presort Rate Category

The [Level B]Basic Presort[presort] rate category applies to mailings of at least [500]300 pieces [of]in any Library Mail subclass presorted category, prepared and presorted [to destination Bulk Mail Centers] as specified by the Postal Service, other than to five-digit destination ZIP Codes.

524.3 Barcode Discount

The barcode discount applies to Single-Piece Rate and [Level B]Basic Presort Rate Library Mail that is entered at designated facilities, bears a barcode specified by the Postal Service, is prepared as specified by the Postal Service in a mailing of at least 50 pieces, and meets all other preparation and machinability requirements of the Postal Service.

530 Physical Limitations

531 Size

Except as provided in section 521.61, Package Services mail may not exceed 108 inches in length and girth combined. Additional size limitations apply to individual Package Services mail subclasses.

532 Weight

Package Services mail may not weigh more than 70 pounds. Additional weight limitations apply to individual Package Services mail subclasses.

540 Postage and Preparation

541 Postage

Postage must be paid as set forth in section 3000. All mail mailed at a bulk or presort rate must have postage paid in a manner not requiring cancellation.

542 Preparation

All pieces in a Package Services mailing must be separately addressed. All pieces in a Package Services mailing must be identified as specified by the Postal Service, and must contain the ZIP Code of the addressee when specified by the Postal Service. All Package Services mailings must be prepared and presented as specified by the Postal Service. Two or more Package Services mailings may be commingled and mailed only when specific methods approved by the Postal Service for determining and verifying postage are followed.

543 Non-Identical Pieces

Pieces not identical in size and weight may be mailed at a bulk or presort rate as part of the same mailing only when specific methods approved by the Postal Service for determining and verifying postage are followed.

544 Attachments and Enclosures

544.1 General

First-Class Mail or Standard Mail may be attached to or enclosed in Package Services mail. The piece must be marked as specified by the Postal Service. Except as provided in sections 544.2 and 544.3, additional postage must be paid for the attachment or enclosure as if it had been mailed separately. Otherwise, the entire combined piece is subject to the First-Class,[or] Standard Mail, or Package Services rate for which it qualifies unless the rate applicable to the host piece is higher.

544.2 Specifically Authorized Attachments and Enclosures

Package Services mail may contain enclosures and attachments as specified by the Postal Service and as described in subsections a and e of section 523.1, with postage paid on the combined piece at the Package Services rate applicable to the host piece.

544.3 Incidental First-Class Attachments and Enclosures

First-Class Mail that meets one or more of the definitions in subsections b through d of section 210, may be attached to or enclosed with Package Services mail, with postage paid on the combined piece at the Package Services rate applicable to the host piece, if the attachment or enclosure is incidental to the piece to which it is attached or with which it is enclosed.

550 Deposit and Delivery

551 Deposit

Package Services mail must be deposited at places and times designated by the Postal Service.

552 Service

Package Services mail may receive deferred service.

553 Forwarding and Return

Undeliverable-as-addressed Package Services mail will be forwarded on request of the addressee, returned on request of the mailer, or forwarded and returned on request of the mailer. Pieces which combine Package Services mail with First-Class Mail or Standard Mail will be forwarded if undeliverable-as-addressed, and returned if undeliverable, as specified by the Postal Service. When Package Services mail is forwarded or returned from one post office to another, additional charges will be based on the applicable single-piece Package Services mail rate.

560 Ancillary Services

Package Services mail will receive the following services upon payment of the appropriate fees:

Service | Schedule
a. Address correction | 911
b. Certificates of mailing | 947
c. COD | 944
d. Insurance | 943
e. Special handling | 952
f. Return receipt (merchandise only) | 945
g. Merchandise return | 932
h. Delivery Confirmation (limited to parcel-shaped Package Services Mail) | 948
i. Shipper Paid Forwarding | 936
j. Signature Confirmation limited to parcel-shaped Package Services Mail | 949
k. Parcel Airlift | 951

Insurance, special handling, and COD services may not be used selectively for individual pieces in a multi-piece Package Services mailing unless specific methods approved by the Postal Service for determining and verifying postage are followed.

570 Rates and Fees

The rates and fees for Package Services Mail are set forth as follows:

| Schedule
a. Parcel Post subclass
Inter-BMC | [522.2A]521.2A
Intra-BMC | [522.2B]521.2B
Parcel Select
Destination BMC | [522.2C]521.2C
Destination SCF | [522.2D]521.2D
Destination Delivery Unit [522.2E]521.2E
b.Bound Printed Matter subclass
Single-Piece | 522A
Basic Presort and Carrier Route | 522B
Destination Entry Basic Presort | 522C
Destination Entry Carrier Route Presort | 522D
c. Media Mail subclass | [323.1]523
d. Library Mail subclass | [323.2]524
e. Fees | 1000

580 Authorizations and Licenses

581 Parcel Post Subclass

The mailing fee set forth in Schedule 1000 must be paid once each 12-month period at each office of mailing or office of verification, as specified by the Postal Service, by or for mailers of any Parcel Select rate category mail in the Parcel Post subclass. Payment of the fee allows the mailer to mail at any Parcel Select rate.

582 Bound Printed Matter Subclass

The mailing fee set forth in Schedule 1000 must be paid once each 12-month period at each office of mailing or office of verification, as specified by the Postal Service, by or for mailers of Destination BMC, Destination SCF or Destination Delivery Unit rate category mail in the Bound Printed Matter subclass. Payment of the fee allows the mailer to mail at any destination entry Bound Printed Matter rate.

583 Media Mail Subclass

The mailing fee set forth in Schedule 1000 must be paid once each 12-month period at each office of mailing or office of verification, as specified by the Postal Service, by or for mailers of presorted Media Mail. Payment of the fee allows the mailer to mail at any presorted Media Mail rate.

584 Library Mail Subclass

The mailing fee set forth in Schedule 1000 must be paid once each 12-month period at each office of mailing or office of verification, as specified by the Postal Service, by or for mailers of presorted Library Mail. Payment of the fee allows the mailer to mail at any presorted Library Mail rate.

Special Services

Classification Schedule

910 Addressing

911 Address Correction Service

911.1 Definition

911.11

Address Correction Service provides a mailer both an addressee's former and current address, if the correct address is known to the Postal Service. If the correct address is not known to the Postal Service, Address Correction Service provides the reason why the Postal Service could not deliver the mailpiece as addressed.

911.2 Availability

911.21

Address Correction service is available to mailers of postage prepaid mail of all classes, except for mail addressed for delivery by military personnel at any military installation. Address Correction Service is mandatory for Periodicals class mail.

911.22

Automated Address Correction Service is available to mailers who can receive computerized address corrections and meet the requirements specified by the Postal Service.

911.3 Mailer Requirements

911.31

Mail, other than Periodicals class mail, sent under this section must bear a request for Address Correction service.

911.4 Other Services

911.41

Address Correction Service serves as a prerequisite for Shipper Paid Forwarding.

911.5 Fees

911.51

The fees for Address Correction Service are set forth in Fee Schedule 911. These fees do not apply when the correction is provided incidental to the return of the mailpiece to the sender.

912 Mailing List Services

912.1 Definition

912.11

Mailing List services enable an eligible mailer to obtain the following services:

a. Correction of Mailing Lists;

b. Change-of-Address Information for Election Boards and Registration Commissions;

c. ZIP Coding of Mailing Lists; and

d. Sequencing of Address Cards.

912.2 Description of Services

a. Correction of Mailing Lists. This service provides current information concerning name and address mailing lists or correct information concerning occupant mailing lists. New names will not be added to a name and address mailing list, and street address numbers will not be added or changed for an occupant mailing list.

(1) The Postal Service provides the following corrections to name and address lists:

i. Deletion of names to which mail cannot be delivered or forwarded;

ii. Correction of incorrect house, rural, or post office box numbers; and

iii. Furnishing of new addresses, including Zip Codes, when permanent forwarding orders are on file for customers who have moved.

This service does not include the addition of new names.

(2) The Postal Service provides the following corrections to occupant lists:

i. Deletion of numbers representing incorrect or non-existent street addresses;

ii. Identification of business addresses and rural route addresses, to the extent known; and

iii. Grouping of corrected cards or sheets by route.

c. Change-of-Address Information for Election Boards and Registration Commissions. This service provides election boards and voter registration commissions with the current address of a resident addressee, if known to the Postal Service.

d. ZIP Coding of Mailing Lists. This service provides sortation of addresses to the finest possible ZIP Code level.

e. Sequencing of Address Cards. This service provides for the removal of incorrect addresses, notation of missing addresses and addition of missing addresses.

912.3 Requirements of Customer

912.31

Correction of Mailing List service is available only to the following owners of name and address or occupant mailing lists:

a. Members of Congress

b. Federal agencies

c. State government departments

d. Municipalities

e. Religious organizations

f. Fraternal organizations

g. Recognized charitable organizations

h. Concerns or persons who solicit business by mail

912.32

A customer desiring correction of a mailing list or arrangement of address cards in sequence of carrier delivery must submit the list or cards as specified by the Postal Service.

912.33

Gummed labels, wrappers, envelopes, Stamped Cards, or postcards indicative of one-time use will not be accepted as mailing lists.

912.4 Fees

912.41

The fees for Mailing List services are set forth in Fee Schedule 912.

920 Delivery Alternatives

921 Post Office Box and Caller Service

921.1 Post Office Box Service

921.11 Definition

921.111

Post Office Box service provides the customer with a private, locked receptacle for the receipt of mail during the hours specified by the Postal Service.

921.12 Limitations

921.121

The Postal Service may limit the number of post office boxes occupied by any one customer.

921.122

Post Office Box service is not available to a customer whose sole purpose for using this service is to obtain free forwarding or transfer of mail by filing change-of-address orders.

921.13 Fees

921.131

Fees for Post Office Box service are set forth in Fee Schedule 921.

921.132

In postal facilities primarily serving academic institutions or the students of such institutions, fees for post office boxes are:

Period of box use | Fee
95 days or less | ½ semiannual fee.
96 to 140 days | ¾ semiannual fee.
141 to 190 days | Full semiannual fee.
191 to 230 days | 1¼ semiannual fee.
231 to 270 days | 1½ semiannual fee.
271 days to full year | Twice semiannual fee.

921.133

No refunds will be made for post office box fees paid under section 921.132.

921.134

Two box keys are available upon payment of a refundable deposit, as specified by the Postal Service. Additional keys, including replacement keys, will be provided, as specified by the Postal Service, only upon payment of the key fee set forth in Fee Schedule 921. Changing the lock on a box is available upon request of the primary box customer and payment of the lock replacement fee set forth in Fee Schedule 921.

921.2 Caller Service

921.21 Definition

921.211

Caller service provides a means for receiving mail, and enables an eligible customer to have properly addressed mail delivered through a call window or loading dock.

921.22 Availability

921.221

Caller service is provided to customers at the discretion of the Postal Service, based on mail volume received and capacity and utilization of post office boxes at any one facility.

921.222

Caller service is not available to a customer whose sole purpose for using this service is to obtain free forwarding or transfer of mail by filing change-of-address orders.

921.23 Fees

921.231

Fees for Caller service are set forth in Fee Schedule 921.

930 Payment Alternatives

931 Business Reply Mail

931.1 Definitions

931.11

Business Reply Mail service enables a Business Reply Mail permit holder, or the permit holder's authorized representative, to distribute Business Reply Mail cards, envelopes, cartons and labels, which can then be used by mailers for sending First-Class Mail without prepayment of postage to an address chosen by the distributor. The permit holder guarantees payment on delivery of postage and fees for the Business Reply Mail pieces that are returned to the addressee, including any pieces that the addressee refuses.

931.2 Mailer Requirements

931.21

Business reply cards, envelopes, cartons and labels must meet the addressing and preparation requirements specified by the Postal Service. Qualified Business Reply Mail must in addition meet the requirements presented in sections 221.24 or 222.34 for the First-Class Mail Qualified Business Reply Mail rate categories.

931.22

To qualify for the advance deposit account per-piece fees, the customer must maintain sufficient money in an advance deposit account to cover postage and fees due for returned Business Reply Mail.

931.23

To qualify for the nonletter-size weight-averaging per-piece and monthly fees set forth in Fee Schedule 931, the permit holder must be authorized for weight averaging, and receive Business Reply Mail pieces that meet the addressing and other preparation requirements specified by the Postal Service, but do not meet the machinability requirements specified by the Postal Service for mechanized or automation letter sortation.

931.3 Other Services

931.31 Reserved

931.4 Fees

931.41

Fees for Business Reply Mail are set forth in Fee Schedule 931.

931.42

[The]To qualify for any service level except regular (no accounting fee) Business Reply Mail, the annual accounting fee set forth in Fee Schedule 1000 must be paid each year for each business reply advance deposit account at each facility where the mail is to be received.

931.43

The nonletter-size weight averaging monthly fee set forth in Fee Schedule 931 must be paid each month during any part of which the permit holder is authorized to use the weight averaging fees.

931.5 Authorizations and Licenses

931.51

In order to distribute business reply cards, envelopes, cartons or labels, the distributor must obtain a license or licenses from the Postal Service and pay the appropriate fee as set forth in Fee Schedule 1000.

931.52

Except as provided in section 931.53, the license to distribute business reply cards, envelopes, cartons, or labels must be obtained at each office from which the mail is offered for delivery.

931.53

If the Business Reply Mail is to be distributed from a central office to be returned to branches or dealers in other cities, one license obtained from the post office where the central office is located may be used to cover all Business Reply Mail.

931.54

The license to mail Business Reply Mail may be canceled for failure to pay business reply postage and fees when due, and for distributing business reply cards or envelopes that do not conform to prescribed form, style or size.

931.55

Authorization to pay nonletter-size weight-averaging Business Reply Mail fees as set forth in Fee Schedule 931 may be canceled for failure of a Business Reply Mail advance deposit trust account holder to meet the standards specified by the Postal Service for the weight averaging accounting method.

932 Merchandise Return Service

932.1 Definition

932.11

Merchandise Return service enables a Merchandise Return service permit holder to authorize its customers to return a parcel with the postage paid by the permit holder.

932.2 Availability

932.21

Merchandise Return service is available to all Merchandise Return service permit holders who guarantee payment of postage and fees for all returned parcels.

932.22

Merchandise Return service is available for the return of any parcel under the following classification schedules:

a. First-Class Mail

[b. Standard Mail]

[c.]b. Package Services

932.3 Mailer Requirements

932.31

Merchandise return labels must be prepared as specified by the Postal Service, and be made available to the permit holder's customers.

932.4 Other Services

932.41

The following services may be purchased in conjunction with Merchandise Return Service:

Service | Fee schedule
a. Certificate of Mailing | 947
b. Insurance | 943
c. Registered Mail | 942
d. Special Handling | 952

932.5 Fees

932.51

The permit holder must pay the accounting fee specified in Fee Schedule 1000 once each 12-month period for each advance deposit account.

932.6 Authorizations and Licenses

932.61

A permit fee as set forth in Schedule 1000 must be paid once each 12-month period by shippers utilizing Merchandise Return service.

932.62

The merchandise return permit may be canceled for failure to maintain sufficient funds in a trust account to cover postage and fees on returned parcels or for distributing merchandise return labels that do not conform to Postal Service specifications.

933 On-Site Meter Service

933.1 Definition

933.11

On-Site Meter service enables a mailer or meter manufacturer to obtain the following meter-related services from the Postal Service at the mailer's or meter manufacturer's premises:

a. checking a meter in or out of service; and

b. setting or examining a meter.

933.2 Availability

933.21

On-Site Meter service is available on a scheduled basis, and meter setting may be performed on an emergency basis for those customers enrolled in the scheduled on-site meter setting or examination program.

933.3 Fees

933.31

The fees for On-Site Meter service are set forth in Fee Schedule 933. The basic meter service fee is charged whenever a postal employee is available to provide a meter-related service in section 933.11 at the mailer's or meter manufacturer's premises, even if no particular service is provided.

934 Reserved

935 Bulk Parcel Return Service

935.1 Definition

935.11

Bulk Parcel Return Service provides a method whereby high-volume parcel mailers may have machinable Standard Mail parcels returned to designated postal facilities for pickup by the mailer at a predetermined frequency specified by the Postal Service or delivered by the Postal Service in bulk in a manner and frequency specified by the Postal Service. Such parcels are being returned because they:

a. are undeliverable-as-addressed;

b. have been opened, resealed, and redeposited into the mail for return to the mailer using the return label described in section 935.36 below; or

c. are found in the mailstream, having been opened, resealed, and redeposited by the recipient for return to the mailer, and it is impracticable or inefficient for the Postal Service to return the mailpiece to the recipient for payment of return postage.

935.2 Availability

935.21

Bulk Parcel Return Service is available only for the return of machinable parcels, as defined by the Postal Service, initially mailed under the following Standard Mail subclasses: Regular and Nonprofit.

935.3 Mailer Requirements

935.31

Mailers must receive authorization from the Postal Service to use Bulk Parcel Return Service.

935.32

To claim eligibility for Bulk Parcel Return Service at each facility through which the mailer requests Bulk Parcel Return Service, the mailer must demonstrate receipt of 10,000 returned machinable parcels at a given delivery point in the previous postal fiscal year or must demonstrate a high likelihood of receiving 10,000 returned parcels in the postal fiscal year for which the service is requested.

935.33

Payment for Bulk Parcel Return Service is made through advance deposit account, or as otherwise specified by the Postal Service.

935.34

Mail for which Bulk Parcel Return Service is requested must bear endorsements specified by the Postal Service.

935.35

Bulk Parcel Return Service mailers must meet the documentation and audit requirements of the Postal Service.

935.36

Mailers of parcels endorsed for Bulk Parcel Return Service may furnish the recipient a return label, prepared at the mailer's expense to specifications set forth by the Postal Service, to authorize return of opened, machinable parcels at the expense of the original mailer. There is no additional fee for use of the label.

935.4 Other Services

935.41

The following services may be purchased in conjunction with Bulk Parcel Return Service:

Service | Fee schedule
a. Address Correction Service | 911
b. Certificate of Mailing | 947
c. Shipper-Paid Forwarding | 936

935.5 Fees

935.51

The per return fee for Bulk Parcel Return Service is set forth in Fee Schedule 935.

935.52

The permit holder must pay the accounting fee specified in Fee Schedule 1000 once each 12-month period for each advance deposit account.

935.6 Authorizations and Licenses

935.61

A permit fee as set forth in Schedule 1000 must be paid once each 12-month period by mailers utilizing Bulk Parcel Return Service.

935.62

The Bulk Parcel Return Service permit may be canceled for failure to maintain sufficient funds in an advance deposit account to cover postage and fees on returned parcels or for failure to meet the specifications of the Postal Service, including distribution of return labels that do not conform to Postal Service specifications.

936 Shipper-Paid Forwarding

936.1 Definition

936.11

Shipper-Paid Forwarding enables mailers to have undeliverable-as-addressed machinable Standard Mail parcels forwarded at applicable First-Class Mail[ or Package Service mail] rates for up to one year from the date that the addressee filed a change-of-address order. If Shipper-Paid Forwarding is elected for a parcel that is returned, the mailer will pay the applicable First-Class Mail[ or Package Service mail] rate, or the Bulk Parcel Return Service fee, if that service was elected.

936.2 Availability

936.21

Shipper-Paid Forwarding is available only for the forwarding of machinable parcels, as defined by the Postal Service, initially mailed under the following Standard Mail subclasses: Regular and Nonprofit.

936.22

Shipper-Paid Forwarding is available only if automated Address Correction Service, as described in section 911, is used.

936.3 Mailer Requirements

936.31

Mail for which Shipper-Paid Forwarding is purchased must meet the preparation requirements of the Postal Service.

936.32

Payment for Shipper-Paid Forwarding is made through advance deposit account, or as otherwise specified by the Postal Service.

936.33

Mail for which Shipper-Paid Forwarding is requested must bear endorsements specified by the Postal Service.

936.4 Other Services

936.41

The following services may be purchased in conjunction with Shipper-Paid Forwarding:

Service | Fee schedule
a. Certificate of Mailing | 947
b. Bulk Parcel Return Service | 935

936.5 Applicable Rates and Fees

936.51

Except as provided in section 935, single-piece rates under the Letters and Sealed Parcels subclass or the Priority Mail subclass of First-Class Mail, [or the Parcel Post subclass of Package Services,] as set forth in Rate Schedules 221, and 223, [and 521.2A, and 521.2B] apply to pieces forwarded or returned under this section.

936.52

The accounting fee specified in Fee Schedule 1000 must be paid once each 12-month period for each advance deposit account.

940 Accountability and Receipts

941 Certified Mail

941.1 Definition

941.11

Certified Mail service provides a mailer with evidence of mailing and, upon request, electronic confirmation that an article was delivered or that a delivery attempt was made, and guarantees retention of a record of delivery by the Postal Service for a period specified by the Postal Service.

941.2 Availability

941.21

Certified Mail service is available for matter mailed as First-Class Mail.

941.3 Included Services

941.31

If requested by the mailer, the Postal Service will indicate the time of acceptance on the mailing receipt. A mailer may obtain a copy of the mailing receipt on terms specified by the Postal Service.

941.32

If the initial attempt to deliver the mail is not successful, a notice of attempted delivery is left at the mailing address, and the date and time of the attempted delivery is made available to the mailer.

941.33

[A mailer may obtain a copy of the mailing receipt on terms specified by the Postal Service.] The date and time of delivery is made available to the mailer electronically.

941.4 Mailer Requirements

941.41

Certified Mail must be deposited in a manner specified by the Postal Service.

941.42

The mailer must mail the article at a post office, branch, or station, or give the article to a rural carrier, in order to obtain a mailing receipt.

941.5 Other Services

941.51

The following services may be obtained in conjunction with mail sent under this section upon payment of the applicable fees:

Service | Fee schedule
a. Restricted Delivery | 946
b. Return Receipt | 945

941.6 Fees

941.61

The fee for Certified Mail service is set forth in Fee Schedule 941.

942 Registered Mail

942.1 Definition

942.11

Registered Mail service provides added protection to mail sent under this section and indemnity in case of loss or damage. The amount of indemnity depends upon the actual value of the article at the time of mailing, up to a maximum of $25,000, and is not available for articles of no value.

942.2 Availability

942.21

Registered Mail service is available for prepaid First-Class Mail of any value, if the mail meets the minimum requirements for length and width specified by the Postal Service.

942.22

Registered Mail service is not available for:

a. All delivery points because of the high security required for Registered Mail; in addition, liability is limited in some geographic areas;

b. Mail of any class sent in combination with First-Class Mail;

c. Two or more articles tied or fastened together, unless the envelopes are enclosed in the same envelope or container.

942.3 Included Services

942.31

The following services are provided as part of Registered Mail service at no additional cost to the mailer:

a. A mailing receipt;

b. Electronic confirmation, upon request, that an article was delivered or that delivery attempt was made;

[b.]c. A record of delivery, retained by the Postal Service for a specified period of time;

[c.]d. A notice of attempted delivery, left at the mailing address if the initial delivery attempt is unsuccessful; and

[d.]e. A notice of nondelivery, when Registered Mail is undeliverable-as-addressed and cannot be forwarded.

942.32

Registered Mail is forwarded and returned without additional registry charge.

942.4 Mailer Requirements

942.41

Registered Mail must be deposited in a manner specified by the Postal Service.

942.42

Indemnity claims for Registered Mail must be filed within a period of time, specified by the Postal Service, from the date the article was mailed. A claim concerning complete loss of registered articles may be filed by the mailer only. A claim concerning damage to or partial loss of registered articles may be filed by either the mailer or addressee.

942.5 Other Services

942.51

The following services may be obtained in conjunction with mail sent under this section upon payment of applicable fees:

Service | Fee schedule
a. Collect on Delivery | 944
b. Restricted Delivery | 946
c. Return Receipt | 945
d. Merchandise Return (shippers only) | 932

942.6 Fees

942.61

The fees for Registered Mail are set forth in Fee Schedule 942.

942.62

There are no additional Registered Mail fees for forwarding and return of Registered Mail.

943 Insurance

943.1 Express Mail Insurance

943.11 Definition

943.111

Express Mail Insurance provides the mailer with indemnity for loss of, rifling of, or damage to items sent by Express Mail.

943.12 Availability

943.121

Express Mail Insurance is available only for Express Mail.

943.13 Limitations and Mailer Requirements

943.131

Insurance coverage is provided, for no additional charge, up to [$500]$100 per-piece for document reconstruction, up to $5,000 per occurrence, regardless of the number of claimants. Insurance coverage for merchandise is also provided, for no additional charge, up to $100 per-piece. Additional merchandise insurance coverage may be purchased for a fee. The maximum liability for merchandise is $5,000 per-piece. For negotiable items, currency, or bullion, the maximum liability is $15.

943.132

Indemnity claims for Express Mail must be filed within a specified period of time from the date the article was mailed.

943.133

Indemnity will be paid under terms and conditions specified by the Postal Service.

943.134

Among other limitations specified by the Postal Service, indemnity will not be paid by the Postal Service for loss, damage or rifling:

a. Of nonmailable matter;

b. Due to improper packaging;

c. Due to seizure by any agency of government; or

d. Due to war, insurrection or civil disturbances.

[913]943.14 Other Services

943.141 Reserved

943.15 Fees

943.151

The fees for Express Mail Insurance service are set forth in Fee Schedule 943.

943.2 General Insurance

943.21 Definition

943.211

General Insurance provides the mailer with indemnity for loss of, rifling of, or damage to mailed items. General Insurance provides a bulk option for mail meeting the conditions described below and specified further by the Postal Service.

943.22 Availability

943.221

General Insurance is available for mail sent under the following classification schedules:

a. First-Class Mail, if containing matter that may be mailed as Standard Mail or Package Services;

b. Package Services;

c. Regular and Nonprofit subclasses of Standard Mail, for Bulk Insurance only, for mail subject to residual shape surcharge.

943.222

General Insurance is not available for matter offered for sale, addressed to prospective purchasers who have not ordered or authorized their sending. If such matter is received in the mail, payment will not be made for loss, rifling, or damage.

943.223

The Bulk Insurance option of General Insurance service is available for mail entered in bulk at designated facilities and in a manner specified by the Postal Service, including the use of electronic manifesting.

943.23 Included Services

943.231

For General Insurance, the mailer is issued a receipt for each item mailed. For items insured for more than $50, a record of delivery is retained by the Postal Service for a specified period.

943.232

For items insured for more than $50, a notice of attempted delivery is left at the mailing address when the first attempt at delivery is unsuccessful.

943.233

Mail undeliverable as addressed will be returned to the sender as specified by the sender or by the Postal Service.

943.24 Limitations and Mailer Requirements

943.241

Mail insured under section 943.2 must be deposited as specified by the Postal Service.

943.242

Bulk Insurance must bear endorsements and identifiers specified by the Postal Service. Bulk Insurance mailers must meet the documentation requirements of the Postal Service.

943.243

By insuring an item, the mailer guarantees forwarding and return postage.

943.244

General Insurance, other than Bulk Insurance, provides indemnity for the actual value of the article at the time of mailing. Bulk Insurance provides indemnity for the lesser of (1) the actual value of the article at the time of mailing, or (2) the wholesale cost of the contents to the sender.

943.245

For General [i]Insurance, other than Bulk Insurance, a claim for complete loss may be filed by the mailer only, and a claim for damage or for partial loss may be filed by either the mailer or addressee. For Bulk Insurance, all claims must be filed by the mailer.

943.246

Indemnity claims must be filed within a specified period of time from the date the article was mailed.

943.25 Other Services

943.251

The following services, if applicable to the subclass of mail, may be obtained in conjunction with mail sent under this section upon payment of the applicable fees:

Service | Fee schedule
a. Parcel Airlift | 951
b. Restricted Delivery (for items insured for more than $50) | 946
c. Return Receipt (for items insured for more than $50) | 945
d. Special Handling | 952
e. Merchandise Return (shippers only) | 932

943.26 Fees

943.261 The fees for General Insurance are set forth in Fee Schedule 943.

944 Collect on Delivery

944.1 Definition

944.11

Collect on Delivery (COD) service allows a mailer to mail an article for which full or partial payment has not yet been received and have the price, the cost of postage and fees, and anticipated or past due charges collected by the Postal Service from the addressee when the article is delivered.

944.2 Availability

944.21

COD service is available for collection of $1,000 or less upon the delivery of postage prepaid mail sent under the following classification schedules:

a. Express Mail

b. First-Class Mail

c. Package Services

944.22

Service under this section is not available for:

a. Collection agency purposes;

b. Return of merchandise about which some dissatisfaction has arisen, unless the new addressee has consented in advance to such return;

c. Sending only bills or statements of indebtedness, even though the sender may establish that the addressee has agreed to collection in this manner; however, when the legitimate COD shipment consists of merchandise or bill of lading, the balance due on a past or anticipated transaction may be included in the charges on a COD article, provided the addressee has consented in advance to such action;

d. Parcels containing moving-picture films mailed by exhibitors to moving-picture manufacturers, distributors, or exchanges;

e. Goods that have not been ordered by the addressee.

944.3 Included Services

944.31

COD service provides the mailer with insurance against loss, rifling and damage to the article as well as failure to receive the amount collected from the addressee. This provision insures only the receipt of the instrument issued to the mailer after payment of COD charges, and is not to be construed to make the Postal Service liable upon any such instrument other than a Postal Service money order.

944.32

A receipt is issued to the mailer for each piece of COD mail. Additional copies of the original mailing receipt may be obtained by the mailer.

944.33

Delivery of COD mail will be made in a manner specified by the Postal Service. If a delivery to the mailing address is not attempted or if a delivery attempt is unsuccessful, a notice of attempted delivery will be left at the mailing address.

944.34

The mailer may receive a notice of nondelivery if the piece mailed is endorsed appropriately.

944.35

The mailer may designate a new addressee or alter the COD changes by submitting the appropriate form and by paying the appropriate fee as set forth in Fee Schedule 944.

944.4 Limitations and Mailer Requirements

944.41

The mailer must identify COD mail as COD mail, as specified by the Postal Service.

944.42

COD mail must be deposited in a manner specified by the Postal Service.

944.43

A mailer of COD mail guarantees to pay any return postage, unless otherwise specified on the piece mailed.

944.44

For COD mail sent as Package Services mail, postage at the applicable rate will be charged to the addressee:

a. When an addressee, entitled to delivery to the mailing address under Postal Service regulations, requests delivery of COD mail that was refused when first offered for delivery;

b. For each delivery attempt, to an addressee entitled to delivery to the mailing address under Postal Service regulations, after the second such attempt.

944.45

A claim for complete loss may be filed by the mailer only. A claim for damage or for partial loss may be filed by either the mailer or addressee.

944.46

COD indemnity claims must be filed within a specified period of time from the date the article was mailed, and meet the requirements specified by the Postal Service.

944.5 Other Services

944.51

The following services, if applicable to the subclass of mail, may be obtained in conjunction with mail sent under this section upon payment of the applicable fee:

Service | Fee schedule
a. Registered Mail, if sent as First-Class | 942
b. Restricted Delivery | 946
c. Special Handling | 952

944.6 Fees

944.61

Fees for COD service are set forth in Fee Schedule 944.

945 Return Receipt

945.1 Regular Return Receipt

945.11 Definition

945.[11]111

Return Receipt service provides evidence to the mailer that an article has been received at the delivery address, including an original or copy of the recipient's signature. Mailers requesting Return Receipt service at the time of mailing will be provided, as appropriate, an original or copy of the signature of the [addressee or addressee's agent] recipient, the date delivered, and the address of delivery, if different from the address on the mailpiece. Mailers requesting Return Receipt service after mailing will be provided a copy of the recipient's signature, the date of delivery, and the name of the person who signed for the article.

945.[2]12 Availability

945.[21]121

Return Receipt service is available for mail sent under the following sections or classification schedules:

Service | Fee schedule
a. Certified Mail | 941
b. COD Mail | 944
c. Insurance (if insured for more than $50) | 943
d. Registered Mail | 942
e. Express Mail
[f. Priority Mail (merchandise only)
g. Standard Mail (limited to merchandise subject to residual shape surcharge and sent by Regular and Nonprofit subclasses)
h. Package Services]

945.[22]122

Return Receipt service is available at the time of mailing or, when purchased in conjunction with Certified Mail, COD, Insurance (if for more than $50), Registered Mail, or Express Mail, after mailing.

945.[3]13 Included Services

945.[31]131

If the mailer does not receive a return receipt within a specified period of time from the date of mailing, the mailer may request evidence of delivery from the delivery record, at no additional fee.

945.[4]14 Other Services

945.[41]141 Reserved

[945.5 Fees]

[945.51

The fees for Return Receipt service are set forth in Fee Schedule 945.]

945.2 Return Receipt For Merchandise

945.21 Definition

945.221

Return Receipt for Merchandise service provides evidence to the mailer that an article has been received at the delivery address. A Return Receipt for Merchandise also supplies the recipient's actual delivery address if it is different from the address used by the sender. A Return Receipt for Merchandise may not be requested after mailing.

945.22 Availability

945.221

Return Receipt for Merchandise is available for merchandise sent under the following sections or classification schedules:

a. Priority Mail

b. Standard Mail pieces subject to the residual shape surcharge

c. Package Services

945.23 Mailer Requirements

945.231

Return Receipt for Merchandise must be deposited in a manner specified by the Postal Service.

945.232

Return Receipt for Merchandise mail may be addressed for delivery only in the United States and its territories and possessions, through Army/Air Force (APO) and Navy (FPO) post offices, or through the United Nations Post Office, New York.

945.24 Other Services

945.241 Reserved

945.3 Fees

945.31

The fees for Return Receipt service are set forth in Fee Schedule 945.

946 Restricted Delivery

946.1 Definition

946.11

Restricted Delivery service enables a mailer to direct the Postal Service to limit delivery to the addressee or to someone authorized by the addressee to receive such mail.

946.2 Availability

946.21

This service is available for mail sent under the following sections:

Service | Fee schedule
a. Certified Mail | 941
b. COD Mail | 944
c. Insurance (if insured for more than $50) | 943
d. Registered Mail | 942

946.22

Restricted Delivery is available to the mailer at the time of mailing or after mailing.

946.23

Restricted Delivery service is available for delivery only to natural persons specified by name.

946.3 Included Services

946.31

A record of delivery will be retained by the Postal Service for a period specified by the Postal Service.

946.4 Other Services

946.41 Reserved

946.5 Fees

946.51

The fee for Restricted Delivery service is set forth in Fee Schedule 946.

946.52

The fee (or communications charges) will not be refunded for failure to provide restricted delivery service when requested after mailing, due to prior delivery.

947 Certificate of Mailing

947.1 Definition

947.11

Certificate of Mailing service furnishes evidence that mail has been presented to the Postal Service for mailing.

947.2 Availability

947.21

Certificate of Mailing service is available for matter sent using any class of mail.

947.3 Included Service

947.31

The mailer may obtain a copy of a Certificate of Mailing on terms specified by the Postal Service.

947.4 Limitations

947.31

The service does not entail retention of a record of mailing by the Postal Service and does not provide evidence of delivery.

947.5 Other Services

947.51

The following services, if applicable to the subclass of mail, may be obtained in conjunction with mail sent under this classification schedule upon payment of the applicable fees:

Service | Fee schedule
a. Parcel Airlift | 951
b. Special Handling | 952

947.6 Fees

947.61

The fees for Certificate of Mailing service are set forth in Fee Schedule 947.

948 Delivery Confirmation

948.1 Definition

948.11

Delivery Confirmation service provides, upon request, electronic confirmation to the mailer that an article was delivered or that a delivery attempt was made.

948.2 Availability

948.21

Delivery Confirmation service is available for First-Class Letters and Sealed Parcels subclass mail that is parcel-shaped, as specified by the Postal Service; Priority Mail; Standard Mail, in the Regular and Nonprofit subclasses, that is subject to the residual shape surcharge; and Package Services mail[, as well as mail subject to the residual shape surcharge in the Regular and Nonprofit subclasses of Standard Mail] that is parcel-shaped, as specified by the Postal Service.

948.3 Mailer Requirements

948.31

Delivery Confirmation service may be requested only at the time of mailing.

948.32

Mail for which Delivery Confirmation service is requested must meet preparation requirements specified by the Postal Service, and bear a Delivery Confirmation barcode specified by the Postal Service.

948.33

Matter for which Delivery Confirmation service is requested must be deposited in a manner specified by the Postal Service.

948.4 Other Services

948.41 Reserved

948.5 Fees

948.51

The fees for Delivery Confirmation service are set forth in Fee Schedule 948.

949 Signature Confirmation

949.1 Definition

949.11

Signature Confirmation service provides, upon request, electronic confirmation to the mailer that an article was delivered or that a delivery attempt was made, and a copy of the signature of the recipient.

949.2 Availability

949.21

Signature Confirmation is available for Letters and Sealed Parcels subclass mail that is parcel-shaped, as specified by the Postal Service; Priority Mail; and Package Services mail that is parcel-shaped, as specified by the Postal Service.

949.3 Mailer Requirements

949.31

Signature Confirmation service may be requested only at the time of mailing.

949.32 Mail for which Signature Confirmation service is requested must meet preparation requirements specified by the Postal Service, and bear a Delivery Confirmation barcode specified by the Postal Service.

949.33

Matter for which Signature Confirmation is requested must be deposited in a manner specified by the Postal Service.

949.4 Other Services

949.41 Reserved

949.5 Fees

949.51

The fees for Signature Confirmation service are set forth in Fee Schedule 949.

950 Parcel Handling

951 Parcel Airlift (PAL)

951.1 Definition

951.11

Parcel Airlift service provides for air transportation of parcels on a space available basis to or from military post offices outside the contiguous 48 states.

951.2 Availability

951.21

Parcel Airlift service is available for mail sent under the Package Services Classification Schedule.

951.3 Mailer Requirements

951.31

The minimum physical limitations established for the mail sent under the classification schedule for which postage is paid apply to Parcel Airlift mail. In no instance may the parcel exceed 30 pounds in weight, or 60 inches in length and girth combined.

951.32

Mail sent under this section must be endorsed as specified by the Postal Service.

951.33

Parcel Airlift mail must be deposited in a manner specified by the Postal Service.

951.4 Forwarding and Return

951.41

Parcel Airlift mail sent for delivery outside the contiguous 48 states is forwarded as set forth in section 2030 of the General Definitions, Terms and Conditions. Parcel Airlift mail sent for delivery within the contiguous 48 states is forwarded or returned as set forth in section 353 as appropriate.

951.5 Other Services

951.51

The following services, if applicable to the subclass of mail, may be obtained in conjunction with mail sent under this section upon payment of the applicable fees:

Service | Fee schedule
a. Certificate of Mailing | 947
b. Insurance | 943
c. Restricted Delivery (if insured for more than $50) | 946
d. Return Receipt (if insured for more than $50) | 945
e. Special Handling | 952

951.6 Fees

951.61

The fees for Parcel Airlift service are set forth in Fee Schedule 951.

952 Special Handling

952.1 Definition

952.11

Special Handling service provides preferential handling to the extent practicable during dispatch and transportation.

952.2 Availability

952.21

Special Handling service is available for mail sent under the following classification schedules:

a. First-Class Mail

b. Package Services

952.3 Mailer Requirements

952.31

Mail sent under this section must be identified as specified by the Postal Service.

952.32

Mail sent under this section must be deposited in a manner specified by the Postal Service.

952.33

Special Handling service is mandatory for matter that requires special attention in handling, transportation and delivery.

952.4 Forwarding and Return

952.41

If undeliverable as addressed, Special Handling mail that is forwarded to the addressee is given special handling without requiring payment of an additional handling fee. However, additional postage at the applicable Standard Mail rate is collected on delivery.

952.5 Other Services

952.51

The following services, if applicable to the subclass of mail, may be obtained in conjunction with mail sent under this section upon payment of the applicable fees:

Service | Fee schedule
a. COD Mail | 944
b. Insurance | 943
c. Parcel Airlift | 951
d. Merchandise Return (shippers only) | 932

952.6 Fees

952.61

The fees for Special Handling service are set forth in Fee Schedule 952.

960 Stamped Paper

961 Stamped Envelopes

961.1 Definition

961.11

Plain Stamped Envelopes and printed Stamped Envelopes are envelopes with postage thereon offered for sale by the Postal Service.

961.2 Availability

961.21

Stamped Envelopes are available for:

a. First-Class Mail within the first rate increment.

b. Standard Mail mailed at a minimum per-piece rate as specified by the Postal Service.

961.22

Printed Stamped Envelopes may be obtained by special request.

961.3 Fees

961.31

The fees for Stamped Envelopes are set forth in Fee Schedule 961.

962 Stamped Cards

962.1 Definition

962.11

Stamped Cards are cards with postage imprinted or impressed on them, and supplied by the Postal Service for the transmission of messages. Double Stamped Cards consist of two attached cards, one of which may be detached by the receiver and returned by mail as a single Stamped Card.

962.2 Availability

962.21

Stamped Cards are available for First-Class Mail.

962.3 Fees

962.31

The fees for Stamped Cards are set forth in Fee Schedule 962.

970 Postal Money Orders

971 Money Order Service

971.1 Definition

971.11

Money Order service provides the customer with an instrument for payment of a specified sum of money.

971.2 Limitations

971.21

The maximum value for which a domestic postal money order may be purchased is [$700]$1,000. Other restrictions on the number or dollar value of postal money order sales, or both, may be imposed by law or under regulations prescribed by the Postal Service.

971.3 Included Services

971.31

A receipt of purchase is provided at no additional cost.

971.32

The Postal Service will replace money orders that are spoiled or incorrectly prepared, regardless of who caused the error, without charge if replaced on the date originally issued.

971.33

If a replacement money order is issued after the date of original issue because the original was spoiled or incorrectly prepared, the applicable money order fee may be collected from the customer.

971.34

Inquiries or claims may be filed by the purchaser, payee, or endorsee.

971.4 Other Services

971.41 Reserved

971.5 Fees

971.51

The fees for Money Order service are set forth in Fee Schedule 971.

980 Acceptance Alternatives

981 Netpost Mailing Online

981.1 Definition

Netpost Mailing Online is a service that allows mailers to submit electronic documents, with address lists, for subsequent conversion into hard copy form, entry as mail, and delivery.

981.2 Availability

981.21

Netpost Mailing Online is available for documents submitted in an electronic form, along with an address list, to be entered under the following classification schedules:

a. Express Mail;

b. First-Class Mail;

c. Regular and Nonprofit subclasses of Standard Mail.

981.22

Except as provided in section 981.23, documents presented through Netpost Mailing Online are eligible for only the following rate categories:

a. Express Mail Next Day Service and Second Day Service

b. First-Class Mail Letters and Sealed Parcels Automation Letters [Basic] Mixed AADC

c. First-Class Mail Letters and Sealed Parcels Automation Flats [Basic] Mixed ADC

d. First-Class Mail Cards Automation [Basic] Mixed AADC

e. First-Class Mail Single-Piece Priority Mail

f. Standard Mail Regular Automation [Basic] Letters Mixed AADC

g. Standard Mail Regular Automation Basic Flats

h. Standard Mail Nonprofit Automation [Basic] Letters Mixed AADC (starting on a date to be specified by the Postal Service)

i. Standard Mail Nonprofit Automation Basic Flats (starting on a date to be specified by the Postal Service)

981.23

That portion of a Netpost Mailing Online mailing consisting of pieces with addresses that cannot be made to meet Postal Service addressing requirements is not eligible for any Automation [Basic] rate categories, but instead may be sent, at the option of the Netpost Mailing Online customer, at the applicable single-piece rates for First-Class Mail Letters and Sealed Parcels, First-Class Mail Cards, or Priority Mail.

981.3 Mailer Requirements

981.31

Documents and address lists must be presented in electronic form, as specified by the Postal Service, through the Internet site specified by the Postal Service. Documents must be prepared using application software approved by the Postal Service.

981.4 Other Special Services

Other special services [that are] may be available in conjunction with[ the subclass of mail chosen by the] Netpost Mailing Online[ customer are available for Mailing Online pieces only], as specified by the Postal Service.

981.5 Fees

981.51

The fees for Netpost Mailing Online are described in Fee Schedule 981.

981.6 Functionally Equivalent Systems

981.61 General

Mailpieces created by a system certified by the Postal Service to be functionally equivalent to Netpost Mailing Online are eligible for the same rate categories as Netpost Mailing Online mailpieces. Mailpieces created by a certified, functionally equivalent service are in no case eligible for rate categories providing larger discount than Netpost Mailing Online mailpieces would receive.

981.62 Definition

A functionally equivalent system is one which is capable of all of the following, comparable to Netpost Mailing Online, as specified by the Postal Service:

a. accepting documents and mailing lists from remote users in electronic form, such as via the Internet or converting documents and mailing lists to electronic form;

b. using the electronic documents, mailing lists, and other software including sortation software certified by the Postal Service that sorts to the finest level of sortation possible, to create barcoded mailpieces meeting the requirements for automation category mail, with 100 percent standardized addresses on all pieces claiming discounted rates;

c. commingling mailpieces from all sources without diversion to any other system and batching them according to geographic destination prior to printing and mailing; and

d. generating volumes that exceed on average any otherwise applicable volume minimums.

981.63 Certification

981.631 General

Functionally equivalent systems must meet the requirements for certification specified by the Postal Service.

981.632 Fee

Functionally equivalent systems are subject to the annual certification fee set forth in Fee Schedule 1000.

981.633 Cancellation

Certification can be canceled by the Postal Service for failure to continue to meet the requirements of this section and those specified by the Postal Service.

981.7 Duration of Experimental Service Period

981.71

The provisions of section 981 expire the later of:

a. Three years after the implementation date specified by the Postal Service Board of Governors, or

b. If, by the expiration date specified in (a), a proposal to make Netpost Mailing Online permanent is pending before the Postal Rate Commission, the later of:

i. Three months after the Commission takes action on such proposal under section 3624 of Title 39, or

ii. —If applicable—on the implementation date for a permanent Netpost Mailing Online.

General Definitions, Terms and Conditions

1000 General Definitions

As used in this Domestic Mail Classification Schedule, the following terms have the meanings set forth below.

1001 Advertising

Advertising includes all material for the publication of which a valuable consideration is paid, accepted, or promised, that calls attention to something for the purpose of getting people to buy it, sell it, seek it, or support it. If an advertising rate is charged for the publication of reading matter or other material, such material shall be deemed to be advertising. Articles, items, and notices in the form of reading matter inserted in accordance with a custom or understanding that textual matter is to be inserted for the advertiser or his products in the publication in which a display advertisement appears are deemed to be advertising. If a publisher advertises his own services or publications, or any other business of the publisher, whether in the form of display advertising or editorial or reading matter, this is deemed to be advertising.

1002 Aspect Ratio

Aspect ratio is the ratio of width to length.

1003 Bills and Statements of Account

1003.1

A bill is a request for payment of a definite sum of money claimed to be owing by the addressee either to the sender or to a third party. The mere assertion of an indebtedness in a definite sum combined with a demand for payment is sufficient to make the message a bill.

1003.2

A statement of account is the assertion of the existence of a debt in a definite amount but which does not necessarily contain a request or a demand for payment. The amount may be immediately due or may become due after a certain time or upon demand or billing at a later date.

1003.3

A bill or statement of account must present the particulars of an indebtedness with sufficient definiteness to inform the debtor of the amount he is required for acquittal of the debt. However, neither a bill nor a statement of account need state the precise amount if it contains sufficient information to enable the debtor to determine the exact amount of the claim asserted.

1003.4

A bill or statement of account is not the less a bill or statement of account merely because the amount claimed is not in fact owing or may not be legally collectible.

1004 Girth

Girth is the measurement around a piece of mail at its thickest part.

1005 Invoice

An invoice is a writing showing the nature, quantity, and cost or price of items shipped or sent to a purchaser or consignor.

1006 Permit Imprints

Permit imprints are printed indicia indicating postage has been paid by the sender under the permit number shown.

1007 Preferred Rates

Preferred rates are the reduced rates established pursuant to 39 U.S.C. 3626.

1008 ZIP Code

The ZIP Code is a numeric code that facilitates the sortation, routing, and delivery of mail.

1009 Nonprofit Organizations and Associations

Nonprofit organizations or associations are organizations or associations not organized for profit, none of the net income of which benefits any private stockholder or individual, and which meet the qualifications set forth below for each type of organization or association. The standard of primary purpose applies to each type of organization or association, except veterans' and fraternal. The standard of primary purpose requires that each type of organization or association be both organized and operated for the primary purpose. The following are the types of organizations or associations that may qualify as authorized nonprofit organizations or associations.

a. Religious. A nonprofit organization whose primary purpose is one of the following:

i. To conduct religious worship;

ii. To support the religious activities of nonprofit organizations whose primary purpose is to conduct religious worship;

iii. To perform instruction in, to disseminate information about, or otherwise to further the teaching of particular religious faiths or tenets.

b. Educational. A nonprofit organization whose primary purpose is one of the following:

i. The instruction or training of the individual for the purpose of improving or developing his capabilities;

ii. The instruction of the public on subjects beneficial to the community.

An organization may be educational even though it advocates a particular position or viewpoint so long as it presents a sufficiently full and fair exposition of the pertinent facts to permit an individual or the public to form an independent opinion or conclusion. On the other hand, an organization is not educational if its principal function is the mere presentation of unsupported opinion.

c. Scientific. A nonprofit organization whose primary purpose is one of the following:

i. To conduct research in the applied, pure or natural sciences;

ii. To disseminate systematized technical information dealing with applied, pure or natural sciences.

d. Philanthropic. A nonprofit organization primarily organized and operated for purposes beneficial to the public. Philanthropic organizations include, but are not limited to, organizations that are organized for:

i. Relief of the poor and distressed or of the underprivileged;

ii. Advancement of religion;

iii. Advancement of education or science;

iv. Erection or maintenance of public buildings, monuments, or works;

v. Lessening of the burdens of government;

vi. Promotion of social welfare by organizations designed to accomplish any of the above purposes or:

(A) To lessen neighborhood tensions;

(B) To eliminate prejudice and discrimination;

(C) To defend human and civil rights secured by law; or

(D) To combat community deterioration and juvenile delinquency.

e. Agricultural. A nonprofit organization whose primary purpose is the betterment of the conditions of those engaged in agriculture pursuits, the improvement of the grade of their products, and the development of a higher degree of efficiency in agriculture. The organization may advance agricultural interests through educational activities; the holding of agricultural fairs; the collection and dissemination of information concerning cultivation of the soil and its fruits or the harvesting of marine resources; the rearing, feeding, and management of livestock, poultry, and bees, or other activities relating to agricultural interests. The term agricultural nonprofit organization also includes any nonprofit organization whose primary purpose is the collection and dissemination of information or materials relating to agricultural pursuits.

f. Labor. A nonprofit organization whose primary purpose is the betterment of the conditions of workers. Labor organizations include, but are not limited to, organizations in which employees or workmen participate, whose primary purpose is to deal with employers concerning grievances, labor disputes, wages, hours of employment and working conditions.

g. Veterans'. A nonprofit organization of veterans of the armed services of the United States, or an auxiliary unit or society of, or a trust or foundation for, any such post or organization.

h. Fraternal. A nonprofit organization that meets all the following criteria:

i. Has as its primary purpose the fostering of brotherhood and mutual benefits among its members;

ii. Is organized under a lodge or chapter system with a representative form of government;

iii. Follows a ritualistic format; and

iv. Is comprised of members who are elected to membership by vote of the members.

2000 Delivery of Mail

2010 Delivery Services

The Postal Service provides the following modes of delivery:

a. Caller service. The fees for caller service are set forth in Fee Schedule 921.

b. Carrier delivery service.

c. General delivery.

d. Post office box service. The fees for post office box service are set forth in Fee Schedule 921.

2020 Conditions of Delivery

2021 General

Except as provided in section 2022, 2030, and 3030, mail will be delivered as addressed unless the Postal Service is instructed otherwise by the addressee in writing.

2022 Refusal of Delivery

The addressee may control delivery of his mail. The addressee may refuse to accept a piece of mail that does not require a delivery receipt at the time it is offered for delivery or after delivery by returning it unopened to the Postal Service. For mail that requires a delivery receipt, the addressee or his representative may read and copy the name of the sender of registered, insured, certified, COD, return receipt, and Express Mail prior to accepting delivery. Upon signing the delivery receipt the piece may not be returned to the Postal Service without the applicable postage and fees affixed.

2023 Receipt

If a signed receipt is required, mail will be delivered to the addressee (or competent member of his family), to persons who customarily receive his mail or to one authorized in writing to receive the addressee's mail.

2024 Jointly Addressed Mail

Mail addressed to several persons may be delivered to any one of them. When two or more persons make conflicting orders for delivery for the same mail, the mail shall be delivered as determined by the Postal Service.

2025 Commercial Mail Receiving Agents

Mail may be delivered to a commercial mail receiving agency on behalf of another person. In consideration of delivery of mail to the commercial agent, the addressee and the agent are considered to agree that:

a. No change-of-address order will be filed with the post office when the agency relationship is terminated;

b. When remailed by the commercial agency, the mail is subject to payment of new postage.

2026 Mail Addressed To Organizations

Mail addressed to governmental units, private organizations, corporations, unincorporated firms or partnerships, persons at institutions (including but not limited to hospitals and prisons), or persons in the military is delivered as addressed or to an authorized agent.

2027 Held Mail

Mail will be held for a specified period of time at the office of delivery upon request of the addressee, unless the mail:

a. Has contrary retention instructions;

b. Is perishable; or

c. Is registered, COD, insured, return receipt, certified, or Express Mail for which the normal retention period expires before the end of the specified holding period.

2030 Forwarding and Return

2031 Forwarding

Forwarding is the transfer of undeliverable-as-addressed mail to an address other than the one originally placed on the mailpiece. All post offices will honor change-of-address orders for a period of time specified by the Postal Service.

2032 Return

Return is the delivery of undeliverable-as-addressed mail to the sender.

2033 Applicable Provisions

The provisions of sections 150, 250, 350, 450, 550, 935 and 936 apply to forwarding and return.

2034 Forwarding for Postal Service Adjustments

When mail is forwarded due to Postal Service adjustments (such as, but not limited to, the discontinuance of the post office of original address, establishment of rural carrier service, conversion to city delivery service from rural, readjustment of delivery districts, or renumbering of houses and renaming of streets), it is forwarded without charge for a period of time specified by the Postal Service.

3000 Postage and Preparation

3010 Packaging

Mail must be packaged so that:

a. The contents will be protected against deterioration or degradation;

b. The contents will not be likely to damage other mail, Postal Service employees or property, or to become loose in transit;

c. The package surface must be able to retain postage indicia and address markings;

d. It is marked by the mailer with a material that is neither readily water soluble nor easily rubbed off or smeared, and the marking will be sharp and clear.

3020 Envelopes

Paper used in the preparation of envelopes may not be of a brilliant color. Envelopes must be prepared with paper strong enough to withstand normal handling.

3030 Payment of Postage and Fees

Postage must be fully prepaid on all mail at the time of mailing, except as authorized by law or this Schedule. Except as authorized by law or this Schedule, mail deposited without prepayment of sufficient postage shall be delivered to the addressee subject to payment of deficient postage, returned to the sender, or otherwise disposed of as specified by the Postal Service. Mail deposited without any postage affixed will be returned to the sender without any attempt at delivery.

3040 Methods for Paying Postage and Fees

Postage for all mail may be prepaid with postage meter indicia, adhesive stamps, permit imprint, or other payment methods specified by the Postal Service. Prior authorization for use of certain payment methods may be required, as specified by the Postal Service. A fee is charged for authorization to use a permit imprint, as set forth in Schedule 1000.

3050 Reserved

3060 Special Service Fees

Fees for special services may be prepaid in any manner appropriate for the class of mail indicated or as otherwise specified by the Postal Service.

3070 Marking of Unpaid Mail

Matter authorized for mailing without prepayment of postage must bear markings identifying the class of mail service. Matter so marked will be billed at the applicable rate of postage set forth in this Schedule. Matter not so marked will be billed at the applicable First-Class rate of postage.

3080 Refund of Postage

When postage and special service fees have been paid on mail for which no service is rendered for the postage or fees paid, or collected in excess of the lawful rate, a refund may be made. There shall be no refund for registered, COD, general insurance, and Express Mail Insurance fees when the article is withdrawn by the mailer after acceptance. In cases involving returned articles improperly accepted because of excess size or weight, a refund may be made.

3090 Calculation of Postage

When a rate schedule contains per-piece and per-pound rates, the postage shall be the sum of the charges produced by those rates. When a rate schedule contains a minimum per-piece rate and a pound rate, the postage shall be the greater of the two. When the computation of postage yields a fraction of a cent in the charge, the next higher whole cent must be paid.

4000 Postal Zones

4010 Geographic Units of Area

In the determination of postal zones, the earth is considered to be divided into units of area thirty minutes square, identical with a quarter of the area formed by the intersecting parallels of latitude and meridians of longitude. The distance between these units of area is the basis of the postal zones.

4020 Measurement of Zone Distances

The distance upon which zones are based shall be measured from the center of the unit of area containing the dispatching sectional center facility or multi-ZIP coded post office not serviced by a sectional center facility. A post office of mailing and a post office of delivery shall have the same zone relationship as their respective sectional center facilities or multi-ZIP coded post offices, but this shall not cause two post offices to be regarded as within the same local zone.

4030 Definition of Zones

4031 Local Zone

The local zone applies to mail mailed at any post office for delivery at that office; at any city letter carrier office or at any point within its delivery limits for delivery by carriers from that office; at any office from which a rural route starts for delivery on the same route; and on a rural route for delivery at the office from which the route starts or on any rural route starting from that office.

4032 First Zone

The first zone includes all territory within the quadrangle of entry in conjunction with every contiguous quadrangle, representing an area having a mean radial distance of approximately 50 miles from the center of a given unit of area. The first zone also applies to mail between two post offices in the same sectional center.

4033 Second Zone

The second zone includes all units of area outside the first zone lying in whole or in part within a radius of approximately 150 miles from the center of a given unit of area.

4034 Third Zone

The third zone includes all units of area outside the second zone lying in whole or in part within a radius of approximately 300 miles from the center of a given unit of area.

4035 Fourth Zone

The fourth zone includes all units of area outside the third zone lying in whole or in part within a radius approximately 600 miles from the center of a given unit of area.

4036 Fifth Zone

The fifth zone includes all units of area outside the fourth zone lying in whole or in part within a radius of approximately 1,000 miles from the center of a given unit of area.

4037 Sixth Zone

The sixth zone includes all units of area outside the fifth zone lying in whole or in part within a radius of approximately 1,400 miles from the center of a given unit of area.

4038 Seventh Zone

The seventh zone includes all units of area outside the sixth zone lying in whole or in part within a radius of approximately 1,800 miles from the center of a given unit of area.

4039 Eighth Zone

The eighth zone includes all units of area outside the seventh zone.

4040 Zoned Rates

Except as provided in section 4050, rates according to zone apply for zone-rated mail sent between Postal Service facilities including armed forces post offices, wherever located.

4050 APO/FPO Mail

4051 General

Except as provided in section 4052, the rates of postage for zone-rated mail transported between the United States, or the possessions or territories of the United States, on the one hand, and Army, Air Force and Fleet Post Offices on the other, or among the latter, shall be the applicable zone rates for mail between the place of mailing or delivery and the city of the postmaster serving the Army, Air Force or Fleet Post Office concerned.

4052 Transit Mail

The rates of postage for zone-rated mail that is mailed at or addressed to an Armed Forces post office and is transported directly to or from Armed Forces post offices at the expense of the Department of Defense, without transiting any of the 48 contiguous states (including the District of Columbia), shall be the applicable local zone rate; provided, however, that if the distance from the place of mailing to the embarkation point or the distance from the point of debarkation to the place of delivery is greater than the local zone for such mail, postage shall be assessed on the basis of the distance from the place of mailing to the embarkation point or the distance from the point of debarkation to the place of delivery of such mail, as the case may be. The word “transiting” does not include enroute transfers at coastal gateway cities which are necessary to transport military mail directly between military post offices.

5000 Privacy of Mail

5010 First-Class and Express Mail

Matter mailed as First-Class Mail or Express Mail shall be treated as mail which is sealed against postal inspection and shall not be opened except as authorized by law.

5020 All Other Mail

Matter not paid at First-Class Mail or Express Mail rates must be wrapped or secured in the manner specified by the Postal Service so that the contents may be examined. Mailing of sealed items as other than First-Class Mail or Express Mail is considered consent by the sender to the postal inspection of the contents.

6000 Mailable Matter

6010 General

Mailable matter is any matter which:

a. Is not mailed in contravention of 39 U.S.C. Chapter 30, or of 17 U.S.C. 109;

b. While in the custody of the Postal Service is not likely to become damaged itself, to damage other pieces of mail, to cause injury to Postal Service employees or to damage Postal Service property; and

c. Is not mailed contrary to any special conditions or limitations placed on transportation or movement of certain articles, when imposed under law by the U.S. Department of the Treasury; U.S. Department of Agriculture; U.S. Department of Commerce; U.S. Department of Health and Human Services; U.S. Department of Transportation; and any other Federal department or agency having legal jurisdiction.

6020 Minimum Size Standards

The following minimum size standards apply to all mailable matter:

a. All items must be at least 0.007 inch thick, and

b. all items, other than keys and identification devices, which are 0.25 inch thick or less must be

i. rectangular in shape,

ii. at least 3.5 inches in width, and

iii. at least 5 inches in length.

6030 Maximum Size and Weight Standards

Where applicable, the maximum size and weight standards for each class or subclass of mail are set forth in sections 130, 230, 330, 430, 521.6, and 530. Additional limitations may be applicable to specific subclasses, and rate and discount categories as provided in the eligibility provisions for each subclass or category.

Stanley F. Mires,
Chief Counsel, Legislative.

[FR Doc. 02-12864 Filed 5-22-02; 8:45 am]

BILLING CODE 7710-12-P